FEDERAL COMMUNICATIONS COMMISSION

47 CFR Part 1

[MD Docket No. 20-270; FCC 20-184; FRS 17412]

Schedule of Application Fees of the Commission's Rules

AGENCY: Federal Communications Commission.

ACTION: Final rule.

SUMMARY: In this document, the Commission adopts a new application fee schedule that significantly updates the Commission's previous fee schedule in both the type of applications and the processes involved under section 158 (c)(2) of the Communications Act of 1934, as amended (the Act).

DATES: Effective April 19, 2021.

FOR FURTHER INFORMATION CONTACT: Roland Helvajian, Office of Managing Director at (202) 418-0444.

SUPPLEMENTARY INFORMATION: This is a summary of the Commission's Report and Order, FCC 20-184, MD Docket No. 20-270, adopted on December 23, 2020 and released on December 29, 2020. The full text of this document is available for public inspection and copying during normal business hours in the FCC Reference Center (Room CY-A257), 445 12th Street SW, Washington, DC 20554, or by downloading the text from the Commission's website at https://docs.fcc.gov/public/attachments/FCC-20-184A1.pdf.

I. Administrative Matters

A. Final Regulatory Flexibility Analysis

1. As required by the Regulatory Flexibility Act of 1980 (RFA), the Commission has prepared a Final Regulatory Flexibility Analysis (FRFA) relating to this Report and Order. The FRFA is located at the end of this document.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

3. The Commission has determined, and the Administrator of the Office of Information and Regulatory Affairs, Office of Management and Budget, concurs that these rules are non-major under the Congressional Review Act, 5 U.S.C. 804(2). The Commission will send a copy of this Report & Order to Congress and the Government Accountability Office pursuant to 5 U.S.C. 801(a)(1)(A).

1. Prior to adoption of the RAY BAUM'S Act, the Commission's authority to make changes to application fees was limited to biannual adjustments based on changes in the Consumer Price Index (CPI); the Commission was precluded from adding or deleting application fee categories.¹ A filing not listed on the section 8 application fee schedule did not have a fee unless such a fee was added by Congress. Congress also provided that certain categories of applicants should receive exemptions in section 8(d) of the Act. Such statutory exempt entities included nonprofit entities licensed in certain radio services, as well as all governmental entities.

¹ The Commission was required to adjust the fees every two years to reflect changes in the CPI. Under the new section 8(b)(1) of the Act, the Commission is similarly required to review application fees in every even-numbered year, adjust the fees to reflect increases or decreases in the CPI, and round to the nearest $5 increment. 47 U.S.C. 158(b)(1).

2. In 2018, as part of the RAY BAUM'S Act of 2018, Congress specifically required that the Commission (i) adopt a schedule of application fees to recover the costs to process applications and (ii) amend the schedule, as needed, to reflect increases or decreases in the costs of processing applications or to reflect the consolidation or addition of new categories. The RAY BAUM'S Act requires the Commission to base application fees on the “costs of the Commission to process applications.” ²

² Section 8(a) provides: “The Commission shall assess and collect application fees at such rates as the Commission shall establish in a schedule of application fees to recover the costs of the Commission to process applications.” 47 U.S.C. 158(a). The prior version of section 8(a) did not mention costs, it provided: “The Commission shall assess and collect application fees at such rates as the Commission shall establish or at such modified rates as it shall establish pursuant to the provisions of subsection (b) of this section.”

3. The Commission released a Notice of Proposed Rulemaking on August 26, 2020, seeking comment on proposed new, cost-based, application fees. The Commission proposed a new streamlined schedule of application fees to align with the types of applications the Commission now receives and to correlate the fees charged to the direct costs of processing the associated applications. In making the proposals under the revised statutory framework, the Commission proposed to adopt as overarching goals that the framework for assessing application fees would be fair, administrable, and sustainable.

4. The Commission sought comment on consolidating the application fees assessed on licenses for wireless services so that instead of separate application fees for each application in each wireless service, the fees would be consolidated into site-based licenses, personal licenses, and geographic-based licenses. The Commission also sought comment on consolidating some of the application fees for licenses from the Media Bureau and removing some broadcast applications from the fee schedule. In addition, the Commission sought comment on new application fees for certain applications in the Wireline Competition Bureau that currently do not have fees. For applications for international services, the Commission proposed to consolidate some of the application fees for space stations and earth stations, and add new application fees for some international services, such as petitions for United States market access for foreign space stations.

5. The Commission included estimates of the direct costs of processing the applications in support of the proposed fees. The Commission sought comment on the cost estimates and whether the appropriate steps in processing the application in estimating the costs were included.

6. The RAY BAUM'S Act fundamentally changed the structure of the Commission's application fees by moving from a schedule established by statute and updated to keep pace with the CPI to one where the Commission has discretion to amend the schedule of application fees itself and set them based on the costs of the Commission to process applications. To implement the RAY BAUM'S Act, we adopt a new streamlined schedule of application fees that aligns with the types of applications the Commission now receives and correlates the fees charged to the costs of processing the associated applications. In adopting rules under the revised statutory framework, our overarching goals in assessing application fees are that they are fair, administrable, and sustainable.

7. Methodology for Calculating Application Fees: The RAY BAUM'S Act directed the Commission to adopt a schedule of fees based on the cost of processing applications. In the NPRM,³ the Commission proposed to base the application fees on an estimate of direct labor costs where possible. Where that was not possible, the Commission proposed to base fees for applications that are largely automated using a calculation that accounts for the direct labor costs needed to process the small percentage of applications in these categories that require occasional staff involvement in processing. We adopt our proposals as modified herein. As we explain here generally, and in the discussion of individual fee categories more specifically, our methodology for calculating direct costs of application processing by design limits the set of activities that are included in our estimates.

³ 85 FR 65566 (October 15, 2020).

8. We adopt the proposal in the NPRM to use time and staff compensation (salaries and the cost of employer-paid personnel benefits) estimates to establish the direct labor costs of application fees. Specifically, the estimates we developed are based on applications processed by Commission staff found to be typical in terms of the amount of time spent on processing each type of application. We estimated the direct labor costs to process a particular application by multiplying an estimate of the number of hours needed for each task, up through first-level supervisory tasks required to process the application, by an estimate of the labor cost per hour for the employee performing the task and by an estimate of the probability that the task needed to be performed. We estimated labor cost per hour for the various general schedule pay grades of the employees that process applications based on the 2020 federal government pay table for Washington DC, at the step 5 level, as we currently do under our Freedom of Information Act rules. We estimated the cost of personnel benefits at 20% of the salary level also per that rule, and we assumed that each employee works 2,087 hours in one year. We also rounded each fee to the nearest $5 increment, as required by section 8. After careful analysis, we find these cost estimates are a reasonable cost basis for the application fees we adopt in this Report and Order.

9. National Association of Broadcasters (NAB) disagrees with our methodology and argues that application fees for broadcasters should not include supervisory tasks.⁴ We included the first-level supervisory costs because first-level supervisory labor is essential to the application process. An application decision typically cannot be finalized until it has been reviewed at least once and approved by a supervisor. Moreover, the first-level supervisory labor reflected in our estimates is an identifiable work activity that is a routine part of the application process and for which time estimates can be reliably developed relative to a specific type of application. Accordingly, we find it is appropriate to include supervisory tasks in our calculation of application fees.

⁴ NAB Comments at 7.

10. Some commenters argue that processes for some applications are so automated that there should be no application fee. We find there are some direct labor costs incurred for a portion of these applications and we therefore conclude that adoption of a fee to account for those costs is appropriate. We do, upon further consideration, lower the application fee from the amount proposed in the NPRM. We reviewed the significant automation involved in these applications and the minimal staff input normally incurred in processing the applications and determined that this lowered direct costs for the average application than we had initially estimated. The $35 cost-based fee we adopt for mostly automated applications assumes that a relatively small number of these applications require staff direct labor. For administrative purposes (including that neither we nor applicants can reliably anticipate which applications will require such intervention), we assess this $35 fee on each applicant for mostly automated applications as identified throughout this order.

11. A Streamlined Application Fee Schedule: We adopt a streamlined schedule of application fees, consolidating the eight separate categories of fees currently in our rules down to five functional categories: Wireless Licensing Fees, Media Licensing Fees, Equipment Approval Fees, Domestic Service Fees, and International Service Fees. In conjunction with this streamlining, we consolidate our approach to listing application fees, reducing the total number of application fees from 450 to 173, while still including new fees for services that were not listed previously in section 8 of the Act. This consolidation will provide a more straightforward roadmap for filers to determine what fees they owe with any given application filed with the Commission.

12. Wireless Licensing Fees: The Commission proposed in the NPRM to consolidate the wireless license application fees into four categories, instead of adopting separate fees for each service, and we implement those changes in this Report and Order.⁵ The fees we adopt are in the four categories consisting of site-based, personal,⁶ geographic-based, and experimental.⁷ The Universal Licensing System (ULS), the Commission's online software platform for licensing wireless services, provides for the filing, review, and disposition of all types of applications in the Wireless Radio Services, including auctioned geographic licenses, site-based licenses, and personal licenses.⁸ Because ULS allows for the automated processing of many types of applications, the fees we adopt today are in many cases lower than the prior fees (which were set by statute and not necessarily reflective of current agency costs). We direct the Wireless Telecommunications Bureau and the Office of the Managing Director to issue and maintain on an ongoing basis on the Commission's website a list of the fee categories and the wireless radio services within each.

⁵ 85 FR 65567 (October 15, 2020) at para 8.

⁶ The terms personal licenses and personal license services were used in the NPRM and are used here to refer to a grouping of radio services with similar characteristics and do not refer only to Personal Radio Services under part 95 of the Commission's rules, which does not include the Amateur Radio Service. Our intent here was to group radio services together that had similar types of data and levels of processing effort. As stated in the NPRM and in this Report and Order, with personal licenses, an applicant's initial application for authorization for a personal license seeks shared use of certain spectrum bands or a permit required for operation of certain radio equipment, but in either case, these applications focus only on eligibility and do not require technical review. The personal license fee category includes a mixture of radio services, including services covered by parts 13 (commercial operator), 80 (ship), 87 (aircraft), 95 (GMRS), and 97 (Amateur) of the Commission's rules.

⁷ See 85 FR 65567 (October 15, 2020) at para 8.

⁸ See id. ULS does not include licenses in the Experimental Radio Service. Applicants for conventional experimental licenses are required to file administrative and technical characteristics of their proposed experimental operation online in the Experimental Licensing System.

13. Site-Based Licenses: We adopt the site-based license application fees proposed in the NPRM.⁹ Site-based licensed services include land mobile systems (one or more base stations communicating with mobile devices, or mobile-only systems), point-to-point systems (two stations using a spectrum band to form a data communications path), point-to-multipoint systems (one or more base stations that communicate with fixed remote units), as well as radiolocation and radionavigation systems. Applications to authorize these types of radio systems contain similar types of data (location, antenna, frequency, path, mobile devices) and the applications for some of these services often require technical analysis and review by Commission staff.¹⁰ Specifically, an applicant's initial application for authorization generally provides the exact technical parameters of its planned operations (such as transmitter location, area of operation, desired frequency(s)/band(s), and power levels).¹¹ Deviation from the specific authorized parameters requires the licensee to file an application to modify the station which, depending on the nature of the modifications, may require prior approval (major modifications) or may simply require notification after the fact (minor modifications).¹² The construction notification (where required) confirms construction based on authorized parameters, and the licensee's renewal request confirms continued operation at those parameters.¹³ Depending on the particular service, the application may be significantly automated or may require detailed, often technical, review prior to initial authorization or major modification, and administrative review of minor modifications and of construction and renewal deadlines.

⁹ 85 FR 65567 (October 15, 2020) at para 11.

¹⁰ See id., e.g., sections 1.923, 101.21.

¹¹ See id., e.g., section 101.21(e).

¹² See id., e.g., sections 1.929, 1.947.

¹³ See id., e.g., section 1.949.

14. In the NPRM, the Commission proposed to consolidate application fees for these site-based licenses.¹⁴ We recognize that this consolidation includes both site-based licenses that require more staff input and site-based licenses that are largely automated and require less staff input. As one commenter, EWA, observed, part 90 licenses range from multi-frequency, multi-site systems seeking exclusivity and governed by complicated licensing requirements such as the eligibility criteria for particular 800 MHz frequencies to mobile-only systems requesting shared VHF/UHF itinerant frequencies throughout areas of operation such as counties, states, or even the entire nation, and currently they all have a $70 filing fee.¹⁵ EWA objected to the proposed fee increase from $70 to $190 for all part 90 applications because it included licenses for mobile-only systems that required almost no review by Commission staff.¹⁶ Another commenter, Moncure, also opposed the proposal to treat all site-based wireline services equally, asserting that for the part 90 site-based applications requiring frequency coordination, much of the processing needed by the Commission is automated, and the proposed fees are not justified.¹⁷

¹⁴ 85 FR 65567 (October 15, 2020) at para 11.

¹⁵ EWA Comments at 3-4.

¹⁶ EWA Comments at 3-4. Forest Industries Telecommunications (FIT) and Wireless Infrastructure Association (WIA) also disagree with the proposal to adopt a more than 171% increase. FIT Reply at 1; WIA Reply at 4.

¹⁷ Moncure Comments at 1.

15. In the NPRM, the Commission estimated that its resources in processing an application for a new site-based license or modification of an existing site-based license consisted of program analyst review and engineer technical review and involved, on average, $190 in costs. EWA asserted this was unreasonable because virtually all new and modified applications go through prior coordination by an FCC-certified Frequency Advisory Committee to verify that the technical parameters of the proposed system meet FCC requirements, and renewal showings now are based on check-the-box certifications on the Form 601.¹⁸ We disagree that applications involving a frequency coordinator involve no review; however, we agree with EWA that a large number of site-based licenses have lower processing costs, and consequently the proposed fee of $190 may be in some cases higher than the direct costs for certain types of part 90 applications. Streamlining the fee schedule is beneficial to licensees and the Commission, but such streamlining involves a certain amount of cost averaging. That said, on further review, and keeping in mind that such streamlining should not result in statistically inaccurate fees, we find that the number of more highly automated licenses in the fee category warrants a downward adjustment of the fee for this category. Accordingly, we increased the weighting for applications with lower processing costs in our calculation. Therefore, we adopt a fee of $95, a lower fee than proposed in the NPRM, for the applications in the site-specific services.

¹⁸ EWA Reply at 2.

16. The Commission estimated in the NPRM that its resources in processing an application for special temporary authority (STA) consisted of program analyst review and processing, engineer technical review, and supervisor coordination with management. Its estimate was that this process involved $135 in costs. We adopt the proposed fee of $135.

17. The Commission estimated in the NPRM that its resources in processing an application for an assignment or transfer of control consisted of program analyst review and processing, and it estimated that this process involved $50 in costs.¹⁹ In proposing and seeking comment on the adoption of a cost-based fee of $50 for an assignment or transfer of control application, the Commission indicated that this fee would be assessed on a per call sign basis.²⁰ However, the Commission also noted that, under the current rule, it sometimes assesses an application fee for additional call signs that is significantly lower than the fee for the initial call sign.²¹ EWA asserts that applying this same fees for every call sign in a transaction involving multiple call signs is unreasonable because less individual call sign review is needed for assignment or transfer applications since each license has been approved already by the FCC and the focus is on whether the assignee/transferee is qualified.²² EWA explains that for site-based Part 90 land mobile radio services, an entity must identify each transmitter site at which it operates, and ULS allows only six fixed transmitter sites per call sign.²³ A large business enterprise with many hundreds of sites could be required to hold a hundred or more individual call signs to cover its operating area.²⁴ EWA contends that virtually all site-based applications for assignments and transfers are processed under the overnight immediate approval procedures and no oversight is involved, whether the application involves a single license or two hundred licenses.²⁵ Therefore, according to EWA, assessing fees based on the number of call signs in the filing does not in any way reasonably represent the FCC resources associated with processing the application.²⁶ Upon consideration of the record, we conclude that the cost of processing additional call signs is less than the initial call sign and therefore, weighting the costs for this reduced burden, adopt a fee of $35 for each additional call sign for assignments and transfers of control. Further, an analysis of assignment and transfer of control applications over the past five years shows that more than 90% of these applications involved 10 or fewer call signs. Recognizing the diminishing identifiable direct costs associated with processing additional call signs in the same transaction, we find that reducing fees for additional call signs and capping the number of call signs feeable per application better reflects the predictable, identifiable, direct costs of processing most applications in this fee category. Accordingly, we adopt a cap on application fees for assignments and transfers of control, under which only the first 10 call signs are feeable (e.g., an assignment application with 15 call signs would be charged $365; $50 for first call sign, $35 each for nine additional call signs, and $0 for the five remaining call signs).

¹⁹ 85 FR 65567 (October 15, 2020) at para 12.

²⁰ Id. at 8, para. 18. (cite)

²¹ Id. (noting that the current fee for applications to assign or transfer control of common carrier microwave licenses is $110 for the first call sign and $70 for each additional call sign); see also id. at 5, para. 6 (stating that the current application fees for wireless telecommunications services are codified in section 1.1102 of the Commission's rules).

²² EWA Reply at 2.

²³ Id.

²⁴ Id.

²⁵ Id.

²⁶ Id.

18. In light of the adoption of a reduced fee and call sign cap for transactions involving multiple call signs, we will apply the same fee to all assignments and transfers of control. Verizon, in its objection to the proposal to assess fees on a per call sign basis, argues that the disproportionate nature of assessing fees based on the number of call signs is particularly highlighted when it comes to pro forma applications, which require no more than minimal staff review.²⁷ Such applications can involve numerous call signs, but do not involve any actual change to the controlling party of a Commission license, and the Commission has long held them to be “presumptively in the public interest.” ²⁸ Verizon argues the Commission should make clear that pro forma transactions, which the Commission has long held to be in the public interest, should not be subject to the same fees.²⁹ Our staff analysis finds identifiable direct costs associated with the processing of pro forma assignments and transfers of control, and therefore an application fee is appropriate. Moreover, we find that any concerns regarding disproportionate fees for these transactions are sufficiently mitigated by our adoption of a reduced fee for additional call signs and a cap of ten feeable calls signs per assignment or transfer of control application.

²⁷ Verizon Reply at 3.

²⁸ Id.

²⁹ Id at 5.

19. In contrast, we clarify that, in the context of assignments of licenses and transfers of control, the rule waiver fee we adopt is a per transaction fee, not a per call sign fee, as the Commission had proposed. In the NPRM, the Commission estimated that its resources in processing an application for rule waiver consist of program analyst review and processing, engineer technical review, attorney legal review, and supervisor coordination with management.³⁰ The Commission's estimate was that this process involved $380 in costs. EWA contends that the waiver fee should be imposed on the lead application, but not on related applications, since there is only a single waiver showing requiring FCC consideration.³¹ EWA states that the FCC licensing structure dictates the number of call signs involved in a system, a number that varies widely depending on the service.³² We agree with EWA's suggestion, and we clarify that we are adopting the waiver fee to be assessed on a per transaction basis and not per call sign. For assignments and transfers of control that include requests for waiver of the Commission's rules, the waiver fee will be charged on the lead application at the time of filing, with no charge assessed on related applications. A single fee will be charged for the entire request for waiver. This per transaction approach is limited to the context of assignments and transfers of control, and does not apply to other applications that include requests for waiver.

³⁰ 85 FR 65567 (October 15, 2020) at para. 12.

³¹ EWA Reply at 3.

³² Id.

20. We adopt a $35 fee for certain site-based applications that are all or mostly automated. As the Commission explained in the NPRM, the applications for site-based renewals and spectrum leasing, are all mostly automated and do not have specific staff costs for data input or review. The Commission proposed an application fee of $50 for these applications. We agree with commenters asserting that that identifiable direct costs for the majority of these applications are minimal, and, based on our revised analysis of the cost of processing mostly automated processes discussed in our methodology section, we therefore adopt a reduced fee amount of $35 for site-based renewals and spectrum leasing for site-based licenses.

21. We adopt the proposal in the NPRM not to assess separate application fees for administrative updates, minor modifications, and license cancellations. In each of these cases, we find it difficult to calculate identifiable direct costs beyond those included in the calculation of the underlying license fee. For administrative updates we find it is difficult to calculate identifiable direct costs beyond those included in the calculation of the initial application fee for the license. Therefore, we are not adopting a separate fee for administrative updates. Minor modifications are largely automated, e.g., a minor modification to remove facilities, so it is difficult to calculate identifiable direct costs beyond those included in the calculation of the initial application fee associated with the application being modified. Moreover, such modifications also are in the public interest. Therefore, we are not adopting a separate fee for minor modifications. Similarly, we note that cancelling a license in its entirety would not include identifiable costs beyond the initial application fee calculation. If, in the future, we are able to calculate an identifiable direct cost for such filings, beyond what is included in underlying license fee, we may revisit this issue. Our determination here is indicative of our careful approach to adopting fees under section 8 to ensure our process is fair, administrable, and sustainable.³³

³³ We take a similar approach in the regulatory fee context where adoption of new fees and/or changes in fee categories is occasionally accomplished only after examining the issue multiple times to ensure that the record supports our actions. See, e.g., Assessment and Collection of Regulatory Fees for Fiscal Year 2020, Report and Order and Notice of Proposed Rulemaking, 35 FCC Rcd 4976, 4979-4980, para. 8 (2020), 85 FR 59864 (September 23, 2020).

22. For the same reason, we decline to adopt the separate fees proposed in the NPRM for construction notifications associated with site-based license applications. EWA objected to such fees, asserting that the processing of site-based construction notifications is automated; the Commission has no staff costs for data input or review; and virtually all are granted overnight and thus, the proposed fees of $50 per call sign was unreasonable.³⁴ Guse contends that charging fees for filing construction notifications will lead to a reduced level of filing which will result in unlicensed operation by entities that had obtained a license.³⁵ After review of the record, we agree that it is difficult to calculate identifiable direct costs beyond those already included in the initial application fee for site-based construction notifications; we therefore conclude that we will not impose an additional application fee for site-based construction notifications.³⁶ In contrast, with respect to construction extension requests, we find that individual staff review of such filings is required and conclude that the identifiable direct costs do warrant imposition of an application fee; we therefore adopt the $50 application fee proposed in the NPRM for extension requests.

³⁴ EWA Comments at 8.

³⁵ Guse Reply at 1.

³⁶ Our determination here related to construction notifications is limited to site-based licenses. Review of construction notifications for geographic-based licenses have several calculated identifiable direct costs, resulting in the finding that adoption of a cost-based fee is appropriate. See infra para. 48.

23. We further decline to adopt a separate application fee for amendments. CTIA contends that minor amendments, by definition, do not involve major changes that require significant new staff review and thus impose minimal new labor costs and exempting these types of amendments from processing fees would be more consistent with Congress's intent and the Commission's goals in this proceeding to align fees with costs.³⁷ EWA argues against imposing a fee for amendments because amendments may be required for a variety of reasons and, in some instances, the FCC returns applications for reasons that subsequently are determined to be incorrect and correcting the matter still may require the applicant to file an “amendment” explaining why no amendment is needed.³⁸ Another commenter, Guse, contends that charging fees for amendments is poor policy because the fee increases and additions will discourage entities from obtaining licenses and there is no reason to charge fees for actions that usually do not require FCC staff involvement.³⁹ We agree that with respect to such applications it is difficult to calculate identifiable direct costs beyond those included in the calculation of the underlying license fee and find that amendments allowed as part of an application should not be assessed an additional fee beyond the initial fee for the underlying application.⁴⁰ If, in the future, we are able to calculate an identifiable direct cost for such filings, beyond what is included in the underlying license fee, we may revisit this issue.

³⁷ CTIA Comments at 11.

³⁸ EWA Comments at 9.

³⁹ Guse Reply at 1.

⁴⁰ We note, however, that where filings effectively constitute a new application, a new application fee would be required. For example, an amendment to add call signs could be construed, given the per-call sign application fee, to be a new filing requiring the requisite application fee.

24. We decline to adopt the proposal in the NPRM to assess a fee for requests to receive a physical license by mail (including requests for a duplicate authorization) because the Commission has adopted an order eliminating these services.⁴¹

⁴¹ See Completing the Transition to Electronic Filing, Licenses and Authorizations, and Correspondence in the Wireless Radio Services, WT Docket No. 19-212, Report and Order, 35 FCC Rcd 10781 (2020) (E-Licensing Order).

25. In all other respects, we adopt the fees proposed in the NPRM and discussed in the paragraphs above and as reflected in the schedule of fees in the final rules.

26. Wireless Licensing Fees—Personal Licenses: We adopt the categories of personal license application fees proposed in the NPRM. The Commission proposed a fee of $50 for each of these applications. The Sonoma County Radio Amateurs, Amateur Radio Relay League (ARRL), and many individual commenters contend that the proposed $50 fee for Amateur Radio Service applications is too high and will prevent amateurs from joining the amateur radio service; instead, they contend, the Commission should adopt no fee or a nominal fee.⁴² We agree with commenters asserting this fee is too high to account for the minimal staff involvement in these applications and therefore adopt a reduced amount of $35 fee for all personal license application fees.⁴³

⁴² Sonoma County Radio Amateurs at 1.

⁴³ See, e.g., ARRL Comments at 6; Knowles Comments at 4-10; Sonoma County Radio Amateurs at 1.

27. In 2019, the Commission received over 197,000 personal license applications. Several services in the personal licenses category will be subject to new fees, such as Amateur Radio Service licenses, which were not listed on the fee schedule in the prior version of section 8 of the Act, but are now subject to fees under the RAY BAUM'S Act. In the NPRM, we sought comment on adopting cost-based fees for personal license applications.

28. Personal licenses include Amateur Radio Service licenses (used for recreational, noncommercial radio services), Ship licenses (used to operate all manner of ships), Aircraft licenses (used to operate all manner of aircraft), Commercial Radio Operator licenses (permits for ship and aircraft station operators, where required), and General Mobile Radio Service (GMRS) licenses (used for short-distance, two-way voice communications using hand-held radios, as well as for short data messaging applications).⁴⁴ With personal licenses, an applicant's initial application for authorization seeks shared use of certain spectrum bands, or a permit required for operation of certain radio equipment. In either case, these applications focus only on eligibility and do not require technical review. As such, there is no construction requirement (or related filings) and renewal filings are non-technical as well. For these reasons, applications in these services are highly automated and should be subject to the same assessment of fees.

⁴⁴ 85 FR 65567 (October 15, 2020) at para. 17.

29. Numerous commenters suggest that amateur radio licenses should be exempted or are exempt under section 8(d)(1) of the Act. We disagree and note as a starting point that the Commission has no authority to create an exemption where none presently exists. Thus, if an exemption exists, it must be contained within the wording of section 8(d)(1) of the Act.⁴⁵ None of the listed exemptions apply to exempt Amateur Radio Service licenses.

⁴⁵ 47 U.S.C. 158(d)(1). The exemptions are the following: “(A) a governmental entity; (B) a nonprofit entity licensed in the Local Government, Police, Fire, Highway Maintenance, Forestry-Conservation, Public Safety, or Special Emergency Radio radio services; or (C) a noncommercial radio station or noncommercial television station.” Id. We note that the capitalization of the terms in section 8(d)(B) derive from the historical context of when they were first adopted as they refer to the names of current or former FCC radio services. See, e.g., Establishment of a Fee Collection Program to Implement the Provisions of the Consolidated Omnibus Budget Reconciliation Act of 1985, Report and Order, 2 FCC Rcd 947, 958, 959-60, 963, paras. 71, 75-80, 111 & n.101 (1987); Notice of Proposed Rulemaking, 1986 WL 292181, at *11, para. 53 & n.55. Because Amateur Radio Service licenses are not and were never licensed under any of those radio services, they cannot take advantage of the statutory exemption.

30. AGC argues that amateur radio licenses should be exempt under section 8(d)(1)(B) as they are “operating for all intents and purposes as non-profit entities” because they provide public safety and special emergency radio services in times of crisis on a volunteer basis.⁴⁶ While we are very much aware of these laudable and important services amateur radio licensees provide to the American public, we do not agree that amateur radio licenses fit within the section 8(d)(1)(B) exemption Congress provided. These specific exemptions do not apply to the amateur radio personal licenses. Emergency communications, for example, are voluntary and are not required by our rules. Further, there is no indication that most or all amateurs solely use their license for emergency communications; even the section of our rules allowing certain amateur operators to broadcast civil defense communications limit such authorization to periods of local, regional or national civil emergencies. As we have noted previously, “[w]hile the value of the amateur service to the public as a voluntary noncommercial communications service, particularly with respect to providing emergency communications, is one of the underlying principles of the amateur service, the amateur service is not an emergency radio service.”

⁴⁶ AGC Comments at 4.

31. We also disagree with commenters ⁴⁷ that argue that amateur radio operators are among the “noncommercial” entities that fall under section 8(d)(1)(C)'s exemption for “a noncommercial radio station or a noncommercial television station.” ⁴⁸ Although, under Commission rules, amateur radio is a “voluntary noncommercial service,” ⁴⁹ we do not believe Congress intended to cover amateur radio operators under the newly added exemption. That rule was based on the Commission's determination that Congress intended to exempt noncommercial educational (NCE) broadcast stations from the application fees.⁵⁰ Given that the Commission's longstanding exemption rule of over 30 years covered only noncommercial educational broadcast stations, Congress presumably would have more clearly indicated an expanded exemption if it had intended one to cover amateur radio service. We see no such indication here. To the contrary, we believe Congress's inclusion of the term “noncommercial television station” immediately following “noncommercial radio station” cabins the contextual meaning of that term.⁵¹ We did not then 30 years ago, nor do we now, conclude that the exemption covers non-broadcast services.”

⁴⁷ See, e.g., Golden Reply at 3 and 4-5.

⁴⁸ See, e.g., Griffin C. Klema, Esq. Comments at 2 (“so long as an applicant or licensee fits the definition of a `noncommercial' it is expressly exempted from the cost-based fee regime under section 8”); Christopher Ruvolo Comments at 1-3 (“Licensed amateur stations meet the `noncommercial' requirement of the exceptions authorized under 47 U.S.C. 158(d)(1)(C)”); Golden Reply at 3 and 4-5 (arguing that the exemption in 8(d)(1)(C) is not limited to broadcast licensees and includes amateur radio licensees).

⁴⁹ See 47 CFR 97.1(a) (identifying one of the fundamental purposes of the amateur radio service includes “[r]ecognition and enhancement of the value of the amateur service to the public as a voluntary noncommercial communication service, particularly with respect to providing emergency communications”); 97.3(a)(4) (defining “Amateur service” as a “radiocommunication service for the purpose of self-training, intercommunication and technical investigations carried out by amateurs, that is, duly authorized persons interested in radio technique solely with a personal aim and without pecuniary interest”); 97.113(a)(2), (3) (prohibiting amateur stations from transmitting “communications for hire or for material compensation, direct or indirect, paid or promised” or “communications in which the station licensee or control operator has a pecuniary interest”); see also 47 U.S.C. 153(3) (defining “amateur station” as a radio station operated by a duly authorized person interested in radio technique solely with a personal aim and without pecuniary interest”).

⁵⁰ Application Fee NPRM, para. 13 & note 13 (explaining that the exception in § 1.111 was based on the statements in Conference Report to accompany H.R. 3128, House of Representatives Report No. 99-453 indicating that that “non-commercial radio and television stations will not be subject to any of the fees listed in this schedule.” 1985 Conference Report at 423; 425, 426. Moreover, the legislative history to the 1989 amendments to section 8 reaffirmed the point. Conference Report to accompany H.R. 3299, House of Representative Report No. 101-386 (1989) (“Non-commercial broadcasters were excluded from the initial Schedule of Charges passed in 1985. The House recedes to the Senate position and agrees to continue to exclude non-commercial broadcasters from the Schedule of Charges.”)).

⁵¹ See Yates v. U.S., 574 U.S. 528, 543 (2015) (explaining the principle of noscitur a socii—a word is known by the company it keeps—to avoid ascribing to one word a meaning so broad that it is inconsistent with its accompanying words thus giving unintended breadth to the Acts of Congress).

32. Lastly, while fees for amateur radio licenses were not previously listed on the fee schedule in section 8 of the Act, the RAY BAUM'S Act directed the Commission to establish fees for all applications and there is no specific exemption for this radio service under section 8 of the Act as amended. If Congress had intended to exempt amateur radio licensees from payment of application fees, it would have identified this service as exempt, as it did in section 9 of the Act, exempting “an amateur radio operator licensee under part 97 of the Commission's rules” from payment of regulatory fees. While the RAY BAUM'S Act amended section 9 and retained the regulatory fee exemption for amateur radio station licensees, Congress did not include a comparable exemption among the amendments it made to section 8 of the Act. Indeed, had Congress intended amateur radio operators to be covered under the “noncommercial radio station” exemption in section 9(e)(1)(C), it would have been unnecessary to retain the regulatory fee exemption for amateur radio operators in section 9(e)(1)(B). Having included both provisions in section 9, we believe the most reasonable interpretation is that Congress did not intend for the noncommercial radio and television station exemption to cover the amateur radio service. Given the identical language appears in section 8(d)(1)(C), we interpret the exemptions consistently ⁵² and conclude that amateur radio station licensees are not covered under that exemption.

⁵² See Law v. Siegal, 571 U.S. 415, 422 (2014) (under the “normal rule of statutory construction”, “words repeated in different parts of the same statute generally have the same meaning”).

33. Some commenters support the $50 fee we proposed in the NPRM as reasonable and fair.⁵³ However, ARRL and many individual commenters argue that there is no cost-based justification for application fees for the Amateur Radio Service. ARRL explains that the service is largely self-governing and amateur radio operators prepare and administer examinations for amateur licenses.⁵⁴ They explain that preparing, administering, grading, and reporting amateur examinations has been done exclusively by amateur radio organizations that in turn submit to the Commission only the paperwork required to issue a license.⁵⁵ Several individual commenters argue that the only costs associated with this service relate to entry into and maintenance of ULS, which costs should be $0 per application and nominal per licensee (to cover FRN creation and ULS entry).⁵⁶ Others acknowledge that there may be some incremental costs associated with applications for vanity call signs or requests for paper licenses, but not with other applications that are entirely automated.⁵⁷ Other commenters propose graduated fees (generally starting at $0) for the different license classes (i.e., Technician, General, Extra), or for new licenses, renewal, vanity call sign, etc.⁵⁸

⁵³ See, e.g., Greg Gallop Comments at 1; Serge Miller Comments at 1; Carl Akers Comments at 1; Mark Brown Comments at 1.

⁵⁴ ARRL Comments at 2-3. ARRL is also known as the American Radio Relay League.

⁵⁵ Id. at 3.

⁵⁶ See, e.g., Vollie T. Miller Comments at 1; Charles McKinnis Comments at 1; Terry Whitehead Express Comments at 1.

⁵⁷ See, e.g., Arthur Clark Comments at 1; Kim & Ralph Irons Comments at 1; Christopher A. Merck Comments at 1.

⁵⁸ See, e.g., Charles Bierwirth Comments at 1; Henry Silver Comments at 1; John Eddy Comments at 1.

34. We agree that the applications for amateur licenses, and other personal licenses, are largely automated, and for that reason the cost-based fee we adopt is only $35. With respect to the amateur licenses, while review is highly automated, staff must maintain the processing system to ensure applicants are qualified, vanity call sign procedures are followed, and off-lined applications are individually reviewed.⁵⁹ Therefore, we cannot conclude that there are no costs involved in processing the applications and we do not have the discretion to exempt this service from application fees.

⁵⁹ To the extent the NPRM could be construed as basing the proposed amateur radio service application fee in part on ULS maintenance costs, see Joseph H. Hibberd Comments at 1-2, we do not consider such costs in establishing the $35 fee in this Order.

35. ARRL and many individual commenters additionally claim that the proposed fee will harm the public interest by discouraging people who are younger from becoming licensed or by causing people who are older and living on fixed income to leave the service (depriving others of their skills and experience).⁶⁰ These commenters explain that participation in the amateur radio service can be an entry point to science, technology, engineering, and math careers.⁶¹ They also note that amateur licensees have driven innovation in communications and other technologies.⁶² While we agree that participation in the Amateur Radio Service offers important public interest benefits, that determination does not alter our obligation under RAY BAUM's Act to adopt cost-based fees for processing applications regarding nonexempt service.

⁶⁰ See ARRL Comments at 6, 9; see also, e.g., Robert S. Antoniuk Comments at 1; Brian Wasson Comments at 1.

⁶¹ See, e.g., ARRL Comments at 9.

⁶² See, e.g., ARRL Comments at 6; Jamie Heim Comments at 1.

36. Other commenters argue that it is unreasonable for the Commission to impose fees on Amateur Radio Service licensees given that the Commission has outsourced many of the administrative functions for the service. Individual operators and their organizations perform not only the training and examination functions we have discussed, but also assist the Enforcement Bureau in policing the service for unlicensed operations and other interference issues.⁶³ These commenters argue that if the Commission adopts application fees for the service, it should use the fees for the benefit of licensees, for example, by taking more robust enforcement actions against unlawful operators.⁶⁴ While we appreciate the commenters' diligent advocacy for their service, we remind them that the Commission does not have discretion on how to use application fees, which must be deposited in the U.S. Treasury.

⁶³ See Amy S. Lindenmuth, Calvin T. Wagner Jr., Frances R. Wagner Comments at 1.

⁶⁴ See Jordan Nash Comments at 1; Joseph Grib Express Comments at 1; Paul Andrews Express Comments at 1.

37. One commenter, Knowles, contends that the proposed $50 fee for GMRS is too high, as the application process is automated.⁶⁵ There is no testing involved, as with the amateur license. We recognize that the application process for GMRS licenses is highly automated. There are, however, some costs involved in ensuring applicants are qualified and off-lined applications are individually reviewed, and we cannot conclude that there are no costs involved.

⁶⁵ Knowles Comments at 4-10.

38. After reviewing the record, including the extensive comments filed by amateur radio licensees and based on our revised analysis of the cost of processing mostly automated processes discussed in our methodology section, we adopt a $35 application fee, a lower application fee than the Commission proposed in the NPRM for personal licenses, in recognition of the fact that the application process is mostly automated.⁶⁶

⁶⁶ See, e.g., several other applications, such as for license renewal and spectrum leasing in the site-based category, that are largely automated and now have $35 fees.

39. We adopt the proposal from the NPRM to assess no additional application fee for minor modifications or administrative updates, which also are highly automated. Also, consistent with our decision for site-based applications, we do not adopt a fee for amendments. We find that it would difficult to calculate identifiable direct costs beyond those included in the calculation of the underlying license application fee adopted for personal license services. If, in the future, we are able to calculate an identifiable direct cost for such filings, beyond what is included in underlying license fee, we may revisit this issue. We also decline to adopt a fee for instances where an applicant elects to receive a physical license by mail (including requests for a duplicate license), because the Commission has adopted an order eliminating such printing and mailing services.

40. We adopt the fees proposed in the NPRM as modified in the paragraphs above and as reflected in the schedule of fees in the final rules.

41. Geographic-Based Licenses: We adopt the geographic-based license application fees proposed in the NPRM. We further consolidate the short-form and long-form auction fees into a single fee that is paid by the entities that win the licenses in an auction. We conclude that a consolidated fee is consistent with section 8 and will also promote the various objectives of spectrum auctions enumerated in section 309(j) of the Communications Act.⁶⁷

⁶⁷ 47 U.S.C. 309(j)(3). For example, one such objective that may be impacted by reduced competition resulting from a short form fee assessed on all auction participants is the “recovery for the public of a portion of the value of the public spectrum resource made available for commercial use.” Id. Section 309(j)(3)(C).

42. Geographic-based licenses authorize an applicant to construct anywhere within a particular geographic area's boundary (subject to certain technical requirements, including interference protection) and generally do not require applicants to submit additional applications for prior Commission approval of specific transmitter locations. Geographic-based licensing services include the 220-222 MHz Service (used for flexible wireless services over narrowband frequencies), 24 GHz Service and Upper Microwave Flexible Use Service (used for a variety of data services), Multilateration Location and Monitoring Service (used to locate and monitor remote radio units), Multiple Address System (used for supervisory control and data acquisition services), Multichannel Video Distribution and Data Service (used for TV programming and internet connectivity), Paging and Radiotelephone Service (used for narrowband one-way and two-way land mobile communications), VHF Public Coast Stations (used as a maritime mobile service to address the distress, navigational, and business communications needs of vessels), and 800 MHz and 900 MHz Specialized Mobile Radio Service (used for flexible wireless services to businesses and consumers).

43. Some geographic-based services, such as the Advanced Wireless Service, Broadband Personal Communications Service, and the 600 MHz, 700 MHz,⁶⁸ 3.5 GHz,⁶⁹ and 3.7-4.2 GHz Services,⁷⁰ did not have application fees previously; however, the RAY BAUM'S Act requires the Commission to collect fees for all applications, unless specifically exempt. For these geographic-based services, an applicant's initial application is generally accepted as a result of an auction and focuses on the area and spectrum of interest, as well as the applicant's eligibility and qualifications. Applications in these services require detailed eligibility review prior to initial authorization, detailed technical review of construction filings, and detailed service review at renewal in some circumstances.

⁶⁸ The subdivisions of the 700 MHz band by radio service code and name are as follows: WU 700 MHz Upper Band (Block C), WX 700 MHz Guard Band, WY 700 MHz Lower Band (Blocks A, B, E), WZ 700 MHz Lower Band (Blocks C, D).

⁶⁹ More specifically, this as radio service code is “Public Law 3.5 GHz, Auctioned” and we call this elsewhere Citizens Band Radio Service or CBRS.

⁷⁰ Also referred to as 3.7-3.98 GHz band (or the “3.7 GHz Service”).

44. We adopt the proposal in the NPRM to adopt a single fee that is paid by an entity that wins licenses in an auction. In the NPRM, the Commission sought comment on whether it should adopt separate short-form and long-form application fees or a single auction fee at the long-form stage so that only a winning bidder would be required to pay a combined application fee. Commenters recommend that the Commission consolidate auction application processing costs and impose a fee only on successful bidders that file long-form applications.⁷¹

⁷¹ EWA Comments at 5; WISPA Comments at 4.

45. We conclude that a single fee is consistent with section 8 and will also promote the various objectives of spectrum auctions enumerated in section 309(j) of the Communications Act.⁷² We recognize that a single fee would not require the short-form applicants that do not become winning bidders to pay an application fee; only the winning bidders would pay for the costs of processing applications. However, we find Section 8 is ambiguous on whether we must treat each stage of an application for an auctioned spectrum license (which requires a short-form application, a long-form application, along with an indeterminate number of bids) as one, two, or multiple applications.⁷³ To the extent we have discretion in interpreting that provision, we exercise it in line with the record and our view that the short-form filing(s), any bids, and long-form filing(s) are part of a single “application” within the scope of section 8 such that a fee is required only once that application is submitted at the long-form stage. We also note that developing and implementing changes to the electronic auction application system, including integrating such changes with other electronic databases, to require a payment from each auction participant at time of filing a short-form would require significant effort upon the part of the Commission and could delay our ability to expeditiously conduct auctions in the next year. Any such delays would be avoided by waiting until the long-form application is due from the winning bidders and imposing a single application fee at that time to cover costs of processing of applications for licenses assigned by auction. Because this consolidated payment process avoids such delays, we find that a reasonable exercise of our discretion consistent with the requirement in section 8(a) that the fees “recover the costs of the Commission to process applications” and our obligation under section 309(j).⁷⁴

⁷² 47 U.S.C. 309(j)(3). For example, one such objective that may be affected by reduced competition is the “recovery for the public of a portion of the value of the public spectrum resource made available for commercial use.” Id. Section 309(j)(3)(C).

⁷³ Indeed, one could plausibly argue that each bid for a spectrum license is its own request or “application” for that license, but we find no evidence that Congress intended us to require a separate filing fee each time an applicant made any filing with respect to a particular spectrum license.

⁷⁴ Nothing in our treatment of auction applications for fee purposes should be construed to affect any other obligations under our auction rules.

46. One commenter, Select Spectrum disagrees with the proposal to assess application fees for auction participation generally and contends that such a fee would threaten robust and diverse auction participation by small-scale enterprises and others.⁷⁵ Alternatively, contends Select Spectrum, these fees, at minimum, should be waived for all organizations filing for Designated Entity status as a small business, tribal land, or rural service provider qualifying party.⁷⁶ Select Spectrum argues that such exemption would help to preserve auction participation by the entities that would be impacted the most by these fees, while still allowing the Commission to collect fees from larger organizations that elect to participate.⁷⁷ Although we agree that a robust and diverse auction is an important goal, there is no exemption in section 8 for auction applications.⁷⁸ We further find that adopting the proposal to consolidate the short-form and long-form fees addresses in part the concerns raised by Select Spectrum in that only winning bidders will be assessed these fees and it will reduce the financial risk of all organizations with Designated Entity status to the extent they will not be subject to such fees unless they are winning bidders in an auction.

⁷⁵ Select Spectrum LLC, Kitsune Communications LLC, Columbia Energy, LLC/Columbia Rural Electric Association, Diode Cable Co., Jade Communications LLC, Spectrum Financial Partners, LLC, SonicNet Inc., Southern Ohio Communication Services, Inc., Bayfield Wireless, Desert Winds Wireless/Performance Computing/Preferred Networks (Select Spectrum) Comments at 2.

⁷⁶ Id.

⁷⁷ Id.

⁷⁸ Under the RAY BAUM'S Act, the exemptions are to “(A) a governmental entity; (B) a nonprofit entity licensed in the Local Government, Police, Fire, Highway Maintenance, Forestry-Conservation, Public Safety, or Special Emergency Radio radio services; or (C) a noncommercial radio station or noncommercial television station.” 47 U.S.C. 158(d)(1).

47. We adopt a single application fee of $3,175 as proposed. Each applicant would be charged one fee of $3,175, regardless of the number of licenses won at auction.

48. We adopt the fees for a new license or a major modification, renewal, minor modifications, construction notification or extension, and STA proposed in the NPRM. ⁷⁹ In the NPRM, the Commission estimated that its resources in processing an application for a new license or a major modification (not a long-form or short-form application) consist of program analyst review and processing, engineer technical review, map review, and attorney supervisor legal review. Our estimate is that this process involves $305 in costs.⁸⁰ The Commission estimated that its resources in processing an application for a renewal consist of analyst review, engineer technical review, and exhibit review, involving $50 in costs.⁸¹ The Commission estimated that its resources in processing an application for a minor modification consist of engineer technical review and map review, involving $200 in costs.⁸² The Commission estimated that its resources in processing an application for construction notification or extension consist of program analyst review and processing, engineer technical review, analysis, validation of coverage, attorney legal review, and supervisor coordination with management, involving $290 in costs.⁸³ The Commission estimated that its resources in processing an application for STA consist of a contractor entering data in the ULS, a program analyst preparing a public notice accepting the application for filing, program analyst review, supervisor coordination with management, and a program analyst preparing the public notice granting or denying the application, involving $335 in costs.⁸⁴ We adopt these proposed fees.

⁷⁹ 85 FR 65568 (October 15, 2020) at para. 25.

⁸⁰ 85 FR 65568 (October 15, 2020) at para. 26.

⁸¹ Id.

⁸² Id.

⁸³ Id.

⁸⁴ 85 FR 65568 (October 15, 2020) at para. 26-27.

49. We adopt with modification the proposal in the NPRM to assess a $195 fee for assignment or transfer of control and assess such fees on a per call sign basis. We modify the proposal by reducing the fee for each additional call sign to $35 and capping the number of calls signs assessed a fee on the same application at 10. In the NPRM, the Commission estimated that its resources in processing an application for assignment or transfer of control consist of program analyst review, engineer technical and map review, and supervisor legal review, involving $195 in costs.⁸⁵ The Commission had proposed the fee for assignment or transfer of control on a per call sign basis. Commenters disagree. CTIA contends that the number of call signs in an application should not be the basis for assessing fees because it does not proportionally increase the Commission's processing costs and may lead to unfair or inappropriate results.⁸⁶ CTIA explains that, for example, applications that currently incur fees on a per-call sign basis seek Commission approval for a variety of transactions, and Commission staff largely analyze and process them on a holistic, per-transaction, not a per-call sign, basis.⁸⁷ CTIA observes that some complex transactions requiring significant staff review may involve only a handful of call signs, and thus incur limited application processing fees, while simpler transactions requiring minimal staff review may involve a larger number of call signs and thus incur comparatively higher application processing fees.⁸⁸ After reviewing the record, we agree with CTIA and the other commenters that oppose the proposed fee on a per call sign basis for call signs beyond the first 10. As we found with the site-based licenses, a lower fee of $35 for subsequent call signs and a cap of fees at 10 total call signs on the same application is an appropriate cost-based fee.

⁸⁵ Id.

⁸⁶ CTIA Comments at 5.

⁸⁷ Id.

⁸⁸ Id.

50. We adopt the proposals in the NPRM for application fees for spectrum leasing, waiver, and designated entity licensee reportable eligibility event, with one modification. Similar to our decision for site-based licenses, we clarify that in the context of assignments and transfers of control, the rule waiver fee we adopt is a per transaction fee, not a per call sign fee. The waiver fee will be charged on the lead application at the time of filing, with no charge assessed on related applications. This per transaction approach is limited to the context of assignments and transfers of control, and does not apply to other applications that include requests for waiver. In the NPRM, the Commission estimated that its costs in processing an application for spectrum leasing consist of program analyst review and processing, engineer technical review and map review, and attorney supervisor legal review, involving $165 in costs. The Commission estimated that its resources in processing an application for waiver consist of program analyst review and processing, engineer technical review, attorney review, and supervisor coordinate with management, involving $380 in costs.⁸⁹ The Commission estimated that its resources in processing an application for a designated entity licensee reportable eligibility event consist of attorney-supervisor legal review, involving $50 in costs. We adopt the application fee for assignment and transfer of control for $380 and a $50 fee for a designated entity licensee reportable eligibility event.

⁸⁹ Consistent with existing practice, a request for waiver filed as part of an auction application would not be feeable. The waiver fee would be imposed on all other requests for waiver submitted in connection with geographic-based licenses, including any such request made by a potential auction applicant that is not filed as part of an auction application and any waiver request filed in association with an auction winner's long-form application.

51. We adopt the fees proposed in the NPRM as modified in the paragraphs above and as reflected in the schedule of fees in the final rules.

52. The Educational Broadband Service (EBS) Exemption. The Commission adopts its proposal to eliminate § 1.1116(e)(4) of our rules. In light of the changes the Commission made in 2019 to its EBS rules, we conclude that a blanket exemption of EBS licensees no longer is appropriate. We note that governmental entities that hold EBS licenses would continue to be exempt from application fees under § 1.1116(f) of our rules.

53. Eligibility to hold EBS licensees previously was limited to (1) accredited public and private educational institutions, (2) governmental organizations engaged in the formal education of enrolled students, and (3) nonprofit organizations whose purposes are educational and include providing educational and instructional television materials to accredited institutions and governmental organizations. EBS licenses also were subject to educational use and lease restrictions. In 2019, however, as part of the Commission's ongoing effort to maximize spectrum use in the commercial marketplace, the Commission eliminated eligibility, educational use, and leasing restrictions for EBS licenses, clearing the way for commercial, non-educational use of the channels within the 2.5 GHz Band previously reserved for EBS services. As part of its decision, the Commission noted that most incumbent EBS licensees had abandoned use of EBS as a closed, dedicated means of distributing educational content, and that the educational use of the 2.5 GHz band has become indistinguishable from the commercial broadband service offered by the commercial lessee, with most EBS licensees or their commercial lessees providing digital broadband service. In light of these changes, the Commission proposed to eliminate § 1.1116(e)(4) of the Commission's regulations.

54. Some commenters opposed elimination of the EBS exemption. WISPA contends that the vast majority of EBS licenses continue to be held by non-profit educational entities, and WISPA expects that this will continue to be the case going forward.⁹⁰ WISPA argues further that EBS spectrum lease provisions often require ongoing service to educational institutions, and the Commission's elimination of lease restrictions do not override the contractual provisions between EBS licensees and lessees.⁹¹ NEBSA recommends modifying rather than eliminating § 1.1116(e)(4) to exempt existing private non-profit entities and new EBS licensees that provide only educational or other noncommercial services, or lease capacity of their EBS licenses to non-profit or governmental entities who then provide educational or other noncommercial services, are exempt.⁹²

⁹⁰ Wireless Internet Service Provider Association (WISPA) Comments at 7.

⁹¹ Id.

⁹² National EBS Association (NEBSA) Comments at 2-3.

55. The Commission is not persuaded that retention of § 1.1116(e)(4) of our rules, even in modified form as proposed by NEBSA, is warranted. Few, if any, EBS licensees would be eligible for the proposed exemption because most EBS licensees lease their spectrum to commercial providers. Even EBS licensees such as Northern Michigan University and Kings County Office of Education that self-deploy networks are operating commercial networks that charge customers.⁹³ The proposed exemption would also be difficult to administer fairly.⁹⁴ And commenters do not explain how applications related to a service used commercially could be exempt from fees consistent with section 8 as revised by the RAY BAUM'S Act. Accordingly, § 1.1116(e)(4) of our rules will be deleted.

⁹³ See https://nmu.edu/ean/ (detailing charges for Northern Michigan University's LTE network), https://www.kingscoe.org/domain/45 (same for Kings County, California).

⁹⁴ For example, it is not clear what would happen if a licensee claimed the proposed fee exemption but subsequently decided to lease its spectrum.

56. Experimental Radio Service Licenses: We adopt the application fees for Experimental Radio Service for New Station Authorization, Modification of Authorization, Renewal of Station Authorization, Assignment of License or Transfer of Control, STA, and Confidentiality request that the Commission proposed in the NPRM. No entities filed comments on or otherwise objected to the proposed fees.

57. The experimental radio service permits broad experimentation, including assessing equipment intended to operate in existing Commission services, proof of concept testing and evaluation of new radio technologies, equipment designs, radio wave propagation characteristics, and service concepts related to the use of the radio spectrum.⁹⁵ Experimental operations include scientific or technical radio research, technical demonstrations of equipment or techniques, and product development and market trials, among other things.⁹⁶ The experimental radio service rules prescribe flexible rules to encourage manufacturers, inventors, entrepreneurs, and students to experiment across a wide range of frequencies, power, emissions, and applications.

⁹⁵ 47 CFR 5.1.

⁹⁶ 47 CFR 5.3.

58. There are two distinct paths for obtaining an experimental radio license.⁹⁷ Traditionally, applicants are required to file a conventional experimental license application and receive a license grant prior to operating. ⁹⁸ These licenses are generally limited to a single type of experiment.⁹⁹ Conventional applications vary in the types of services requested, number of transmit sites needed, and technical complexity.¹⁰⁰ For example, Cubesat experiments widely differ in their size and scope and can be extremely complex.¹⁰¹ Other applications, such as for new 3650 MHz Citizens Broadband Radio Service (CBRS) Experiments and sporting event STA applications, are more straightforward.¹⁰² Applicants for conventional experimental licenses are required to file administrative and technical characteristics of their proposed experimental operation online in the Experimental Licensing System. ¹⁰³ Commission staff review and manage the data, correspond with applicants, and manage frequency coordination workflow.

⁹⁷ 85 FR 65569 (October 15, 2020) at para. 34-35.

⁹⁸ See, e.g., 47 CFR 5.53.

⁹⁹ See id. Section 5.54(a)(1) (defining a “conventional experimental radio license” as a license “issued for a specific research or experimentation project (or a series of closely-related research or experimentation projects), a product development trial, or a market trial” and noting that “[w]idely divergent and unrelated experiments must be conducted under separate licenses”); see also Application Fee NPRM at 13, para. 41, 85 FR 65569 (October 15, 2020) at para 34.

¹⁰⁰ 85 FR 65569 (October 15, 2020) at para 34.

¹⁰¹ Cubesats are small satellites that use a standard size and form factor; generally, “one unit” or “1U” which measures 10x10x10 centimeters. See What are SmallSats and CubeSats? (Feb. 26, 2015), https://www.nasa.gov/content/what-are-smallsats-and-cubesats.

¹⁰² 85 FR 65569 (October 15, 2020) at para 34.

¹⁰³ 47 CFR 5.53(c)-(d), 5.61. In certain circumstances, an applicant may request an STA by telephone or electronic media for operation of a conventional experimental radio service station, provided a properly signed application is filed within 10 days of such request. Id. 5.61(a)(3).

59. The Commission also offers additional types of licenses—the program license, the medical testing license, and the compliance testing license—collectively referred to herein as program licenses, as well as broadcast experimental licenses and spectrum horizon experimental licenses. The program license, medical testing license and compliance testing license offer an alternative streamlined process to the conventional experimental license procedures for entities that meet certain eligibility criteria. Rather than applying for a specific course of experimentation, qualified entities apply for and are approved to conduct a broad range of experiments within an area under their direct control, such as a university campus or manufacturing plant.¹⁰⁴ Because licensees are not approved for specific experiments, they are required to post a description of each experiment along with the technical data to the Commission's Experimental Notification System web page.¹⁰⁵ Once posted, licensees must wait ten days when using non-federally allocated spectrum to allow any potentially affected user to comment and raise any concerns. If there are no objections, the licensee may proceed with its experiment.

¹⁰⁴ See id. 5.304, 5.404. In addition, compliance testing licensees are authorized to conduct activities related to equipment authorization which generally occurs at their laboratory facilities. See 47 CFR 5.502.

¹⁰⁵ See id. 5.309(a), 5.406(b); FCC Experiments Notification System, https://apps2.fcc.gov/ELSExperiments/pages/login.htm.

60. Regardless of the complexity of any application, each must undergo a similar review process to determine if all required information is provided, to review the experimental description and analyze the technical data to ensure it is consistent with that description and to determine what coordination, if any, is required. The same process must also be followed for program experimental licenses. Although this process is similar across all application types, the amount of time needed to complete the application review differs based on complexity.

61. We adopt the cost-based fee for these applications that we proposed in the NPRM and discussed in the above paragraphs and as reflected in the schedule of fees in the final rules. All fees are per call sign unless otherwise noted.

62. Media Licensing Fees: The Commission processes media applications for licensing broadcast television and radio spectrum for commercial and noncommercial users, and those related to the provision of cable service.¹⁰⁶ Certain media license construction permits are assigned through competitive bidding and we will assess a single post-auction consolidated long-form and short-form fee for auctioned construction permits. Application fees for services are currently organized according to whether they are for TV service or AM and FM radio service. We proposed in the NPRM to retain this organization for these services, remove those fees associated with requirements that the Commission has previously eliminated, and add fees for services, as now required, that are not covered by the current fee schedule. We adopt the media licensing application fees proposed in the NPRM.

¹⁰⁶ For a comprehensive description of Media Bureau activities, see https://www.fcc.gov/media.

63. Auctioned Broadcast Services: Some broadcast licenses are obtained through a process including an auction for construction permits. For auctioned construction permits the Commission sought comment in the NPRM on imposing only a single application fee so that only a winning bidder would be required to pay an application fee to the costs of short-form and long-form processing. Under such a consolidation there will be no separate short-form fee; the only fee would be due when the application is submitted at the long-form stage. In the NPRM, the Commission asked for comment on whether consolidation would alleviate the possibility that establishing a fee for filing an auction application might discourage auction participation, particularly by small or minority-owned businesses.¹⁰⁷ The Commission recognized that fewer applications could result in reduced competition in an auction, undermining its ability to promote the various objectives of spectrum auctions enumerated in section 309(j).¹⁰⁸ For the same reasons we adopt single application fees for auctioned wireless licenses, we decide to charge only a single fee for auctioned broadcast construction permits, consistent with section 8 and in the interest of minimizing our costs of processing auctions and maximizing competition in the auction process.¹⁰⁹

¹⁰⁷ 85 FR 65576 (October 15, 2020) at para. 83.

¹⁰⁸ 47 U.S.C. 309(j)(3). For example, one such objective that may be affected by reduced competition is the “recovery for the public of a portion of the value of the public spectrum resource made available for commercial use.” Id. 309(j)(3)(C).

¹⁰⁹ 47 U.S.C. 309(j)(3). For example, one such objective that may be affected by reduced competition resulting from a short form fee assessed on all auction participants is the “recovery for the public of a portion of the value of the public spectrum resource made available for commercial use.” Id. 309(j)(3)(C).

64. We adopt the proposed estimate of $575 in costs for broadcast auctions short-form processing. In the NPRM, we estimated that the Commission's costs in processing the short-form stage consists primarily of attorney review and attorney supervisor legal review, involving $575 in costs. Accordingly, when a broadcast construction permits is won at auction the application fee for that construction permit will be $575 higher than the otherwise applicable application fee.

65. NYX Communications and REC Networks support the proposed fee of $575 for the broadcast auctions short-form application, for all short-form filers and thus oppose a consolidated auction fee that is only assessed on winning bidders.¹¹⁰ These commenters contend that imposing a fee prior to auction could discourage speculators from selecting new facilities that they do not actually construct and other types of gamesmanship.¹¹¹ We find that concerns about gamesmanship are outweighed by the likelihood of increased competition and better addressed through other available means to prevent speculation such as capping the number of applications each applicant may file.

¹¹⁰ NYX Communications Comments at 1-2; REC Networks Comments at 13.

¹¹¹ NYX Communications Comments at 1-2; REC Networks Comments at 13.

66. Commercial Full Power TV Services and Class A TV Stations: We adopt the Commercial Full Power TV Services and Class A TV Stations application fees as proposed in the NPRM. Full Power TV stations include all stations in the television broadcast band transmitting a vestigial sideband signal intended to be received by the general public, except for low power TV and TV translator stations. Class A TV stations are low power television stations that meet the programming and operational standards set forth in the Community Broadcasters Protection Act of 1999 and are broadcasting a minimum of 18 hours per week and an average of at least three hours per week of locally produced programming each quarter.

67. The staff tasks involved in processing Full Power TV applications and Class A TV Station applications are the same. A party must apply for a construction permit before building a new TV station. The applicant must demonstrate that it is legally, technically, and financially qualified to construct and operate the station and that its proposed facility will not cause objectionable interference to any other station. Once its application has been granted, the applicant is issued a construction permit authorizing it to build the station within a specified period, usually three years. After the applicant, or permittee, builds the station, it must file a license application, in which it certifies that it has constructed the station consistent with the technical and other terms specified in its construction permit. Upon grant of that license application, the Commission issues the new license to operate to the permittee, now considered a licensee, which authorizes the new licensee to operate for a stated period, up to eight years. At the close of this period, the licensee must seek renewal of its station license. A licensee must file an application to the Commission for approval of an assignment, transfer, or technical modification of an existing license.

68. The Commission proposed to adopt identical cost-based fees for Full Power TV and Class A TV applications because the processing of Full Power TV applications and Class A TV Station applications are the same.

69. We estimated that the Commission's resources in processing applications for new and major change construction permits consist of significant engineering and legal analysis, as the applications tend to be highly complex. We estimated that the Commission's cost of processing applications for permits, encompassing engineer technical review, engineer supervisory review, attorney legal review, attorney pleadings review, and attorney written disposition review, is $4,260. When a construction permit is auctioned, this fee will be increased by $575 to reflect the costs of short-form processing, for a total of $4,835 for Full Power TV and Class A TV applications.

70. Applications for new licenses, long-form license assignments, long-form transfers of control, and Full Power TV minor modifications are complex matters that require significant engineering review and legal analysis. We estimated that the Commission's cost of processing an application for a new license, which consists of engineer application review, engineer supervisory review, attorney pleading review, and attorney written disposition review, is $380. Applications for long-form license assignment and long-form transfers of control often involve petitions or objections after the application is filed. We estimated that the Commission's cost of processing long-form license assignment and transfers of control, including attorney application review, attorney supervisory review, attorney pleading review, and attorney written disposition review, is $1,245. Commission review of minor modification construction permit applications for Full Power TV involves engineer application review, engineer supervisory review, attorney pleading review, and attorney written disposition review, at an estimated cost of $1,335.

71. Other applications are of lesser complexity and therefore impose fewer costs on the Commission staff, including license renewals, short-form license assignments, short-form transfers of control and STA. The processing of these applications may involve petitions or objections after the application is filed and typically involve attorney application review, attorney supervisory review, attorney pleading review, and attorney written disposition review. We estimated that the Commission's cost of processing an application for license renewal is $330. For short-form license assignments and transfers of control, we estimate that the cost of processing is $405. We estimated that the Commission's cost of processing an STA application is $270.

72. For applications for call signs, which involves some legal analysis, we estimated that the Commission's resources in processing a TV call sign consist of analyst application review at the cost of $170. For ownership report applications, which involve minimal review by Commission staff, we estimate that the Commission's resources in processing a TV Ownership Report consist of analyst application review and that the cost of this process is $85.

73. A petition for a rulemaking to amend the DTV Table of Allotments for a new community of license has a high level of complexity and involves significant legal analysis and engineering review. We estimated that the Commission's resources in processing a Full Power TV petition for rulemaking consist of engineer application review, engineer supervisory review, attorney legal review, attorney pleading review, and attorney written disposition review, and that the cost of this process is $3,395.

74. We are deleting the Main Studio Request application fee from the fee schedule. The Commission proposed removing the Main Studio Request from the application fee schedule as a category because the Commission eliminated the Main Studio Rule.¹¹²

¹¹² Elimination of Main Studio Rule, Report and Order, 32 FCC Rcd 8158 (2017).

75. We adopt the cost-based fees, assessed per application, as proposed in the NPRM for these applications, and discussed in the paragraphs above and as reflected in the schedule of fees in the final rules.

76. TV Translators and LPTV Stations: We adopt the TV Translators and LPTV Stations application fees as proposed in the NPRM. A TV translator is a transmitter device which repeats, or transponds, the signal of the television station. The translator retransmits the primary signal to areas it may not reach due to distance or intervening terrain barriers. An LPTV station may retransmit the programs and signals of a TV broadcast station and may originate programming. The Commission proposed cost-based application fees for TV translators and LPTV stations in the NPRM.

77. TV translator and LPTV applications for new and major change construction permits have the highest level of complexity, and significant engineering and legal analysis is needed in processing these applications. We estimated that the Commission's resources in processing these applications consist of engineer technical review, engineer supervisory review, attorney pleadings review, and attorney written disposition review and that the cost of this process is $775. (When a construction permit is auctioned, this fee will be increased by $575 to reflect the costs of short-form processing, for a total of $1,350 for TV translator and LPTV applications.) We estimated that the Commission's resources in processing a TV Translator or an LPTV application for a new license, which involves some legal analysis and significant engineering review, consist of engineer application review, engineer supervisory review, attorney pleading review, and attorney written disposition review, and that the cost of this process is $215. License assignments, which require significant legal analysis, may involve petitions or objections, after the application is filed. We estimated that the Commission's resources in processing a TV translator or LPTV license assignment application consist of attorney application review, attorney supervisory review, attorney pleading review, and attorney written disposition review, and that the cost of this process is $335.

78. Other applications require only some legal or engineering analysis. License renewals and transfers of control each involve attorney application review, application supervisory review, attorney pleading review, and attorney written disposition review. Some applications for transfer of control subsequently involve petitions or objections after the application is filed. For license renewals, our estimate is that the cost of this process is $145. For transfers of control, our estimate is that the cost of this process is $335.

79. Applications for STA are less complex and involve some engineering and legal analysis. We estimated that the Commission's resources in processing a TV translator and LPTV STA consist of engineer application review, engineer supervisory review, attorney pleading review, and attorney written disposition review. Our estimate is that the cost of this process is $270. Call sign applications have a low level of complexity and involve some legal analysis. We estimated that the Commission's resources in processing a TV translator and LPTV call sign consist of analyst application review. Our estimate is that the cost of this process is $170.

80. We adopt the cost-based fees as proposed in the NPRM, as described in the above paragraphs and as reflected in the schedule of fees in the final rules.

81. TV Booster Stations: We adopt the proposal in the NPRM to remove TV Booster Stations from the application fee schedule because we no longer have applications for this analog service as a result of the digital television transition.

82. Cable Television Services: We adopt the Cable Television Services application fees as proposed in the NPRM. Cable television service involves the delivery of video programming or other programming service to subscribers via radio frequency signals transmitted through coaxial or fiber-optic cables. The Commission's associated costs for cable service include cable system registration, cable television relay service (CARS) applications, special relief and show cause petitions involving technical matters, requests for rulings on technical matters, and requests for waivers of the rules as well as signal leakage performance reports filed by cable system operators, analysis of aeronautical frequency usage data, and ensuring compliance with Commission requirements.¹¹³ The Commission proposed cost-based application fees for this service in the NPRM.

¹¹³ See generally Part 76 of the Commission's Rules (“Multichannel Video and Cable Television Service”).

83. We estimated that the Commission's resources in processing an application for a new CARS license consist of analyst application review, engineer application evaluation, and engineer application approval and that the cost of this process is $450. For major license modifications, we estimated that the Commission's resources in processing an application consist of analyst application review, engineer application evaluation, and engineer application approval and that the cost of this process is $345. We estimated that the Commission's processing of an application for a CARS license minor modification consists of analyst application review, analyst application evaluation, and engineer application approval and that the cost of this process is $50.

84. The Commission's processing of an application for a CARS license renewal consists of analyst application review, engineer application evaluation, and engineer application approval. Our estimate is that the cost of this process is $260. The processing of license assignments involves an analyst reviewing the application, an engineer evaluating the application, and an attorney approving the application and our estimate is that the cost of this process is $365. The Commission's processing of an application for a CARS transfer of control application consists of an analyst reviewing the application, an engineer evaluating the application, and an attorney approving the application. Our estimate is that the cost of this process is $465. The Commission processes applications for STA by having an analyst review the application and an engineer evaluate and approve it. Our estimate is that the cost of this process is $225. We estimated that the Commission's resources in processing an application for a special relief petition consist of an analyst reviewing the application, an engineer evaluating it, a supervisory engineer evaluating it, and an attorney approving the application. Our estimate is that the cost of this process is $1,615. We estimated that the Commission's resources in processing an application for a registration statement consist of an analyst reviewing the application, an analyst evaluating the application, and an engineer approving the application. Our estimate is that the cost of this process is $105. We estimate that the Commission's resources in processing an application for an MVPD aeronautical frequency usage notification consist of an analyst reviewing the application, an analyst evaluating the application, and an engineer approving the application and that the cost of this process is $90.

85. We adopt the cost-based fees as proposed in the NPRM, as described in the paragraphs above and as reflected in the schedule of fees in the final rules.

86. Commercial AM and FM Radio Stations: We adopt the Commercial AM and FM Radio Station application fees as proposed in the NPRM. The radio broadcast service includes the commercial and noncommercial educational AM and FM radio services, and also the noncommercial educational low power FM radio service.¹¹⁴ A party must apply for a construction permit before building a new AM or FM radio station. The applicant must demonstrate that it is legally, technically, and financially qualified to construct and operate the station as specified in its application and that the proposed facility will not cause objectionable interference to any other station. Once its application has been granted, the applicant is issued a construction permit, which authorizes the applicant to build the station within a specified period of time, usually three years. After the applicant, now a permittee, builds the station, it must file a license application, in which it certifies that it has constructed the station consistent with the technical and other terms specified in its construction permit. Upon grant of that license application, the Commission issues the new license to operate to the permittee, now a licensee, which authorizes the new licensee to operate for a stated period of time, up to eight years. At the close of this period, the licensee must seek renewal of its license.

¹¹⁴ Noncommercial stations are exempt from application fees. Specifically, under the RAY BAUM'S Act, the exemptions are to “(A) a governmental entity; (B) a nonprofit entity licensed in the Local Government, Police, Fire, Highway Maintenance, Forestry-Conservation, Public Safety, or Special Emergency Radio radio services; or (C) a noncommercial radio station or noncommercial television station.”

87. Commercial AM Stations. Applications for new construction permits have the highest level of complexity and significant engineering and legal analysis is needed in processing these applications. Many of these applications result in petitions or objections after the application is filed. We estimated that the Commission's resources in processing an application for a new AM construction permit consist of engineering technical review, an attorney reviewing multiple ownership, an attorney reviewing pleadings, and an attorney reviewing written disposition and that the cost of this process is $3,980. Likewise, AM major change applications, which must be filed in windows along with new AM construction permits and have the exact same level of technical and legal review, have a process cost of $3,980.¹¹⁵ (When a new or major change construction permit is awarded as a result of a winning auction bid, this fee will be increased by $575 to reflect the costs of short-form processing, resulting in a total of $4,555 for auctioned commercial AM construction permit applications.) We estimated that the Commission's resources in processing an application for an AM minor change construction permit consist of engineer technical review, engineer supervisory review, an attorney reviewing multiple ownership, an attorney reviewing pleadings, and an attorney reviewing written disposition and that the cost of this process is $1,625.

¹¹⁵ The Commission's rules treat applications for new broadcast stations and applications for major changes as falling into the same group. For AM broadcast facilities, see 47 CFR 73.3571(a)(1) (“Applications for AM broadcast facilities are divided into three groups. (1) In the first group are applications for new stations or for major changes in the facilities of authorized stations. . . .”):

88. We estimated that the Commission's resources in processing an application for an AM license consist of a legal analyst reviewing application, an attorney reviewing pleadings, and an attorney reviewing written disposition. Some of the applications involve petitions or objections. Our estimate is that the cost of this process is $645. An AM directional antenna application involves some legal analysis and significant engineering review. Some of the applications result in petitions or objections after the application is filed. We estimate that the Commission's resources in processing an application for an AM directional antenna consist of engineer technical review, engineer supervisory review, an attorney reviewing multiple ownership, an attorney reviewing pleadings, and an attorney reviewing written disposition and that the cost of this process is $1,260. AM license renewal applications have a medium level of complexity and involve some legal analysis and significant engineering review. Some of the applications result in petitions or objections after the application is filed. We estimate that the Commission's resources in processing an application for renewal consist of a legal analyst reviewing the application, an attorney reviewing pleadings, and an attorney reviewing written disposition. Our estimate is that the cost of this process is $325.

89. Long-form applications for AM license assignments involve significant legal analysis, with some assignments involving petitions or objections, after the application is filed. We estimate that the Commission's resources in processing a long-form application for an AM license assignment consist of a legal analyst reviewing the application, an attorney reviewing multiple ownership, an attorney reviewing pleadings, and an attorney reviewing written disposition. Our estimate is that the cost of this process is $1,005. Short-form license applications have a lower level of complexity and require some, though less, legal analysis than long form applications. We estimate that the Commission's resources in processing a short-form application for an AM license assignment consist of a legal analyst reviewing the application, an attorney reviewing the pleadings, and an attorney reviewing written disposition. Our estimate is that the cost of this process is $425. Long-form applications for AM transfers of control involve significant legal analysis. Some applications for transfer of control involve petitions or objections, after the application is filed. We estimated that the Commission's resources in processing a long-form application for AM transfer of control consist of a legal analyst reviewing the application, an attorney reviewing multiple ownership, an attorney reviewing pleadings, and an attorney reviewing written disposition and that the cost of this process is $1,005. Short-form applications for transfer of control involve some legal analysis. We estimated that the Commission's resources in processing a short-form application for transfer of control consist of a legal analyst reviewing the application, an attorney reviewing the pleadings, and an attorney reviewing written disposition and that the cost of this process is $410.

90. AM radio call sign applications involve some legal analysis, and we estimated that the Commission's resources in processing an AM call sign application consist of analyst application review. Our estimate is that the cost of this process is $170. Applications for STA involve some engineering and legal analysis. We estimated that the Commission's resources in processing an AM STA application consist of engineer technical review, attorney pleading review, and supervisory attorney written disposition review and that the cost of this process is $290. AM ownership report applications involve minimal review by Media Bureau staff. We estimated that the Commission's resources in processing an AM ownership report consist of analyst application review and that the cost of this process is $85.

91. We are deleting the AM Main Studio Request application fee from the fee schedule. The Commission proposed removing the Main Studio Request from the application fee schedule as a category because the Commission eliminated the Main Studio Rule.¹¹⁶ We are also deleting the AM Remote Control fee from the fee schedule. The Commission proposed removing AM Remote Control from the application fee schedule as a category because AM Remote Control licensees are not required to file this form in order to engage in remote control operations.

¹¹⁶ Elimination of Main Studio Rule, Report and Order, 32 FCC Rcd 8158 (2017).

92. We adopt cost-based application fees as the Commission proposed in the NPRM and discussed in the above paragraphs and as reflected in the schedule of fees in the final rules.

93. Commercial FM Stations. Applications for new construction permits have the highest level of complexity and significant engineering and legal analysis is needed in processing these applications. Many of these applications result in petitions or objections after the application is filed. We estimated that the Commission's resources in processing an application for a new FM construction permit consist of engineering technical review, supervisory engineer review, an attorney reviewing multiple ownership, an attorney reviewing pleadings, and a supervisory attorney reviewing written disposition and that the cost of this process is $3,295. Likewise, FM major change applications, which must be filed in windows along with new FM construction permits and have the exact same level of technical and legal review, have a process cost of $3,295. ¹¹⁷ (When a new or major change construction permit is awarded as a result of a winning auction bid, this fee will be increased by $575 to reflect the costs of short-form processing, resulting a total of $3,870 for auctioned commercial FM construction permit applications.) We estimated that the Commission's resources in processing an application for an FM minor modification construction permit consist of engineer review, engineer supervisory review, an attorney reviewing multiple ownership, an attorney reviewing pleadings, and a supervisory attorney reviewing written disposition and that the cost of this process is $1,265.

¹¹⁷ See 47 CFR 73.3572(a)(1) (“Applications for FM broadcast stations are divided into two groups: (1) In the first group are applications for new stations or for major changes of authorized stations . . . .”).

94. We estimated that the Commission's resources in processing an application for an FM license consist of an analyst reviewing the application, engineering review, an attorney reviewing pleadings, and a supervisory attorney reviewing written disposition. Some of the applications involve petitions or objections after the application is filed. We estimated that the cost of this process is $235. An application for an FM directional antenna involves some legal analysis and significant engineering review. Some of the applications result in petitions or objections after the application is filed. We estimated that the Commission's resources in processing an application for an FM directional antenna consist of engineer review, engineer supervisory review, an attorney reviewing multiple ownership, an attorney reviewing pleadings, and a supervisory attorney reviewing written disposition and that the cost of this process is $630.

95. An application for an FM license involves some legal analysis and significant engineering review. Some of the applications result in petitions or objections after the application is filed. We estimated that the Commission's resources in processing an application for FM license renewal consist of a legal analyst reviewing the application, an attorney reviewing pleadings, and an attorney reviewing written disposition and that the cost of this process is $325. Long-form applications for FM license assignment involve significant legal analysis. Some of these applications involve petitions or objections, after the application is filed. We estimated that the Commission's resources in processing a long-form application for an FM assignment consist of a legal analyst reviewing the application, an attorney reviewing multiple ownership, an attorney reviewing pleadings, and an attorney reviewing written disposition and that the cost of this process is $1,005. Short-form applications for FM license assignment involve some legal analysis. We estimated that the Commission's resources in processing a short-form application for an FM license assignment consist of a legal analyst reviewing the application, an attorney reviewing pleadings, and an attorney reviewing written disposition and that the cost of this process is $425. Long-form applications for FM transfers of control involve significant legal analysis. Some applications for transfer of control involve petitions or objections after the application is filed. We estimate that the Commission's resources in processing a long-form application for FM transfer of control consist of a legal analyst reviewing application, an attorney reviewing multiple ownership, an attorney reviewing pleadings, and an attorney reviewing written disposition and that the cost of this process is $1,005. Short-form applications for FM transfers involve some legal analysis. We estimated that the Commission's resources in processing a short form application for FM transfer of control consist of a legal analyst reviewing the application, an attorney reviewing pleadings, and an attorney reviewing written disposition and that the cost of this process is $425.

96. Applications for FM call signs involve some legal analysis. We estimated that the Commission's resources in processing an FM call sign consist of analyst application review and that the cost of this process is $170. Applications for STA involve some engineering and legal analysis. We estimated that the Commission's resources in processing an FM STA application consist of engineer technical review, supervisory engineer review, attorney pleading review, and supervisory attorney written disposition review and that the cost of this process is $210. Applications for FM ownership report involve minimal review by Media Bureau staff. We estimated that the Commission's resources in processing an application for FM ownership report consist of analyst application review and that the cost of this process is $85.

97. A petition for rulemaking to amend the FM Table of Allotments for a new community of license has a high level of complexity and involves significant legal analysis and engineering review. We estimated that the Commission's resources in processing an FM petition for rulemaking consist of engineering technical review, an attorney reviewing multiple ownership, an attorney reviewing pleadings, and an attorney reviewing written disposition and that the cost of this process is $3,180.

98. We are deleting the FM Main Studio Request application fee from the fee schedule. The Commission proposed removing the Main Studio Request from the application fee schedule as a category because the Commission eliminated the Main Studio Rule.¹¹⁸

¹¹⁸ Elimination of Main Studio Rule, Report and Order, 32 FCC Rcd 8158 (2017).

99. We adopt the cost-based application fees for commercial FM stations as the Commission proposed in the NPRM as described above and as reflected in the schedule of fees in the final rules.

100. FM Translators and Boosters. FM translators and FM boosters retransmit the signal of another radio broadcast station without significantly altering the characteristics of the incoming signal other than its frequency and amplitude. This service was first created in 1970 to allow FM stations to provide supplementary service to areas in which direct reception of radio service is unsatisfactory due to distance or terrain barriers. Translator stations simultaneously re-broadcast the signal of a primary station on a different frequency. Those translator stations that provide service within the primary station's protected service area are classified as fill-in stations. Fill-in translators can be owned by the main station or by an independent entity. FM booster stations must operate on the same frequency as the main station. Booster stations must be owned by the licensee of the primary FM station. Booster stations are also restricted in that the service contour of the booster may not exceed the protected service contour of the primary station. ¹¹⁹ We proposed cost-based fees in the NPRM. One commenter, REC Networks, agrees with our proposal to impose a $210 filing fee on FM translator minor modifications, and states that it will discourage warehousing of spectrum.¹²⁰

¹¹⁹ Id.

¹²⁰ REC Networks Comments at 12.

101. An application for either a new FM translator or an FM booster construction permit involves legal analysis and significant engineering review. Some applications may involve petitions or objections after the application is filed. We estimated that the Commission's resources in processing either an application for a new FM translator or an FM booster construction permit consist of engineering technical review, an attorney reviewing pleadings, and a supervisory attorney reviewing written disposition and that the cost of this process is $705 for either a new FM translator or an FM booster construction permit. Likewise, FM translator major change applications, which must be filed in windows along with new FM translator construction permits and have the exact same level of technical and legal review, have a process cost of $705.¹²¹ (When a new or major change construction permit for an FM translator application is awarded as a result of a winning auction bid, this fee will be increased by $575 to reflect the costs of short-form processing, for a total of $1,280 for FM translator applications.¹²²

¹²¹ 47 CFR 74.1233(a)(1) (“Applications for FM translator and booster stations are divided into two groups: (1)(i) In the first group are applications for new stations or for major changes in the facilities of authorized stations.”).

¹²² FM booster construction permits are not auctioned.

102. There is no current fee for an application for a minor change FM translator construction permit. Over the past 20 years, the definition of a minor change for FM translators has changed significantly. At the time this category of application was originally created, the definition of minor change was so narrow that very few such applications could be submitted. Furthermore, because of the limited circumstances under which they could be filed, the engineering analysis required to review them was minimal. The rule has been revised since that time to significantly increase the situations that can be filed as minor. These FM translator minor change applications involve some legal analysis and significant engineering review. Some applications will involve petitions or objections, after the application is filed. We estimated that the Commission's resources in processing an FM translator minor modification application consist of engineer technical review, supervisory engineer review, attorney pleading review, and supervisory attorney written disposition review and that the cost of this process is $210.

103. Applications for either new FM translator or FM booster licenses involve some engineering analysis. Some applications may involve petitions or objections, after the application is filed. We estimated that the Commission's resources in processing an application for either a new FM translator license or a new FM booster license consist of an analyst reviewing the application, an engineer supervising, an attorney reviewing pleadings, and a supervisory attorney reviewing written disposition. Our estimate is that the cost of this process is $180 for either a new FM translator or a new FM booster license. Applications for renewal of existing FM translator or FM booster licenses have a low level of complexity. We estimated that the Commission's resources in processing either type of application consist of a legal analyst reviewing the application, an attorney supervising, an attorney reviewing pleadings, and an attorney reviewing written disposition and that the cost of this process for renewal of either an FM translator or an FM booster is $175.

104. Applications for either an FM translator or FM booster STA involve some engineering and legal analysis. We estimated that the Commission's resources in processing either type of STA application consist of engineering technical review, attorney pleading review, and supervisory attorney written disposition review and that the cost of this process is $170 for either an FM translator STA or an FM booster STA.

105. Applications for FM translator license assignments involve some legal analysis. Some assignments involve petitions or objections, after the application is filed. We estimated that the Commission's resources in processing an application for an FM translator assignment consist of a legal analyst reviewing the application, an attorney supervising, an attorney reviewing pleadings, and an attorney reviewing written disposition and that the cost of this process is $290. Applications for FM translator transfers of control involve some legal analysis. Some assignments involve petitions or objections, after the application is filed. We estimated that the Commission's resources in processing an application for an FM translator transfer of control consist of a legal analyst reviewing the application, an attorney supervising, an attorney reviewing pleadings, and an attorney reviewing written disposition and that the cost of this process is $290.

106. We adopt the cost-based application fees as proposed by the Commission in the NPRM and as described above and reflected in the schedule of fees in the final rules.

107. Media Services Foreign Ownership Petitions: We adopt the Foreign Ownership Petitions application fees as proposed in the NPRM. In the NPRM, the Commission proposed adding a new category for foreign ownership petitions for declaratory ruling filed pursuant to section 310(b)(4) of the Act.¹²³ This fee is a separate fee in addition to the fee required for the underlying application, if any.¹²⁴ Since 2016, the Media Bureau has processed petitions for declaratory rulings to exceed the section 310(b)(4) foreign ownership benchmark under the streamlined foreign ownership rules and procedures.¹²⁵

¹²³ Section 310(b)(4) establishes a 25% benchmark for investment by foreign individuals, governments, and corporations in U.S.-organized entities that directly or indirectly control a broadcast, common carrier or aeronautical radio station licensee if the Commission finds that the public interest would be served by rejecting foreign ownership above that benchmark. 47 U.S.C. 310(b)(4).

¹²⁴ This fee for the initial filing of the petition for declaratory ruling. Amendments and supplements thereto occur with great frequency and will not require an additional fee.

¹²⁵ Review of Foreign Ownership Policies for Broadcast, Common Carrier, and Aeronautical Radio Licensees Under Section 310(b)(4) of the Communications Act of 1934, as Amended, GN Docket 15-236, Report and Order, 31 FCC Rcd 11272 (2016). The procedures are set out in rule §§ 1.5000 to 1.5004, 47 CFR 1.5000-1.5004.

108. Currently, there is no fee for a section 310(b)(4) petition for declaratory ruling. Typically, the petition includes complex ownership structures and requires substantial review by staff. We estimated the Commission's resources in processing a section 310(b) petition for declaratory ruling consist of attorney legal review, attorney coordination with other agencies, attorney pleading review, and attorney written disposition review and that the cost of this process is $2,485. After analysis and review of the record, we adopt the proposed cost-based fee of $2,485.

109. Equipment Approval Fees: We adopt the Equipment Approval application fee category proposed in the NPRM, but at a fee of $35, rather than $50 as proposed in the NPRM. The Office of Engineering and Technology administers the Equipment Authorization program, in addition to the Experimental Radio Service. The equipment authorization program is one of the principal ways the Commission ensures that RF devices operate effectively without causing harmful interference and otherwise comply with the Commission's rules. All RF devices subject to equipment authorization must comply with the Commission's technical requirements prior to importation or marketing. Equipment that contains an RF device must be authorized in accordance with the appropriate procedures specified in part 2, subpart J of the Commission's rules. These requirements not only minimize the potential for harmful interference, but also ensure that the equipment complies with the rules that address other policy objectives—such as human RF exposure limits and hearing aid compatibility with wireless handsets.

110. The equipment approval services for certification were shifted from the Commission to Telecommunications Certification Bodies. Since 1999, those services have been provided by accredited Telecommunications Certification Bodies which are approved by the Commission and the Commission retains oversight of the program through routine guidance to the Telecommunications Certification Bodies and test labs as well as participating in regular teleconferences as well as Telecommunications Certification Bodies workshops. Additionally, the Commission no longer performs advance approval of subscription TV systems. As these services are no longer performed by the Office of Engineering and Technology, we proposed to remove these categories from the application fee schedule.

111. The fee for an assignment of grantee code is assessed automatically after an applicant (or its authorized agent) files for a grantee code on the FCC Equipment Authorization Electronic Filing System website. Approximately 4,000 new grantee codes are assigned each year. This process generally does not require intervention by Commission staff. However, staff must intervene if an applicant encounters a payment issue or if special action is necessary after a grantee code is assigned, such as a grantee name change or a transfer of control transaction. Such issues arise approximately 500 to 700 times per year and staff time to address these issues, when required, is nominal. For this largely automated process, we proposed an application fee of $50 to cover staff costs associated with name change requests, transfers of control issues, and payment problems that arise. Similar to our treatment of highly automated processes for wireless fees, we have reviewed the record and determined that a lower fee is appropriate and adopt an application fee of $35 for this process.

112. Domestic Service Fees: The Commission processes a wide range of applications not directly related to the issuance of licenses. In the NPRM, the Commission proposed to update the application fees for domestic matters. We adopt new fees for domestic section 214 applications, VoIP numbering applications, tariff filings, applications for special permission for waiver of tariff rules, long-form applications for Universal Service Fund (USF) auction winners, and accounting applications. We also consolidate the fees for Formal Complaints and Pole Attachment Complaints into a single new application fee; and we adopt a new fee for Communications Assistance for Law Enforcement Act (CALEA) petitions.

113. Transfers of Control and STA. We adopt the transfer of control fees as proposed in the NPRM.¹²⁶ Under §§ s 63.03-63.04 of the Commission's rules, a carrier seeking domestic section 214 authorization for a transfer of control must file an application providing certain information about the parties and the transaction. The Commission proposed to rename this application as “Domestic 214 Applications-Part 63 Transfers of Control” to more clearly specify the applications subject to the fee.¹²⁷ We adopt the name change and the cost-based fees as proposed in the NPRM for these applications.¹²⁸ We also adopt the cost-based fee of $675 for STA requests filed by domestic wireline carriers that are associated with section 214 transfer of control applications. As noted in the NPRM, this fee is consistent with the fee for similar 214 STA requests processed by the International Bureau.¹²⁹

¹²⁶ 85 FR 65577 (October 15, 2020) at para. 93-94.

¹²⁷ See 85 FR 65577 (October 15, 2020) at para. 93. Domestic common carriers under section 214 of the Act are authorized to undertake pro forma transactions, with only a notice filing required in certain very limited circumstances. 47 CFR 63.03(d). The Commission's fees for domestic section 214 transfer of control applications therefore cover only substantive transactions for which approval is required.

¹²⁸ 85 FR 65577 (October 15, 2020) at para. 93-94.

¹²⁹ 85 FR 65577 (October 15, 2020) at para. 95.

114. Discontinuance of Service. We adopt the discontinuance of service fees as proposed in the NPRM.¹³⁰ Under § 63.71 of the Commission's rules, any domestic carrier that seeks to discontinue, reduce, or impair service must provide notice, as specified in § 63.71(a), and file an application with the Commission. In the NPRM, the Commission proposed to add “Domestic 214 Applications-Part 63 Discontinuances” as a service requiring an application fee in § 1.1105 of its rules and to set that application fee based on its cost estimates.¹³¹ USTelecom suggests that we clarify the types of section 214 discontinuance filings subject to the new discontinuance fee and we expand our description from the NPRM to address this request.¹³²

¹³⁰ 85 FR 65577 (October 15, 2020) at para. 97-98.

¹³¹ 85 FR 65577 (October 15, 2020) at para. 97.

¹³² USTelecom Comments at 4.

115. Similar to the processing of the other domestic section 214 applications required by Part 63 of our rules, processing section 214 discontinuance applications includes industry analyst processing and review, staff attorney review, and supervisory review. The Commission estimated that this process involves $1,230 in costs for review and coordination on section 214 discontinuance filings that will typically require more time and resources (Non-Standard Review), such as those that address technology transitions subject to the adequate replacement test under § 63.71(f)(2)(i), those that address technology transitions that are not subject to any streamlined processing, and those filed by dominant carriers that are subject to a 60-day auto grant period under the Commission's rules. The Commission estimated that this process involves $335 in costs for review and coordination on all other domestic 214 discontinuance filings that will typically require less time and fewer resources (Standard Streamlined Review), including streamlined filings from non-dominant carriers and interconnected VoIP service providers, filings by both dominant and non-dominant carriers for the emergency discontinuance of service under § 63.63, filings that meet the alternative options test for streamlined processing under § 63.71(f)(2)(ii), filings subject to copper retirement auto grant under § 63.71(i), and filings by both dominant and non-dominant carriers for the discontinuance or grandfathering of voice or data services under § 63.71(k) or § 63.71(l). We adopt the application fees proposed in the NPRM ¹³³ and as reflected in the schedule of fees in the final rules.

¹³³ 85 FR 65577 (October 15, 2020) at para. 98.

116. Voice over internet Protocol (VoIP) Numbering. We adopt the VoIP Numbering fees as proposed in the NPRM.¹³⁴ Interconnected VoIP providers seeking to obtain numbering resources directly from the North American Numbering Plan Administrator (or the Pooling Administrator) must first receive authorization from the Commission. This nationwide authorization is designed to assess the eligibility of an interconnected VoIP provider to obtain numbers directly and will fulfill the requirement under the Commission's rules to provide evidence of authorization to provide service. Under § 52.15(g)(2) and (3), a VoIP provider must file an application for numbering resources.¹³⁵ In the NPRM, the Commission proposed to add “Interconnected VoIP Numbering Authorization Applications-Part 51” as a service requiring an application fee in § 1.1105 of its rules and set that application fee based on its cost estimates. We adopt the proposed fee of $1,330.¹³⁶

¹³⁴ 85 FR 65577-65578 (October 15, 2020) at paras. 99-100.

¹³⁵ Id. 52.15(g)(2) and (3). Section 52.15(g)(3) provides: “Commission authorization process. A provider of interconnected VoIP service may show a Commission authorization obtained pursuant to this paragraph as evidence that it is authorized to provide service under paragraph (g)(2) of this section.”

¹³⁶ 85 FR 65577-65578 (October 15, 2020) at para. 100.

117. Tariffs. We adopt the tariff fees as proposed in the NPRM along with clarifications to address commenter concerns. Tariffs contain the rates, terms, and conditions of certain services provided by telecommunications carriers. Tariffs for interstate local access service are filed by local exchange carriers (LECs). The access services include end user access, switched access, and special access. Tariffs are typically filed under a process that gives the public 15 days' notice on proposed price increases and changes in terms and conditions; and seven days' notice on proposed price reductions. Carriers file tariffs using the Commission's Electronic Tariff Filing System. Tariff filings are reviewed by staff and by industry. If staff takes no action, filings become effective and may be deemed lawful.¹³⁷ Staff may approve, suspend or reject tariffs.

¹³⁷ See 47 U.S.C. 204(a)(3).

118. USTelecom seeks clarification of several of the proposals relating to tariffing. First, it requests additional explanation of what constitutes an “annual filing.” ¹³⁸ We clarify that the annual access charge tariff that is filed to become effective on July 1 each year is the “annual filing” that is subject to the fee.¹³⁹ Second, USTelecom seeks further clarification as to what constitutes a “restructured rate plan.” ¹⁴⁰ A restructured filing is a price cap tariff filing that meets the definition of restructured service as defined in section 61.3(mm). Finally, USTelecom seeks clarification of whether the establishment of two categories of complex tariff filers, price cap LECs and entities involving more than 100 LECs (Complex Large) and a second category for other entities filing a complex tariff (Complex Small), means that all filings by price cap LECs are complex large filings.¹⁴¹ We clarify that the fee for filings designated as complex large are applicable to all price cap carriers. We adopt the cost-based fees as proposed in the NPRM for these applications and as reflected in the schedule of fees in the final rules.

¹³⁸ USTelecom Comments at 2-3.

¹³⁹ Id.

¹⁴⁰ Id. at 3.

¹⁴¹ USTelecom Comments at 3.

119. Waivers. We eliminate the fees for part 61 and part 69 waivers as proposed in the NPRM. Parties may file petitions seeking waivers of the Commission's rules in parts 61 and 69. As a general matter, the Commission may waive its rules for good cause shown.¹⁴² A waiver may be granted if (1) the waiver would better serve the public interest than would application of the rule; and (2) special circumstances warrant a deviation from the general rule.¹⁴³ Generally, the Commission, or the Bureau through delegated authority, may waive Commission rules if the relief requested would not undermine the rule's policy objectives and would otherwise serve the public interest.¹⁴⁴ Because parties may generally seek waiver of many of our rules under § 1.3 of the Commission's rules without paying a fee, we proposed to eliminate the fees associated with the general part 61 and part 69 waiver requests. We adopt that proposal.

¹⁴² 47 CFR 1.3; WAIT Radio v. FCC, 418 F.2d 1153 (D.C. Cir. 1969), appeal after remand, 459 F.2d 1203 (D.C. Cir. 1972), cert. denied, 409 U.S. 1027 (1972); Northeast Cellular Tel. Co. v. FCC, 897 F.2d 1164 (D.C. Cir. 1990).

¹⁴³ Northeast Cellular, 897 F.2d at 1166.

¹⁴⁴ WAIT Radio, 418 F.2d at 1157.

120. Universal Service Fund Auctions. We adopt a single fee for the universal service fund auction applications as proposed in the NPRM. The Commission does not currently apply a fee to USF applications. In the NPRM, the Commission proposed to adopt a single cost-based application fee that only the winning bidders would pay, i.e., only once all filings associated with an application including at the short-form stage, during bidding, and through the long-form stage, are complete. For the same reasons we adopt a single fee for spectrum auctions and broadcast service auctions, we adopt the proposed combined cost-based fee of $2,965.

121. Accounting—depreciation. We have not had an application for a depreciation update study in many years and we adopt our proposal to eliminate these application fees from the fee schedule.

122. Waiver of accounting rules. We adopt the waiver of accounting rule fees as proposed in the NPRM. The Commission has a complex set of accounting requirements. Parties may petition for a waiver of part 69 accounting rules, part 32 accounting rules, part 43 reporting requirements, part 64 allocation of costs rules, part 65 rate of return rules, or part 36 of the separation rules. The Commission has a complex set of accounting requirements and proposes assessment of a fee for requests for deviation from such requirements. In the NPRM, the Commission proposed cost-based fees, explaining that petitions for waiver of these requirements are reviewed by staff who draft a bureau or Commission level order addressing the petition.¹⁴⁵ We adopt the proposed cost-based fee of $4,415 for a waiver of our accounting rules.

¹⁴⁵ 85 FR 65579 (October 15, 2020) at para. 115.

123. Informal Consumer Complaints. We adopt the proposal from the NPRM to assess no application fee for informal complaints. We did not receive any comments on this proposal. The Commission processes informal consumer complaints through the Consumer and Governmental Affairs Bureau's Consumer Complaint Center.¹⁴⁶ The informal consumer complaint process provides consumers with an effective and free way to raise issues with their providers. Informal consumer complaints involving billing and service issues are served on the consumer's provider. The provider is required to respond to the consumer with a copy to the Commission within 30 days. Certain informal consumer complaints that are not filed against a provider, including unwanted call complaints, are shared among Commission bureaus and offices to inform policy and potential enforcement actions. The collective data we receive from informal consumer complaints helps the Commission keep a pulse on what consumers are experiencing, may lead to enforcement investigations, and serves as a deterrent to the companies we regulate. Informal complaint data, including unwanted call data, is available to the public through the Consumer Complaint Data Center and is a useful source of information for the public and industry. For example, voice service providers and third-party analytics companies use this information in their call blocking and labeling services provided to consumers. As the Commission discussed in the NPRM, informal complaints are not applications and we are not adopting an informal complaint filing fee.

¹⁴⁶ See FCC Consumer Complaint Center, https://consumercomplaints.fcc.gov/hc/en-us.

124. Formal Complaints and Pole Attachment Complaints. We adopt the formal complaint and pole attachment complaint fees as proposed in the NPRM. Section 208 of the Act provides for the filing of formal complaints against common carriers. Section 224 of the Act states that the Commission has a duty to ensure that the rates, terms, and conditions for pole attachments are just and reasonable, and that cable television systems and telecommunications carriers have non-discriminatory access to utility poles, ducts, conduits, and rights-of-way. Sections 1.720-1.740 and 1.1401-1.1414 of the Commission's rules govern formal section 208 and section 224 complaints. The rules require the filing of a complaint, an answer, a reply, and often discovery, motions, and briefs. A formal complaint must contain as much factual support as possible at the filing stage, including specific facts and proof regarding all claims in the complaint.

125. Filing of the application for a formal section 208 complaint or a section 224 pole attachment complaint is automated using the Commission's ECFS's Non-Docketed Filing portal. In nearly all instances, the FCC Fee Filer system is used separately to collect the fee. Staff retrieves each filed formal complaint and pole attachment complaint from the ECFS Non-Docketed Filing portal and confirms payment. Staff then reviews the complaint for general conformance with the Commission's complaint rules to determine if it is accepted for adjudication. If the formal complaint or pole attachment complaint is accepted, staff arranges for its placement in a case-specific ECFS docket. Staff drafts a letter to the parties indicating that the filing has been accepted or rejected and posts that letter in ECFS.

126. In the NPRM, the Commission proposed to consolidate the section 208 formal complaints and section 224 pole attachment complaints in the new section 8 application fee schedule, and proposed a cost-based fee of $540. One commenter, Ormos, contends that the fee for formal complaints should be lower but does not dispute the costs of adjudicating such complaints nor explain how we could lower the fee below costs under the statutory standard.¹⁴⁷ We are required by the RAY BAUM'S Act to adopt a cost-based fee and the fee we are adopting is based on the significant work performed by staff in handling formal complaints. We therefore adopt the proposed fee of $540 for formal complaints and pole attachment complaints based on the Commission's estimated costs as described in the NPRM.¹⁴⁸

¹⁴⁷ Ormas Comments at 7.

¹⁴⁸ 85 FR 65580 (October 15, 2020) at para. 121.

127. Accounting and Audits and Agreed upon Procedures Engagement. We are adopting our proposal to eliminate field audits and agreed upon procedures engagements from the application fee schedule because no applications have been filed in many years.

128. Petitions regarding Law Enforcement Assistance Capability. We adopt the cost-based fee of $6,945 proposed in the NPRM for petitions regarding law enforcement assistance capability.¹⁴⁹ CALEA preserves the ability of law enforcement agencies to conduct lawfully authorized electronic surveillance while protecting the privacy of information outside the scope of the authorization. CALEA imposes law enforcement assistance capability requirements on common carriers as the Commission has interpreted that term under CALEA.¹⁵⁰ Any person may petition the Commission to issue technical standards for capability assistance that the person believes are deficient ¹⁵¹ and telecommunications carriers and other interested persons may petition for a determination of whether an assistance capability is “reasonably achievable,” and the Commission must reach a determination on such petitions within one year.¹⁵² In the NPRM, the Commission proposed a cost-based fee of $6,945.¹⁵³ We adopt the proposed cost-based fee of $6,945 for this application.

¹⁴⁹ 85 FR 65580 (October 15, 2020) at para. 124.

¹⁵⁰ See 47 U.S.C. 1001(8)(B)(ii); Communications Assistance for Law Enforcement and Broadband Access and Services, Second Report and Order and Memorandum Opinion and Order, 21 FCC Rcd 5360 (2006).

¹⁵¹ Id. Section 1006(b).

¹⁵² Id. Section 1008(b)(1).

¹⁵³ 85 FR 65580 (October 15, 2020) at para. 124. (estimating the tasks that are involved in reviewing a typical CALEA petition).

129. International Service Fee. The Commission sought comment in the NPRM on cost-based application fees for international services, including fees for earth station and space station applications and proposals to create a separate fee category for applications related to cable landing licenses, a new category for section 310(b) foreign ownership review, and fees for international services that do not currently have an application fee, such as foreign carrier affiliation notifications, and requests to become a recognized operating agency. The Commission also proposed to eliminate some fees and consolidate fees for earth stations and space stations. We address these issues in turn.

130. International Cable Landing License. We adopt the proposed cost-based cable landing license fees in the NPRM with one change to reduce the cost of a pro forma assignment or transfer of control. To land or operate a submarine cable in the United States, submarine cable operators must obtain a cable landing license from the Commission pursuant to the Cable Landing Licensing Act of 1921 and Executive Order No. 10530.¹⁵⁴ The Commission also authorizes assignments or transfers of existing cable landing licenses and modifications of licenses. The Commission coordinates the applications with the Department of State and any other federal agencies, as necessary. The requirements for filing applications for new cable landing licenses and assignments, transfers of control and modification of existing cable landing licenses are set out in § 1.767 of the Commission's rules. Currently, there are different application fees for new licenses based on whether the license is for a common carrier or for a non-common carrier license.¹⁵⁵ There are also fees for substantive assignments or transfers of control of a license and requests for STA.¹⁵⁶

¹⁵⁴ Executive Order No. 10530 delegates to the Commission the President's authority under the Cable Landing License Act of 1921 adding that “no such license shall be granted or revoked by the Commission except after obtaining approval of the Secretary of State and such advice from any executive branch department or establishment of the Government as the Commission may deem necessary.” Exec. Ord. No. 10530 5(a), reprinted as amended in 3 U.S.C. 301.

¹⁵⁵ There is one fee for an application for a non-common carrier system ($19,855). There are two application fees for a common carrier cable system, one for the cable application ($2,005) and another for the overseas cable construction ($17,850), which add up to the same amount as the fee for a non-common carrier application.

¹⁵⁶ Currently, there is no application fee for pro forma assignments and transfers of a license, foreign carrier affiliation notifications, amendments, modifications, or Landing Point Notifications (LPNs). We did not propose fees for amendments or LPNs since these filings are made as part of a pending application.

131. In the NPRM, we proposed to create a new cable landing license category. Although historically the application fees for cable landing licenses have been included as part of the fee category for section 214 applications,¹⁵⁷ the processing of those applications differs significantly from the processing of international section 214 applications and warrants a separate filing fee category; for example, we are required to coordinate cable landing license applications with the State Department and new cable landing license applications typically have multiple applicants seeking to become licensees, which require more extensive staff review than those for international section 214 applications.

¹⁵⁷ See 47 U.S.C. 158(g) (Schedule of Application Fees) (2017) (setting forth under the category of section 214 applications separate application fees for common carrier and non-common carrier submarine cable landing licenses).

132. We adopt the proposal in the NPRM and make one change to the proposed cost-based fees. We reduce the fee for a pro forma assignment or transfer of control of a cable landing license to $400 from $675 based on our re-evaluation of the cost of processing such an application. In the NPRM, we estimated that the Commission's resources in processing a pro forma application to assign or transfer control of a cable landing license consist of the following: Industry analyst processing and review, staff attorney review, and supervisory review, with an estimate of $675 in costs.¹⁵⁸ After carefully re-examining our estimate for processing pro forma applications in general,¹⁵⁹ we believe that a $400 fee more accurately reflects the cost of processing a pro forma assignment or transfer of control of a cable landing license. The review of substantive assignment or transfer of control applications typically takes staff significantly more time and effort compared to pro forma assignments. Accordingly, we find that our initial estimate of the cost for substantive transactions remains valid and reflects accurately our average cost of reviewing substantive assignments and transfer of control applications. This reduction also brings this fee to a level consistent with other similar cost-based fees adopted herein, including the pro forma assignment or transfer of control application fees applicable to international section 214 authorizations, earth stations and space stations.¹⁶⁰ Finally, any concerns regarding disproportionate fees for these pro forma assignment or transfer of control transactions are sufficiently mitigated. Accordingly, we adopt these new cost-based fees for cable landing license applications as proposed in the NPRM and modified in the paragraphs above and as reflected in the schedule of fees in the final rules. These fees are all assessed on a per application basis.

¹⁵⁸ 85 FR 65581 (October 15, 2020) at para. 131.

¹⁵⁹ 85 FR 65580-65581 (October 15, 2020) at paras. 126-127.

¹⁶⁰ See infra paras. 138, 156, 172.

133. International Section 214 Applications. We adopt the proposed cost-based international section 214 fees in the NPRM for new authorizations, substantive assignments and transfers of control, pro forma assignments and transfers of control, foreign carrier affiliation notifications, modifications, STAs, waivers, and discontinuances of service. We adopt, however, one change from the fees proposed and reduce the cost of an international section 214 pro forma assignment or transfer of control.

134. Any entity that seeks to provide U.S.-international common carrier service must obtain prior Commission approval pursuant to section 214 of the Communications Act by filing an international section 214 application. The application must contain the information required by part 63 of the Commission's rules. The requirements for filing an application for an international section 214 authorization are set out in § 63.18 of the Commission's rules. The requirements for an assignment or transfer of control of such an authorization, in turn, are set out in § 63.24. Currently, there is a fee for new international section 214 authorizations, for substantive assignments and transfers of control of authorizations, and requests for STA. In the NPRM, the Commission proposed new cost-based fees, including new fee categories for section 214 applications.

135. USTelecom argues that the Commission should revise the fees for international section 214 pro forma transfer of control notifications and instead of creating a new fee, consider a nominal fee that better aligns with the actual operational costs.¹⁶¹ According to USTelecom, the pro forma transfer of control notifications clarify current license holder information and should not require substantive review by Commission staff.¹⁶² Further, USTelecom suggests, the Commission should also require limiting the expense for multiple pro forma transfer notifications filed for the same pro forma transaction—arguing that there is no cost-based justification as to why the multipliers to review 10 essentially identical applications based on a separate license are 10 times the cost.¹⁶³

¹⁶¹ USTelecom Comments at 6-7.

¹⁶² Id. at 7.

¹⁶³ Id.

136. After careful consideration of the resources expended in processing pro forma applications for assignment or transfer of control of an international 214 authorizations related to the same pro forma transaction, we are not convinced by USTelecom's arguments that a nominal fee would be appropriate and cost based. We review and process each application separately while ensuring each application's accuracy involving the associated licenses as well as its compliance with our rules. Accordingly, we reject USTelecom's argument that multiple applications (including similar information) should not be subject to multiple fees. After further evaluation, we conclude, however, that in the context of pro forma applications, and after staff assessment, a lower fee of $400 would reflect more accurately our average processing cost than the proposed $675. The review of substantive assignment or transfer of control applications typically take staff significantly more time and effort compared to pro forma assignments; accordingly, we find that our initial estimates of cost for substantive transactions remain valid and reflect accurately our average cost of reviewing substantive assignments and transfer of control applications. The lower amount continues, however, to take into account industry analyst processing and review, staff attorney review, supervisory review and the need to coordinate the application with other bureaus or offices within the Commission or federal agencies, as necessary.¹⁶⁴ Such a fee also would be consistent with the fee for a pro forma assignment or transfer of control that we are adopting for cable landing licenses, earth stations and space stations.¹⁶⁵

¹⁶⁴ 85 FR 65582 (October 15, 2020) at para. 139.

¹⁶⁵ See infra at paras. 155, 171. As noted above, we are also changing the fee for a pro forma assignment or transfer of control of a cable landing license to $400 to be consistent with the fee for a pro forma application for an international section 214 authorization. See supra at para. 132.

137. We adopt the cost-based fees, assessed per application, for section 214 applications proposed in the NPRM as modified in the paragraphs above and as reflected in the schedule of fees in the final rules.

138. Foreign Ownership Petitions for Declaratory Ruling. We adopt the cost-based fees proposed in the NPRM for section 310(b) petitions for declaratory ruling and waivers. Section 310(b) of the Communications Act contains specific restrictions on who can hold a broadcast, common carrier, or aeronautical radio station license. Section 310(b)(3) prohibits foreign individuals, governments and corporations from owning more than 20% of the capital stock of a broadcast, common carrier, or aeronautical radio station licensee. Section 310(b)(4) establishes a 25% benchmark for investment by foreign individuals, governments and corporations in U.S.-organized entities that directly or indirectly control a broadcast, common carrier or aeronautical radio station licensee, unless the Commission finds that foreign ownership above that benchmark would serve the public interest. The Commission's rules set out procedures for seeking prior Commission approval to exceed the benchmarks set out in the statute. The International Bureau processes petitions for declaratory ruling seeking approval to exceed the benchmarks set out in sections 310(b)(3) and 310(b)(4) for common carrier wireless or aeronautical licenses.¹⁶⁶ Historically, there was no fee for a 310(b) petition for declaratory ruling. In the NPRM, we proposed new cost-based fees. We received no objections in the record to these proposals and we conclude that the fees proposed in the NPRM are reasonable and cost-based. We adopt these new cost-based fees, assessed per application, as proposed in the NPRM discussed in the paragraphs above and as reflected in the schedule of fees in the final rules.

¹⁶⁶ The Media Bureau processes petitions for declaratory ruling seeking approval to exceed the benchmarks set out in section 310(b) for broadcast licenses.

139. Recognized Operating Agency. We adopt the cost-based recognized operating agency fees as proposed in the NPRM. Any individual or corporation, other than a government establishment, that seeks recognition to operate an international public correspondence or radio service capable of causing harmful interference and upon which are imposed obligations provided for in Article 44 of the International Telecommunication Convention, must file an recognized operating agency application via the Commission's International Bureau Filing System (IBFS). The purpose of the recognized operating agency is to assure members of the International Telecommunication Union (ITU) that private communications entities that are not themselves parties to the Convention will nonetheless be required to observe the rights of other member states under the treaty. If the application is approved, a recommendation letter is sent to the State Department.¹⁶⁷ Currently, there is a fee for a recognized operating agency application but no fees for any associated requests, such as waivers. In the NPRM, the Commission proposed new cost-based fees for ROA applications and waiver requests. We received no objections in the record on these proposals and fees. We conclude that the fees proposed in the NPRM and discussed above are reasonable and cost-based. We adopt these fees that are assessed on a per application basis as proposed in the NPRM and discussed in the paragraphs above and as reflected in the schedule of fees in the final rules.

¹⁶⁷ The State Department would then submit an application on behalf of the applicant to the ITU.

140. Data Network Identification Code. We adopt the cost-based data network identification code fees proposed in the NPRM for the data network identification code application and a waiver of our rules. The data network identification code (DNIC) is a four-digit number used to identify data networks and is the central device of the international data numbering plan developed by the ITU and set forth in Recommendation X.121.¹⁶⁸ The primary function of the DNIC is to identify and to facilitate routing of traffic to a particular data-network subscriber. Any public network provider seeking to obtain a DNIC must file an application through IBFS for a request for assignment of a DNIC. Currently, there is no fee for a DNIC. In the NPRM, we proposed new cost-based fees of $785 and a fee for Waivers of $335. We received no objections in the record on these proposals. We conclude that the fees proposed in the NPRM and discussed above are reasonable and cost-based. We adopt the cost-based fees, assessed on a per application basis, as proposed in the NPRM and discussed in the paragraphs above and as reflected in the schedule of fees in the final rules.

¹⁶⁸ International Communications Policies Governing Designation of Recognized Private Operating Agencies, Grants of IRUs in International Facilities and Assignment of Data Network Identification Codes, CC Docket No. 83-1230, Report and Order, 104 FCC 2d 208, 262-7, paras. 70-77 (1986), recon. granted in part, 2 FCC Rcd 7375, 7378-80, paras. 26-34 (1987). The International Telegraph and Telephone Consultative Committee (CCITT), now known as ITU-T, developed Recommendation X.121. See X.121: International numbering plan for public data networks, https://www.itu.int/rec/T-REC-X.121/en (visited Aug. 14, 2019).

141. International Signaling Point Code. We adopt the cost-based fees proposed in the NPRM for international signaling point code (ISPC) applications as well as transfers of control and modifications. The ITU defines a signaling point code as a “part of the label in a signalling [sic] message that uniquely identifies each signalling point which belongs to the international signalling network” and is used for signaling message routing and identification of signaling points at the international level.¹⁶⁹ Such signaling points are within a Signaling System 7 (SS7) switch. For this reason, only carriers that operate their own switch would need a signaling point code. Carriers that need an ISPC must file an application through IBFS for a Request for Assignment of International Signaling Point Codes (ISPC) for SS7. The ISPC application must include information demonstrating compliance with the standards set forth in ITU-T Recommendation Q.708. Currently, there is no fee for an ISPC application or associated request, such as an amendment or transfers.¹⁷⁰ In the NPRM, the Commission proposed cost-based fees for these applications at $785, Transfers of Control $675, Modifications $675, and Waivers $335. We received no objections on these proposals. We adopt the fees as proposed in the NPRM and discussed in the paragraphs above and as reflected in the schedule of fees in the final rules.

¹⁶⁹ Standardization (ITU-T), Definition, https://www.itu.int/net/ITU-R/asp/terminology-definition.asp?lang=en&rlink={EAA8C660-C702-4B47-A23E-20812661AC3A}; Q.708: Assignment procedures for international signaling point codes, https://www.itu.int/rec/T-REC-Q.708/en (last visited Dec. 17, 2020) (ITU-T Rec. Q.708).

¹⁷⁰ According to ITU-T Rec. Q.708, an ISPC may not be sold, licensed or traded by signaling point operators. Transfers of ISPCs are permitted in the case of a merger, acquisition, divestiture, or formation of a joint venture. Id. at para. 7.10. An ISPC “Transfer of Control” application is intended to address ISPC transfers occurring as a result of a merger, acquisition, divestiture, or formation of a joint venture.

142. Earth Stations. In the NPRM, the Commission proposed cost-based fees for earth station applications and the elimination and consolidation of some fees. We consolidate the filing fee categories for fixed or temporary fixed transmit/receive earth station applications, adopt a fee for pro forma assignments or transfers of control applications for earth stations, including receive-only stations, replace the filing fee category for Very Small Aperture Terminal (VSAT) systems with blanket-licensed earth stations, adopt the proposed fee for amendments and modifications, adopt a modification of the proposed fees for assignments and transfers of control on a per call sign basis, and adopt a cost-based application fee for processing and reviewing requests for U.S. market access from non-U.S. licensed space stations.

143. Fixed satellite service. We adopt our proposal to eliminate the Fixed Satellite transmit/receive Earth Stations (2 meters or less operating in the 4/6 GHz band) category and replace it with the fee categories for Fixed or Temporary Fixed Transmit or Transmit/Receive Earth Stations. Earth stations transmitting, or transmitting and receiving signals, either at a fixed location or temporarily at a fixed location,¹⁷¹ include entities that operate earth stations to provide fixed-satellite service (FSS) ¹⁷² as well as other services.¹⁷³ The Commission proposed to eliminate the Fixed Satellite Transmit/Receive Earth Stations (2 meters or less operating in the 4/6 GHz band) category and replace it with the fee categories for Fixed or Temporary Fixed Transmit or Transmit/Receive Earth Stations because there is no substantive difference in the review process for fixed or temporary fixed earth station applications in the 4/6 GHz band compared with such applications in other frequency bands. Consolidating the filing fee categories for fixed or temporary fixed transmit/receive earth station applications will streamline the fee filing process by eliminating potential mis-categorization and unnecessary sub-categories. We received no objections to this proposal, and we conclude that the fees proposed in the NPRM are reasonable and cost-based. Accordingly, we adopt the proposal to eliminate the Fixed Satellite transmit/receive Earth Stations (2 meters or less operating in the 4/6 GHz band) category and replace it with the fee categories for Fixed or Temporary Fixed Transmit or Transmit/Receive Earth Stations.

¹⁷¹ Valid authorization must be obtained prior to the use and operation of transmitting earth station facilities within the United States. 47 CFR 25.102(a). A fixed earth station is “[a]n earth station intended to be used at a fixed position. The position may be a specified fixed point or any fixed point within a specified area.” Id. Section 25.103. A temporary fixed earth station is one that is to remain at a single location for fewer than six months. See id. Section 25.277(a).

¹⁷² FSS is “[a] radiocommunication service between earth stations at given positions, when one or more satellites are used; the given position may be a specified fixed point or any fixed point within specified areas; in some cases this service includes satellite-to-satellite links, which may also be operated in the inter-satellite service; the [FSS] may also include feeder links of other space radiocommunication services.” 47 CFR 25.103.

¹⁷³ For example, this fee category would apply to Satellite Digital Audio Radio Service (SDARS) terrestrial repeaters that are licensed on a site-by-site basis. See 47 CFR 25.144(e)(9).

144. Receive-only earth stations. We adopt our proposed fee for the pro forma assignments or transfers of control applications, including receive-only earth stations. A separate Commission authorization is not generally required to operate a receive-only FSS earth station associated with a space station (either licensed or granted market access to operate in the United States).¹⁷⁴ A party may seek to register a receive-only FSS earth station with the Commission. This does not constitute a license, but rather is a method to record the existence of the earth station so that it may be taken into account for regulatory purposes, such as for coordination with other services to avoid harmful radiofrequency interference. CTIA contends that the Commission should not impose fees on pro forma filings involving receive-only earth stations and notes that in 2015, the Commission eliminated application processing fees for the pro forma assignment or transfer of control of receive-only earth stations.¹⁷⁵ CTIA argues that the Commission previously found that receive-only registrations are neither construction permits nor station licenses subject to section 310(d) of the Communications Act, and thus the pro forma assignment or transfer of control of such registrations does not require a public interest finding.¹⁷⁶ We disagree that the absence of a public interest finding (with respect to section 310(d)) means that there are no costs associated with processing pro forma assignments and transfers of control of receive-only earth stations. Although the Commission has specified that its review of pro forma transfer applications “is limited to determining that they are, in fact, pro forma in nature,” the Commission did not eliminate review of pro forma transfer applications altogether. In fact, the review does require staff resources to ensure that the parties have complied with our rules and the application in fact falls in the pro-forma category, and to determine the accuracy of the information provided in the application and ownership of the licenses. Based on our cost-based analysis, we adopt our proposed fee for the pro forma assignments or transfers of control applications for receive-only earth stations. We assess this pro forma application fee on a per transaction basis because the costs involved with processing these applications typically are incurred per application due to the pro forma nature of these applications. The $400 fee we adopt covers the average cost to process a pro forma application.

¹⁷⁴ A license is required for a receive-only earth station if it is receiving signals from a non-US licensed space station that does not have a valid grant of US-market access. See 47 CFR 25.115(b)(1) (allowing registration, instead of licensing, for receive-only earth stations in the FSS that operate with U.S.-licensed space stations, or with non-U.S. licensed space stations that have been duly approved for U.S. market access). In this instance, the new fee that we adopt for U.S. market access from non-U.S. licensed space stations through earth station applications would apply.

¹⁷⁵ CTIA Comments at 12.

¹⁷⁶ Id. at 12-13.

145. Blanket earth stations. We adopt our proposed fee for blanket-licensed mobile earth stations. Blanket earth station facilities are earth station systems authorized pursuant to blanket licensing procedures in part 25 of the Commission's rules.¹⁷⁷ Applications for licenses for Earth Stations in Motion (ESIM) ¹⁷⁸ and certain SDARS terrestrial repeaters are included in this fee category.¹⁷⁹ This filing fee category replaces the filing fee category for VSAT systems, since the definition of a blanket earth station license includes the category of services included in VSAT systems. The Commission eliminated VSAT-specific rules in 2015.¹⁸⁰ We proposed to eliminate the filing fees for VSAT but use the previous VSAT fees as the baseline for evaluating the change in filing fees for blanket-licensed earth stations.

¹⁷⁷ A blanket license is “a license for: (1) [m]ultiple earth stations in the FSS or MSS, or for SDARS terrestrial repeaters, that may be operated anywhere within a geographic area specified in the license; or (2) [m]ultiple space stations in non-geostationary-orbit.” 47 CFR 25.103.

¹⁷⁸ ESIM is a term that collectively designates Earth Stations on Vessels (ESV), Vehicle-Mounted Earth Stations (VMES), and Earth Station Aboard Aircraft (ESAA) as defined in Commission rules. 47 CFR 25.103.

¹⁷⁹ See, e.g., 47 CFR 25.144(e)(2) (stating eligibility requirements for blanket licensing of SDARS terrestrial repeaters).

¹⁸⁰ See Second Report and Order, 30 FCC Rcd at 14778, para. 191 (deleting the VSAT-specific rules contained in former § 25.134 because they were duplicative of blanket licensing provisions contained in other rule sections).

146. Commenters question the proposed higher fee for blanket-licensed mobile earth stations compared to proposed fees for other blanket-licensed earth stations. EchoStar and SIA oppose the proposed $815 application fee for blanket-licensed mobile earth stations, and argue that we should adopt a $360 fee for all blanket-licensed earth stations, including mobile earth stations.¹⁸¹ We disagree and adopt our proposed fees. A higher fee for blanket-licensed mobile earth stations is warranted because the Commission's costs are higher to review these types of applications. Specifically, these applications are generally more complex, given the mobile nature of the services to be provided, and thus require significant engineering review and legal analysis to process. Consequently, higher cost-based fees are warranted.

¹⁸¹ EchoStar Comments at 4; SIA Comments at 8.

147. Amendments and modifications. We adopt our proposed fee for amendments and modifications.¹⁸² According to some commenters, the proposed fees for earth station amendments and modifications are excessive compared to those for initial earth station applications, a $430 fee for single-site earth station amendments, and a $545 fee for earth station modifications compared to the proposed fee for initial single-site transmit earth stations of $360, which should require greater resources than the amendment or modification.¹⁸³ We disagree. Our experience is that the costs involved in an amendment and modification are higher than the costs in processing an initial application. In order to process an application amendment or license modification, staff must first manually transfer the proposed amendment or modification into the underlying application or license in IBFS. Then, Commission engineering staff must re-familiarize themselves with the initial application or underlying license, and then review the amended application or modified license to determine if the revised technical specifications, such as power levels, remain within the rule requirements. This process has taken our staff, on average, more time and specific expertise than the time and specific expertise required to process the initial applications. For that reason, we adopt our proposed fees for amendments and modifications.

¹⁸² 85 FR 65586 (October 15, 2020) at para. 169. (proposing to create a separate fee category for amendments and modifications on a per call sign basis).

¹⁸³ EchoStar Comments at 4; SIA Comments at 6-7.

148. EchoStar further argues that the proposed fees for space and earth station amendments fail to distinguish between major and minor amendments permitted under § 25.116 of the Commission's rules and that the proposed fees for space and earth station modifications fail to distinguish between modifications permitted under § 25.117 and modifications not requiring prior authorization under § 25.118.¹⁸⁴ EchoStar contends that the Commission should clarify that the proposed fees for space and earth station amendments and modifications are limited to major amendments and modifications requiring prior authorization.¹⁸⁵ EchoStar proposes that the Commission adopt reduced fees for minor amendments and modifications not requiring prior authorization because such minor amendments and modifications are typically processed with minimal staff review.¹⁸⁶ We decline to adopt different fees based on whether an amendment is determined to be minor or major, or whether a modification requires prior authorization or not. Staff resources are expended in all such cases in the initial review process to determine whether an amendment application is properly classified as minor or major, or whether a modification application is properly classified as not requiring prior authorization. Moreover, creating different fee categories based on such determinations would add complexity and administrative burden, potentially slowing down the processing of these applications. We therefore adopt the fees as proposed.

¹⁸⁴ EchoStar Comments at 3.

¹⁸⁵ Id.

¹⁸⁶ Id. at 3-4.

149. Multiple sites. We adopt our proposed fee for earth station applications seeking to license multiple sites. We proposed to adopt separate cost-based filing fees for applications involving a single site ¹⁸⁷ and applications involving multiple sites.¹⁸⁸ SIA argues that the proposed fee for earth station applications seeking to license multiple sites, in the case of “multiple stations at a single geographic location [that are] operating under a single call sign,” $6,515, is more than 18 times the fee for an initial application for a single site ($360), an initial VSAT application ($360), or a blanket license application ($360).¹⁸⁹ SIA observes that the fee for initial applications for multiple sites would encourage additional, unnecessary filings that would increase the administrative burden on the Commission, because for sites with multiple antennas eligible to be licensed under one call sign, in almost all cases it would be more cost-efficient for an earth station applicant to either apply for separate licenses for each antenna, or seek a license for a single site and then modify that license to add antennas.¹⁹⁰ Accordingly, SIA argues, the Commission should either combine the single and multiple site categories into one category that retains the proposed single-site fee, or reduce the proposed fee for initial earth station applications for multiple sites to be more in line with the fees proposed for other types of initial earth station applications.¹⁹¹ We disagree with SIA's proposal. Multiple sites applications require additional costs to process, and may involve hundreds of different sites that need to be evaluated by Commission staff. In adopting cost-based fees, we must take these additional costs into account in calculating the appropriate fee. We are also developing these fees based on average costs. Since a multiple site application may include 20 or 200 sites, as well as different transmit/receive stations for different antennas, frequencies, and services under the same call sign, we must adopt a fee that covers the Commission's average costs. We understand that if an application has fewer than a dozen or so sites, assuming all other things are equal, the applicant may prefer the option of applying individually for separate licenses. Availability of such an option in itself neither renders our cost-based proposed fees invalid nor affects the Commission's calculation of average cost with respect to applications involving multiple sites. Accordingly, we adopt our proposed $6,515 fee for such applications.

¹⁸⁷ In the NPRM in footnote 135, the Commission stated that “[a]n example of a single site application would be one for authority to operate a single transmit/receive gateway station operating under a single call sign in the FSS.”

¹⁸⁸ In the NPRM in footnote 135, the Commission stated that “[a]n example of a multiple site application would be multiple stations at a single geographic location operating under a single call sign in the FSS.” We clarify that this was just one example not a definition of applications seeking to license multiple sites. Another example of multiple site would be multiple stations at multiple geographic locations (each with a different specified latitude and longitude) operating under a single call sign in the FSS.

¹⁸⁹ SIA Comments at 5.

¹⁹⁰ Id. at 6.

¹⁹¹ Id.

150. Assignment and transfer of control. We adopt our proposed fee for assignments and transfer of control with a modification to reduce the fee charged for each additional call sign in transactions involving multiple call sign. Some commenters suggest that the application fee for assignments and transfer of control should be based on per the transaction, rather than per the number of call signs that each application involves, which is the case under fee schedules prior to the passage of the RAY BAUM'S Act.¹⁹² EchoStar argues that the Commission should not adopt a per-call sign application fee for assignment and transfer of control of space and earth station licenses because that would be inconsistent with the goal of aligning application fees with costs.¹⁹³ SIA contends that the processing of an application to assign or transfer multiple earth or space stations requires virtually the same staff resources as processing an application for a single earth or space station.¹⁹⁴ SIA explains that the current earth station fee structure reflects this difference, with the first call sign on an assignment or transfer of control application being charged at one rate and all additional call signs being charged at a much lower rate.¹⁹⁵ A non-pro forma application can be complex and include a large number of various licenses and services. Our experience shows that a non-pro forma application processing cost has a direct relationship with the number of call signs that might be included in a particular non-pro forma transaction. Because the review of a non-pro forma/substantive transaction for assignment or transfer of control requires differing staff resources based on the number of call signs on an assignment or transfer of control application, we adopt our proposed fees on a per call sign basis but modify them slightly. To better reflect our average cost of processing these non-pro forma applications, the first call sign on an assignment or transfer of control application will be charged at one rate ($745) and all additional call signs will be charged at lower rate ($400) consistent with our currently established fee structure. This change would reflect the additional average incremental costs incurred by our staff, including a first-line analyst to process the non-pro forma assignment and transfer of control of applications in IBFS beyond the initial call sign.

¹⁹² Id. at 4; EchoStar Comments at 5.

¹⁹³ EchoStar Comments at 5.

¹⁹⁴ SIA Comments at 4.

¹⁹⁵ SIA Comments at 5.

151. U.S. market access from non-U.S. licensed space stations through earth station application. We adopt our proposed fee for a request for authority to communicate with a non-U.S. licensed space station as part of an earth station application. Applicants and licensees may request authority to communicate with a non-U.S. licensed space station as part of an earth station application. We adopt a cost-based application fee for processing and reviewing requests for U.S. market access from non-U.S. licensed space stations. We adopt our proposal that any earth station application that includes a request to communicate with a non-U.S. licensed space station that does not have a valid grant of U.S. market access must also pay the filing fees for space station petitions for declaratory ruling for U.S. market access. An earth station application including a request for U.S. market access involves the same process and review as a space station petition for market access. In addition, unless the same fees are assessed for earth station applications involving requests for U.S. market access, parties may seek to arbitrage the system by shifting all market access requests to earth station filings in order to avoid any future fees adopted for filings of requests for market access by space stations.

152. We adopt the following cost-based fees for earth stations.

Application | New fee
Fixed or Temporary Fixed Transmit or Transmit/Receive Earth Stations, per Call Sign
Initial application, single site | $360.
Initial application, multiple sites | $6,515.
Receive Only Earth Stations License or Registration, per Call Sign or Registration
Initial application or registration, single site, per site | $175.
Initial application or registration, multiple sites, per system | $465.
Blanket Earth Stations, per Call Sign
Initial Application for Blanket Authorization | $360.
Mobile Earth Stations, per Call Sign
Initial Application for Blanket Authorization, per system | $815.
Amendments to Earth Station Applications or Registrations, per Call Sign
Single Site | $430.
Multiple Sites | $630.
Other Earth Station Applications
Modification of Earth Station Licenses or Registrations, per Call Sign | $545.
Assignment or Transfer of Control of Earth Station Licenses or Registrations | $745 (first call sign; $400 (for each additional).
Pro Forma Assignment or Transfer of Control of Earth Station Licenses or Registrations, per transaction | $400.
Renewals of Earth Station Licenses, per Call Sign
Single Site | $115.
Multiple Sites | $145.
Requests for U.S. Market for Non-U.S. Licensed Space Stations, per request | See the fee categories for Space Stations.

153. Space Stations. Valid authorization must be obtained from the Commission prior to the use and operation of a space station.¹⁹⁶ With limited exceptions, approval for orbital deployment and a station license (i.e., operating authority) must be applied for and granted before a space station may be deployed and operated in orbit.¹⁹⁷ In the NPRM, the Commission sought comment on proposals for cost-based fees and eliminating some fees. We remove the application fee for extension of launch authority; adopt fees for applications for authority to construct, deploy, and operate; adopt the proposed new fee category for authority to operate per system, a space station that is already in orbit, as a U.S. licensed space station; and adopt a new application fee for petitions to access the U.S. market by foreign-licensed space stations. We also adopt application fees for small satellite NGSO systems; adopt fees for amendments, modifications, and substantive and pro forma assignments and transfers of control for both GSOs and NGSOs; and adopt fees for STA applications for GSOs and NGSOs. We are adopting the proposals in the NPRM, with some modifications.

¹⁹⁶ 47 CFR 25.102(a) (stating that “[n]o person shall use or operate apparatus for the transmission of energy or communications or signals by space or earth stations except under, and in accordance with, an appropriate authorization granted by the Federal Communications Commission.”)

¹⁹⁷ Id. Section 25.113(g).

154. Extension of launch authority. We adopt our proposals to remove the application fee for extension of launch authority for both GSOs and NGSOs. With limited exceptions, prior approval must be granted for any modification of a space station authorization,¹⁹⁸ including an extension of launch authority. Any request to change to the terms or conditions of an authorization must be filed through a request for modification of the authorization. We see no reason to preserve a separate application fee for requests to extend authority for launch of geostationary satellites, and elimination of this separate fee category will help to streamline and simplify our fee structures.

¹⁹⁸ Id. Section 25.117(a).

155. Application for authority to operate per system, a space station that is already in orbit. We adopt our proposed new fee category: Application for authority to operate per system, a space station that is already in orbit as a U.S. licensed space station. We find that the costs involved in this process are identical to those for authority to construct, deploy, and operate GSOs and NGSOs, per system, since the information required to be reviewed by Commission staff and the direct costs incurred are the same in both cases.

156. SIA asks that the Commission clarify that the application fee for NGSO systems (not small satellite) is $15,050 regardless of whether authority is sought to “construct, deploy, and operate” an NGSO system or to “operate” an NGSO system that is already in orbit—the fee is listed as $15,050 for both application types.¹⁹⁹ We clarify that these fees are based on the same costs and are intended to be the same.

¹⁹⁹ SIA Comments at 9-10 (asserting inconsistent description of these fees in the text of the NPRM).

157. U.S. market access petitions for foreign-licensed space stations. We adopt our proposed fee for U.S. market access for foreign licensed space stations with the modification that we add an NGSO small satellite fee in the petition for declaratory ruling category, matching the fee that is already listed for applications to construct, deploy, and operate U.S.-licensed NGSO small satellites. The Commission assesses application fees involving space stations (both in geostationary and in non-geostationary orbits) licensed, or to be licensed, by the Commission, but does not currently have an application fee for petitions for foreign-licensed space stations to access the U.S. market. These petitions involve the submission and review of essentially the same information as provided in applications (i.e. Form 312, Schedule S, and Technical and Legal Narratives) involving U.S.-licensed space stations.²⁰⁰ The costs up through the first-level of supervision are identical for both applications for U.S. licenses and petitions for declaratory ruling to access the U.S. market. In both cases, the same documentation is required to be prepared and reviewed. In the NPRM, we proposed new cost-based fees for foreign-licensed space stations. We explained that, pursuant to the requirement of the RAY BAUM'S Act, we must recover the costs of processing filings.²⁰¹ As a result, we are required to adopt a new application fee for petitions to access the U.S. market by foreign-licensed space stations.

²⁰⁰ 47 CFR 25.137(b) (requiring an entity seeking U.S. market access by a non-U.S. licensed space station to provide “an exhibit providing legal and technical information for the non-U.S. licensed space station of the kind that § 25.114 would require in a license application for that space-station, including but not limited to, information required to complete Schedule S.”)

²⁰¹ 47 U.S.C. 158(a).

158. One commenter, Kepler, contends that the application fee for market access for foreign-licensed space stations is in addition to the other costs, e.g., annual regulatory fees and milestone bonds, and adds to an already burdensome and prohibitively costly regulatory framework without providing any clear benefit to foreign-licensed operators.²⁰² Kepler explains that the foreign operator application fee would discourage competition among satellite operators within the United States.²⁰³ Kepler contends that a reduction in application fees for U.S. operators should not be recouped by shifting the financial burden onto foreign operators—by doing so, the U.S. risks igniting retaliatory fees being imposed upon foreign-licensed systems in other administrations.²⁰⁴ In reply comments, EchoStar recalls the Commission's adoption of regulatory fees for non-U.S. licensed satellites in the Assessment and Collection of Regulatory Fees for Fiscal Year 2020 Assessment and Collection of Regulatory Fees for Fiscal Year 2019 Report and Order because the Commission expends effort and resources in regulating non-U.S. licensed satellites that, similar to U.S. licensed satellites, benefit from the Commission's oversight and regulation.²⁰⁵ EchoStar explains that in that proceeding the Commission found that the “inequity of applying fees only to U.S. licensed operators when both U.S. operators and foreign operators applying for market access benefit from the work of the Commission outweighs unsubstantiated claims that the fees will cause harm to the competitiveness of the United States.” ²⁰⁶ EchoStar also adds that Kepler's comments “do[ ] not provide any new evidence to justify a different outcome in this proceeding than the Regulatory Fee proceeding.” ²⁰⁷

²⁰² Kepler Comments at 1.

²⁰³ Id. at 1-2.

²⁰⁴ Id. at 2.

²⁰⁵ EchoStar Reply at 2-3.

²⁰⁶ Id.

²⁰⁷ Id. at 3.

159. We recognize that foreign-licensed space station operators, like U.S. operators, will be paying this fee in addition to other expenses that the Commission has imposed. However, the RAY BAUM'S Act requires us to assess application fees based on cost. As the Commission explained in the NPRM, “[w]e expect that the costs involved in this process [of reviewing a petition for market access] are identical to those for authority to construct, deploy, and operate a GSO, since the information required to be reviewed is the same in both cases.” ²⁰⁸ To fully comply with the RAY BAUM'S Act, we must require a fee for foreign-licensed space station operators seeking market access just as we do for domestic GSO applications. And because the staff costs and Commission resources involved in the market access petitions are identical to the costs for a U.S. licensed space station, we must adopt the same fee. We are not shifting costs, as Kepler asserts, but following the statute in determining cost-based fees for all applications as appropriate.

²⁰⁸ 85 FR 65587 (October 15, 2020) at para. 177.

160. SIA notes that the proposed application fee schedule does not identify a small satellite fee in the category for U.S. market access for foreign-licensed space stations and suggests adding an NGSO small satellite fee of $2,175 in the petition for declaratory ruling category, matching the fee that is already listed for applications to construct, deploy, and operate U.S.-licensed NGSO small satellites.²⁰⁹ We agree and correct this oversight by adding a fee for NGSO small satellites petitions for U.S. market access, calculated as the same $2,175 fee as for “Application for Authority to Construct, Deploy, and Operate.” ²¹⁰ This fee is clearly a logical outgrowth of our proposal in the NPRM to adopt cost-based fees for all non-U.S. licensed NGSO satellites, similar to the fees imposed on the U.S. licensed satellites, and the satellite industry representatives raised it in the record so other interested parties should have had adequate notice.²¹¹ Since the cost of processing a request for market access for an NGSO small satellite is the same as processing a request for an application to construct, deploy, and operate a U.S.-licensed NGSO small satellite, we adopt this $2,175 fee.

²⁰⁹ SIA Comments at 9.

²¹⁰ See NPRM at para. 186.

²¹¹ See SIA Comments at 9.

161. Two-step filing for GSO space stations. We adopt our proposed fee for two-step filings for GSO space stations. EchoStar contends that the Commission should clarify whether its proposed application fee for GSO space station licenses applies to optional two-step filings permitted under § 25.110(b)(3).²¹² EchoStar suggests that the Commission should adopt a minimal cost-based application fee amount for streamlined, first-step application filings under the Commission's optional two-step process and clarify that the proposed GSO satellite application fee applies to full, second-step application filings under the two-step process.²¹³ We clarify that these fees are calculated for one-step filings, which constitute nearly all of the GSO applications received to date. Because we have very little experience with two-step applications and their applicable costs to process, and because the administrative burden of implementing a separate fee for so few applications would outweigh the benefits, we have not proposed a separate fee for these types of applications. We therefore adopt our proposal for a single fee for all GSO applications, regardless whether they involve the one-step or two-step process.

²¹² EchoStar Comments at 6.

²¹³ Id. at 7.

162. Small satellites. We adopt our proposed fee for small satellite NGSO systems.²¹⁴ Small satellite NGSO systems typically are associated with small size, short duration missions, and relatively low cost. In the Small Satellite Report and Order,²¹⁵ the Commission adopted rules governing licensing of these small satellites and adopted an interim application fee for small satellites of $30,000. After review of anticipated costs involved with the processing of all space station filing fees, the Commission proposed a new cost-based application fees for satellites that are able to be licensed under the small satellite rules, based on the estimated costs involved in processing the applications. We therefore adopt our proposed cost-based application fee of $2,175.

²¹⁴ The same rationale for our adoption of filing fees for small satellites also applies to the filing fees applicable for small spacecraft. Applications for small satellites and small spacecraft entail the same direct costs, the only difference being that small spacecraft operate beyond Earth's orbit, whereas small satellites operate in Earth orbit. See 47 CFR 25.103. We adjust the fee tables to correct the prior inadvertent omission of small spacecraft in the fees applicable to small satellites. See Streamlining Licensing Procedures for Small Satellites, IB Docket 18-86, Report and Order, 34 FCC Rcd 13077, 13101, para. 65 (2019) (permitting small spacecraft to file under the streamlined process for small satellites).

²¹⁵ Streamlining Licensing Procedures for Small Satellites, IB Docket No. 18-86, Report and Order, 34 FCC Rcd 13077 (2019) (Small Satellite Report and Order).

163. Amendments. We adopt our proposed fee for amendments. In the NPRM, the Commission proposed to create a separate fee category for amendments of all categories of space station filings on a per call sign basis. We conclude that the costs involved with amendments up through the first level of supervision are likely to be similar for both GSO and NGSO space stations, as well as for small satellite NGSO systems, since the information reviewed in all cases will be the same and the standard for acceptability for filing is also the same.²¹⁶ It will be more efficient to have a single fee category for all amendments to space station applications, rather than including a separate sub-category for amendments for each category of space station licenses. We thus adopt our cost-based proposed fee of $1,620 for all amendments of all categories of space station filings on a per call sign basis.

²¹⁶ 47 CFR 25.116(e) (stating that “[a]mendments to space station applications must be filed on Form 312 and Schedule S” without distinction as to whether application involves geostationary or non-geostationary satellites).

164. Modifications. We adopt our proposed fee for modifications. As a general matter, no modification of a station license that affects the parameters or terms and conditions of the station authorization can be made except upon application to and grant of such application by the Commission. In the NPRM, the Commission proposed a separate fee category for filings to modify all categories of space station license approvals on a per call sign basis. The Commission's costs involved with applications for modification through accepted-for-filing public notice and up through first-level supervision are similar for both geostationary and non-geostationary space stations, as well as for small satellites, since the information reviewed in all cases will be the same and the standard for acceptability for filing is also the same.²¹⁷ We adopt our proposed cost-based fee of $2,495 for modifications of all categories of space station licenses on a per call sign basis.

²¹⁷ Id. Section 25.117(d)(1) (stating that “applications for modifications of space station authorizations shall be filed in accordance with § 25.114, but only those items of information listed in § 25.114 that change need to be submitted, provided the applicant certifies that the remaining information has not changed” without regard to whether the space station authorization is for a geostationary or non-geostationary satellite).

165. Assignment and transfer of control. We adopt our proposed fee for assignments and transfers of control with a modification to reduce the fee charged for each additional call sign in transactions involving multiple call signs. An application is required to be filed and granted before a space station license can be transferred, assigned, or disposed of, voluntarily or involuntarily, directly or indirectly, or by transfer of control to any corporation or any other entity.²¹⁸ The Commission proposed to create a separate fee category for filings to assign or transfer control of all categories of space station licenses on a per call sign basis. The costs involved with applications for assignment or transfer of control are likely to be similar for both geostationary and non-geostationary space stations, as well as for small satellites, since the information reviewed in all cases will be the same and the standard for acceptability for filing is also the same. In the NPRM, we proposed new cost-based fees.

²¹⁸ Id. Section 25.119(a).

166. As we discussed regarding earth stations, commenters contend that the fee should not be based on the number of call signs, but instead should be per transaction, because the substantive review of any assignment or transfer of control should not vary with the number of authorizations covered by the application.²¹⁹ We disagree. The substantive review and processing of a transaction for assignment or transfer of control requires differing staff resources, based on the number of call signs in an assignment or transfer of control application. To better reflect our average cost of processing these applications, we adopt the cost-based fee of $745 proposed in the NPRM, but the fee for additional call signs will be $400. This change would reflect the additional incremental costs incurred by first-line analysts to process assignment and transfer of control of applications (beyond the initial call sign) in IBFS, and is consistent with the approach adopted with respect to earth station fees.

²¹⁹ SIA Comments at 4; EchoStar Comments at 5.

167. Pro forma assignments and transfers of control. We adopt our proposed fee for the pro forma assignments or transfers of control applications. The Commission sought comment on whether a separate fee category should be established for assignments and transfers that are pro forma. In these instances, public notice and prior Commission approval are not needed. In the NPRM, the Commission proposed new cost-based fees. EchoStar argues that the Commission should reduce its proposed application fees for pro forma assignment and transfer of control of space and earth station licenses because pro forma transfers of control and assignments of non-common carrier licenses are presumptively granted the day after filing, and the same transactions involving common carrier licenses do not even require Commission consent.²²⁰ We agree that the fee should be lower than substantive assignments and transfers of control, and we had proposed $400. This proposed fee is based on the costs associated with the pro forma assignments and transfers of control, which include determining that the rules are followed and checking ownership. We cannot eliminate the fee merely because the costs are lower than those for substantive assignments and transfers of control. Based on our experience and evaluation of the cost of processing such an application, we adopt the cost-based fee we proposed of $400 for pro forma assignments and transfers of control. We apply this pro forma fee on a per transaction basis because, as discussed in the case of earth station application, the costs involved with processing these applications typically are incurred by transaction (per application basis) rather than by call sign.

²²⁰ EchoStar Comments at 6.

168. Special temporary authority (STA). We adopt our proposal to create a separate fee category for an STA for all categories of space station license applications on a per call sign basis and the proposed fee for such application. In circumstances requiring immediate or temporary use of facilities, request may be made for an STA to install and/or operate new or modified equipment. The Commission may grant a temporary authorization only upon a finding that there are extraordinary circumstances requiring temporary operations in the public interest and that delay in the institution of these temporary operations would seriously prejudice the public interest. The Commission may grant a temporary authorization for a period not to exceed 180 days, with additional periods not exceeding 180 days, if the Commission has placed the STA request on public notice. The Commission may grant an STA without placing the request on public notice first, if the request is for a period not to exceed 30 days, or the period is not to exceed 60 days and the applicant plans to file a request for regular authority for the service. In the NPRM, we proposed new cost-based fees. We adopt our proposal to create a separate fee category for an STA for all categories of space station license applications on a per call sign basis.²²¹ We adopt the proposed cost-based fee of $1,435. A summary of the adopted fees discussed above is listed below.

²²¹ Because grants of U.S. market access are not authorizations and non-U.S. licensed space stations are not licensed by the FCC, an STA is not available for space stations operations involved with access to the U.S. markets. Accordingly, no filing fees are being proposed for STAs involving grants of market access. Earth station licensees, however, have and may continue to request an STA to communicate with non-U.S, licensed space stations, and filing fees for such requests are covered by the proposed filing fee for Earth Stations, Special Temporary Authority, above.

Filing category | New fee
Space Stations, Geostationary Orbit
Application for Authority to Construct, Deploy, and Operate, per satellite | $3,555.
Application for Authority to Operate, per satellite | 3,555.
Space Stations, Non-Geostationary Orbit
Application for Authority to Construct, Deploy, and Operate, per system of technically identical satellites, per Call Sign | $15,050.
Application for Authority to Operate, per system of technically identical satellites, per Call Sign | 15,050.
Space Stations, Petition for Declaratory Ruling for a Foreign Space Station to Access the United States Market
GSO | $3,555.
NGSO | 15,050.
Small satellite NGSO | 2,175.
Space Stations, Small Satellites, or Small Spacecraft
Application to Construct, Deploy, and Operate, per Call Sign | $2,175.
Space Stations, Other Applications
Space Stations, Amendments, per Call Sign | $1,620.
Space Stations, Modifications, per Call Sign | 2,495.
Space Stations, Assignment or Transfer of Control | $745 (first call sign; $400 for each additional).
Space Stations, Pro Forma Assignment or Transfer of Control, per transaction | 400.
Space Stations, Special Temporary Authority, per Call Sign | 1,435.

169. Direct Broadcast Satellites. We adopt our proposal to assess filing fees for DBS satellites under the proposed fees for geostationary space stations. In the NPRM, the Commission proposed removing this fee category and using application fees and categories for geostationary space stations instead. In September 2019, the Commission revised and updated the rules governing DBS processing procedures to align them with the streamlined processing procedures for GSO FSS satellites. The Commission found that there is little difference technically between GSO FSS satellite systems and DBS systems in geostationary orbit, and that DBS license applications could be processed in the same manner as GSO FSS satellites under a first-come, first-serve basis.²²² Given the technical and regulatory similarities between GSO FSS satellites and DBS satellites, there is no need to maintain a separate filing fee for DBS satellites and we adopt our proposal to assess filing fees for DBS satellites under the proposed fees for geostationary space stations, which also apply to GSO FSS satellite applications.

²²² DBS Streamlining Report and Order, 34 FCC Rcd at 9016-17, para. 8.

170. Unified Space and Earth Station Licenses. The Commission created a set of temporary rules regarding fees for unified space and earth station licenses in the Further Streamlining Part 25 Rules Governing Satellite Services Report and Order.²²³ In the Report and Order, we “assess[ed] a fee for unified license applications that is equal to the combined fees of the relevant space station license application and earth station blanket-license application.” ²²⁴ However, we qualified those fees as a “simple, clear solution until the comprehensive Commission application fee rulemaking is completed.” ²²⁵ We further qualified those as “interim fee decisions . . . [that] will be considered in the larger application fee rulemaking, and may change significantly based on the analyses conducted there.” ²²⁶ In the Further Streamlining Part 25 Rules Governing Satellite Services proceeding, we received public comments favoring our adoption of that fee. Intelsat supported a fee that “reflect[ed] the dual earth station and space station elements of the unified license.” ²²⁷ Viasat supported fees that were “commensurate with the lower rates applicable to additional earth stations in an assignment or transfer of control application, or an additional site-based application.” ²²⁸

²²³ Further Streamlining Part 25 Rules Governing Satellite Services, Report and Order, —FCC Rcd—(2020).

²²⁴ Id. at 13, para. 34.

²²⁵ Id.

²²⁶ Id. at 12, para. 33.

²²⁷ Intelsat License LLC Comments, FCC 20-159, IB Docket No. 18-314, at 6 (rec. Mar. 18, 2020).

²²⁸ Viasat, Inc. Comments, FCC 20-159, IB Docket No. 18-314, at 6-7 (rec. Mar. 18, 2020).

171. In this current proceeding, EchoStar contends that if we allow applications for unified space and earth station licenses, we should also adopt a cost-based fee for these filings, no greater than the sum of the filing fees for the component space and earth station licenses, and the fee should be reduced to reflect any material reductions in the information required for Commission review and to account for other administrative efficiencies offered by unified license filings.²²⁹ SIA also contends that a unified licensing fee structure for space and earth stations should be cost-based.²³⁰

²²⁹ EchoStar Comments at 7.

²³⁰ SIA Comments at 8.

172. We adopt a cost-based approach for unified space and earth station license fees. At this time, we adopt a fee that is equal to the combined, cost-based fees of the relevant space station license application and earth station blanket license as adjusted herein, consistent with the approach that we adopted in our Further Streamlining Part 25 Rules Governing Satellite Services Report and Order. In the future, once Commission staff has more experience with processing new unified license applications and the costs incurred to do so, we may reevaluate our methodology and the fee amount as appropriate.

173. International Broadcast Stations. An International Broadcast Station (IBS) uses broadcast frequencies between 5,950 kHz and 26,100 kHz to provide its broadcast service which is intended to be received in foreign countries.²³¹ This service also is known as High Frequency Broadcasting (HF) or Shortwave Broadcasting. Unlike other broadcasting services, HF broadcasters are authorized frequencies on a seasonal basis. Currently, two seasons exist: A Summer season and a Winter season. The adjustment of frequencies between seasons results mainly from changes in propagation conditions, altered programming needs, and objectionable interference situations. In the NPRM, we proposed new cost-based fees. We received no comment on these proposals and adopt the following cost-based fees for IBS services listed below.

²³¹ See 47 CFR 73.701(a) (defining IBS as “[a] broadcasting station employing frequencies allocated to the broadcasting service between 5900 and 26100 kHz, the transmissions of which are intended to be received directly by the general public in foreign countries. (A station may be authorized more than one transmitter.) There are both Federal and non-Federal Government international broadcast stations; only the latter are licensed by the Commission . . . .”

Application | New fee
IBS New Construction Permit | $4,010
IBS Construction Permit Modification | 4,010
IBS New License | 905
IBS License Renewal | 230
IBS Frequency Assignment | 80
IBS Transfer of Control | 595
IBS STA | 395

174. Permit to Deliver Programs to Foreign Broadcast Stations. We adopt the proposed cost-based permit to deliver programs to foreign broadcast stations fees in the NPRM. An application for 325(c) authorization for a new license, license renewal, license transfer of control, or an STA is received in electronic or hard copy format and reviewed for completeness. If the application is complete, then it will be placed on public notice for 30 days and reviewed. The application is reviewed by a staff engineer to ensure foreign station facilities are accurate and approved via treaty guidelines. Upon a positive review of the application by engineering and legal staff the application is uploaded into IBFS. The application is coordinated within the Commission for further analysis, enforcement violations, and possible ownership/applicant issues. If there are no problems, then the application will be granted, and the Public Notice of the grant will be released. In the NPRM, the Commission proposed new cost-based fees for these applications. We received no objections to these proposals.

175. We adopt the following cost-based fees for section 325(c) authorizations proposed in the NPRM and summarized below.

Application | New fee
325(c) New License | $360
325(c) License Modification | 185
325(c) License Renewal | 155
325(c) STA | 155
325(c) Transfer of Control | 260

176. International Fixed Public Radio. We eliminate this fee category from the application fee schedule as proposed in the NPRM because this service was removed from the Commission's rules in 2010.²³²

²³² In 2010, the Commission eliminated Part 23 of its rules governing International Fixed Public Radiocommunication Services. Elimination of Part 23 of the Commission's Rules, IB Docket No. 05-216, Report and Order, 25 FCC Rcd 541 (2010).

177. Exemptions. In the NPRM, the Commission explained that section 8(d)(2) of the RAY BAUM'S Act allows the Commission to eliminate an application fee when the Commission determines that the cost of collecting the fee exceeds the amount collected.²³³ Specifically, section 8(d)(2) provides that “[i]f in the judgment of the Commission, the cost of collecting an application fee established under this section would exceed the amount collected, the Commission may by rule eliminate such fee.” ²³⁴ The Commission has no or nominal collection costs for delinquent application fees because we do not consider or grant applications for which application fees are owed unless the fee is paid at the time of filing.²³⁵ Thus, we did not propose to create a rule based on section 8(d)(2) of the Communications Act. We did not receive comments on this issue. We conclude that our original analysis that a section 8(d)(2) rule is unnecessary with respect to applications fees remains correct. In the NPRM, we explained the history of the exemptions to our application fees and explained that the revised statutory text did not require any additions to § 1.1116 of our rules, which deals with exemptions.²³⁶

²³³ NPRM at para. 222; 47 U.S.C. 158(d)(2).

²³⁴ 47 U.S.C. 158(d)(2).

²³⁵ 85 FR 65591-65592 (October 15, 2020) at para. 211, (and also explaining that collection of fees after a waiver request is denied are too infrequent to be used as a basis upon which to propose section 8(d)(2) rule).

²³⁶ 85 FR 65591 (October 15, 2020) at para. 209-210. In the NPRM, however, we did propose to eliminate § 1.1116(e)(4), which provided an exemption for EBS licenses. We have eliminated the EBS exemption. In the NPRM, we also explained that if additional exemptions are sought by commenters, they should provide relevant authority and/or legislative history that would support modifying the limited Congressional list of exemptions. We received various requests to extend the exemptions to include amateur licenses. We explained why amateur licenses do not qualify for any of the existing exemptions and we conclude here for the same reasons that we will not create an exemption for such licenses where none exists in the statute. We have received no other relevant comments on our proposed update to § 1.1116.

178. Large and small application fees. Section 9A(e) of the RAY BAUM'S Act requires the Commission to allow applicants to pay large application fees in installments and small application fees in advance, for a number of years not to exceed the applicable license term. We sought comment in the NPRM on how to define “large” and “small” fees and how and under what circumstances to implement the requirements of section 9A(e), but received no responses.²³⁷ Without comment from interested parties we do not have a record from which to implement the requirements fairly and efficiently, without undue administrative burden or cost, as we aim to do.²³⁸ Accordingly, we will defer consideration of how, and adoption of rules, to implement the section 9A(e) requirements until a later time.

²³⁷ 85 FR 65592 (October 15, 2020) at para. 214-216.

²³⁸ 85 FR 65592 (October 15, 2020) at para. 214, (In discussing implementation of the large fee installment payment requirement, we noted our “aim to adopt a rule . . . that can be fairly and efficiently administered, without undue administrative burden or cost.”)

179. Administrative rule changes. Moreover, we expect that as a result of the changes made here and those made previously to implement the RAY BAUM'S Act of 2018 with respect to regulatory fees, some of our Part 1, Subpart G, Schedule of Statutory Charges and Procedures for Payment, may require revision.²³⁹ Accordingly, we direct the Office of Managing Director (OMD), in consultation with the Offices and Bureaus, to propose such revisions for our consideration.²⁴⁰ In our NPRM, we proposed revisions to such rules, but on review, anticipate that it would be more efficient to adopt any changes to such rules only after we have addressed any internal changes necessary to fully implement the newly adopted schedule. Accordingly, we direct OMD to take such provisions into consideration when reviewing Subpart G.

²³⁹ In addition, the Commission has been moving for some time toward a paperless environment, including to paperless disbursement and collection of fees. See, e.g., Amendment of Part I of the Commission's Rules, MD Docket No. 19-40, Order, 34 FCC Rcd 1506 (2019) (providing the history of the ongoing transition to electronic payments at the FCC). Toward that end, the Commission has closed and continues to close the lock boxes used for receipt of manual payment of application filing fees. The Commission has and will continue to revise applicable service rules with updated payment instructions as lock boxes are closed.

²⁴⁰ 47 CFR 0.231 (among other things, OMD's longstanding delegation with respect to fees includes issuing “notices proposing amendments or adjustments to the fee schedules established under part 1, subpart G, of this chapter.”).

180. Notice to Congress. The RAY BAUM's Act of 2018 amended Section 8 of the Communications Act and provided an effective date of October 1, 2018 for such changes.²⁴¹ Congress envisioned a transition between fees adopted before and after the effective date of the amendments to Section 8.²⁴² In particular, Congress provided that application fees in effect on the day before the effective date of the RAY BAUM's Act shall remain in effect until such time as the Commission adjusts or amends such fee.²⁴³ With this Report and Order, we adopt the new fee schedule envisioned by Congress. Accordingly, we find the new schedule satisfies our obligation to establish a new application fee schedule under Section 8(a) of the Act. In consideration of Congress's direction in the RAY BAUM's Act, moreover, we conclude that our amended schedule must be submitted to Congress at least 90 days before it becomes effective pursuant to section 9A(b)(2) of the Communications Act.²⁴⁴ Accordingly, we direct the Office of Managing Director (OMD) to provide such a notification to Congress upon release of the Report and Order.

²⁴¹ Consolidated Appropriations Act, 2018, Division P—RAY BAUM'S Act of 2018, Title I, FCC Reauthorization, Public Law 115-141 (March 23, 2018).

²⁴² RAY BAUM'S Act of 2018, Title I, 103(d) (uncodified provisions entitled “Transitional Rules”).

²⁴³ Id.

²⁴⁴ The uncodified transitional rules for Applications Fees appear to suggest that changes to the schedule after the effective date of the RAY BAUM'S Act must be either an adjustment under section 8(b) or an amendment under section 8(c). Our action here is certainly not limited to the adjustments contemplated by section 8(b) and thus we conclude that the 90-day notice provision in required for amendments under section 8(c) is appropriate.

181. Rule effective date. As the Commission implements the changes to our application fee schedule, we anticipate that OMD, along with the Bureaus and Offices, may be required to update some of our licensing databases, payment instruction guides and/or adjust administrative internal procedures before we may begin accepting the new fees for certain categories of application fee payors. Accordingly, we direct the Office of Managing Director, in consultation with the relevant Offices and Bureaus, to cause a notice to be published in the Federal Register announcing when rule change(s) will become effective, once the relevant databases, guides, and internal procedures have been updated.

182. Motion for extension of time. Richard Golden filed a motion for an extension of time to file comments in this proceeding, arguing in part that he required time to file a FOIA with the Commission.²⁴⁵ We note that Mr. Golden filed comments and reply comments in this docket and to our knowledge Mr. Golden has not filed a FOIA request. The NPRM was released on August 26, 2020, and published in the Federal Register on October 15, 2020. The NPRM provided that comments were due 30 days from the date that the NPRM was published in the Federal Register. The Commission had limited time to consider comments, draft and deliberate on this Report and Order to meet the RAY BAUM'S Act requirement to establish application fees. In light of these facts, including that Mr. Golden did file comments and reply comments, the motion is denied.

²⁴⁵ Motion of Richard Golden to Extend Time to File Comments (filed Nov. 8, 2020).

183. Scope of proceeding. We also note that this rulemaking proceeding is limited to the directive in the RAY BAUM'S Act to establish cost-based fees for application processing. As such, we did not propose changing the manner in which the Bureaus and Offices process applications. We accordingly decline to address comments that were filed in this docket regarding the substance of application processing, which are outside the scope of this proceeding, but commenters are welcome to refile any such comments in relevant proceedings, or as petitions for rulemaking, as appropriate.

Final Regulatory Flexibility Analysis

1. As required by the Regulatory Flexibility Act of 1980, as amended, (RFA),²⁴⁶ an Initial Regulatory Flexibility Analysis (IRFA) was incorporated in the Notice of Proposed Rulemaking in this docket. The Commission sought written public comment on the proposals in the Notice, including comment on the IRFA. This present Final Regulatory Flexibility Analysis (FRFA) conforms to the RFA.²⁴⁷

²⁴⁶ 5 U.S.C. 603. The RFA, see 5 U.S.C. 601-612, has been amended by the Small Business Regulatory Enforcement Fairness Act of 1996 (SBREFA), Public Law 104-121, Title II, 110 Stat. 857 (1996).

²⁴⁷ 5 U.S.C. 603(a).

A. Need for, and Objectives of, the Proposed Rules

2. The Report and Order adopts new cost-based application fees, which replace the prior schedule of fees adopted by Congress over 30 years ago. The RAY BAUM'S Act requires the Commission to establish fees for all applications filed with the Commission based on the cost to process such applications.²⁴⁸ The new fees adopted in this Report and Order are needed to meet the statutory requirement. The objective of this rulemaking is to provide an opportunity to bring this set of fees into the 21st century by lowering fees to account for processing efficiencies where appropriate, adding new fees for applications that were implemented after the original fee schedule was adopted, and eliminating fees for applications that no longer exist. The new fee schedule will further simplify and streamline an overly complex schedule of fees by consolidating matters overseen by both the Wireless Telecommunications Bureau and the International Bureau. We believe that these objectives and the rules we adopt are in the public interest and will benefit both large and small entities because we are simplifying the schedule of fees and also reducing many of the fees.

²⁴⁸ 47 U.S.C. 158(a).

3. The Report and Order adopts a methodology to establish the direct costs of processing applications in services in the Wireless Telecommunications Bureau, Media Bureau, Wireline Competition Bureau, Enforcement Bureau, International Bureau, Public Safety and Homeland Security Bureau, Office of Engineering and Technology, and Office of Economic Analysis.

B. Summary of Significant Issues Raised by Public Comments in Response to the IRFA

4. There were no comments filed that specifically addressed the rules and policies proposed in the IRFA.

C. Response to Comments by the Chief Counsel for Advocacy of the Small Business Administration

5. Pursuant to the Small Business Jobs Act of 2010, which amended the RFA, the Commission is required to respond to any comments filed by the Chief Counsel for Advocacy of the Small Business Administration (SBA), and to provide a detailed statement of any change made to the proposed rules as a result of those comments.²⁴⁹

²⁴⁹ 5 U.S.C. 604(a)(3).

6. The Chief Counsel did not file any comments in response to the proposed rules m this proceeding.

D. Description and Estimate of the Number of Small Entities to Which the Rules Will Apply

7. The RFA directs agencies to provide a description of, and where feasible, an estimate of the number of small entities that may be affected by the proposed rules and policies, if adopted.²⁵⁰ The RFA generally defines the term “small entity” as having the same meaning as the terms “small business,” “small organization,” and “small governmental jurisdiction.” ²⁵¹ In addition, the term “small business” has the same meaning as the term “small business concern” under the Small Business Act.²⁵² A “small business concern” is one which: (1) Is independently owned and operated; (2) is not dominant in its field of operation; and (3) satisfies any additional criteria established by the SBA.²⁵³

²⁵⁰ 5 U.S.C. 603(b)(3).

²⁵¹ Id. 601(6).

²⁵² Id. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

²⁵³ 15 U.S.C. 632.

8. Small Businesses, Small Organizations, Small Governmental Jurisdictions. Our actions, over time, may affect small entities that are not easily categorized at present. We therefore describe here, at the outset, three broad groups of small entities that could be directly affected herein.²⁵⁴ First, while there are industry specific size standards for small businesses that are used in the regulatory flexibility analysis, according to data from the Small Business Administration's (SBA) Office of Advocacy, in general a small business is an independent business having fewer than 500 employees.²⁵⁵ These types of small businesses represent 99.9% of all businesses in the United States, which translates to 30.7 million businesses.²⁵⁶

²⁵⁴ See 5 U.S.C. 601(3)-(6).

²⁵⁵ See SBA, Office of Advocacy, “What's New With Small Business?”, https://cdn.advocacy.sba.gov/wp-content/uploads/2019/09/23172859/Whats-New-With-Small-Business-2019.pdf (Sept 2019).

²⁵⁶ Id.

9. Next, the type of small entity described as a “small organization” is generally “any not-for-profit enterprise which is independently owned and operated and is not dominant in its field.” ²⁵⁷ The Internal Revenue Service (IRS) uses a revenue benchmark of $50,000 or less to delineate its annual electronic filing requirements for small exempt organizations.²⁵⁸ Nationwide, for tax year 2018, there were approximately 571,709 small exempt organizations in the U.S. reporting revenues of $50,000 or less according to the registration and tax data for exempt organizations available from the IRS.²⁵⁹

²⁵⁷ 5 U.S.C. 601(4).

²⁵⁸ The IRS benchmark is similar to the population of less than 50,000 benchmark in 5 U.S.C 601(5) that is used to define a small governmental jurisdiction. Therefore, the IRS benchmark has been used to estimate the number small organizations in this small entity description. See Annual Electronic Filing Requirement for Small Exempt Organizations—Form 990-N (e-Postcard), “Who must file,” https://www.irs.gov/charities-non-profits/annual-electronic-filing-requirement-for-small-exempt-organizations-form-990-n-e-postcard. We note that the IRS data does not provide information on whether a small exempt organization is independently owned and operated or dominant in its field.

²⁵⁹ See Exempt Organizations Business Master File Extract (E.O. BMF), “CSV Files by Region,” https://www.irs.gov/charities-non-profits/exempt-organizations-business-master-file-extract-eo-bmf. The IRS Exempt Organization Business Master File (E.O. BMF) Extract provides information on all registered tax-exempt/non-profit organizations. The data utilized for purposes of this description was extracted from the IRS E.O. BMF data for Region 1-Northeast Area (76,886), Region 2-Mid-Atlantic and Great Lakes Areas (221,121), and Region 3-Gulf Coast and Pacific Coast Areas (273,702) which includes the continental U.S., Alaska, and Hawaii. This data does not include information for Puerto Rico.

10. Finally, the small entity described as a “small governmental jurisdiction” is defined generally as “governments of cities, counties, towns, townships, villages, school districts, or special districts, with a population of less than fifty thousand.” ²⁶⁰ U.S. Census Bureau data from the 2017 Census of Governments ²⁶¹ indicate that there were 90,075 local governmental jurisdictions consisting of general purpose governments and special purpose governments in the United States.²⁶² Of this number there were 36,931 general purpose governments (county,²⁶³ municipal and town or township ²⁶⁴) with populations of less than 50,000 and 12,040 special purpose governments—independent school districts ²⁶⁵ with enrollment populations of less than 50,000.²⁶⁶ Accordingly, based on the 2017 U.S. Census of Governments data, we estimate that at least 48,971 entities fall into the category of “small governmental jurisdictions.” ²⁶⁷

²⁶⁰ 5 U.S.C. 601(5).

²⁶¹ See 13 U.S.C. 161. The Census of Governments survey is conducted every five (5) years compiling data for years ending with “2” and “7”. See also Census of Governments, https://www.census.gov/programs-surveys/cog/about.html.

²⁶² See U.S. Census Bureau, 2017 Census of Governments—Organization Table 2. Local Governments by Type and State: 2017 [CG1700ORG02]. https://www.census.gov/data/tables/2017/econ/gus/2017-governments.html. Local governmental jurisdictions are made up of general purpose governments (county, municipal and town or township) and special purpose governments (special districts and independent school districts). See also Table 2. CG1700ORG02 Table Notes_Local Governments by Type and State_2017.

²⁶³ See id. at Table 5. County Governments by Population-Size Group and State: 2017 [CG1700ORG05]. https://www.census.gov/data/tables/2017/econ/gus/2017-governments.html. There were 2,105 county governments with populations less than 50,000. This category does not include subcounty (municipal and township) governments.

²⁶⁴ See id. at Table 6. Subcounty General-Purpose Governments by Population-Size Group and State: 2017 [CG1700ORG06]. https://www.census.gov/data/tables/2017/econ/gus/2017-governments.html. There were 18,729 municipal and 16,097 town and township governments with populations less than 50,000.

²⁶⁵ See id. at Table 10. Elementary and Secondary School Systems by Enrollment-Size Group and State: 2017 [CG1700ORG10]. https://www.census.gov/data/tables/2017/econ/gus/2017-governments.html. There were 12,040 independent school districts with enrollment populations less than 50,000. See also Table 4. Special-Purpose Local Governments by State Census Years 1942 to 2017 [CG1700ORG04], CG1700ORG04 Table Notes Special Purpose Local Governments by State Census Years 1942 to 2017.

²⁶⁶ While the special purpose governments category also includes local special district governments, the 2017 Census of Governments data does not provide data aggregated based on population size for the special purpose governments category. Therefore, only data from independent school districts is included in the special purpose governments category.

²⁶⁷ This total is derived from the sum of the number of general purpose governments (county, municipal and town or township) with populations of less than 50,000 (36,931) and the number of special purpose governments—independent school districts with enrollment populations of less than 50,000 (12,040), from the 2017 Census of Governments—Organizations Tables 5, 6, and 10.

11. Wired Telecommunications Carriers. The U.S. Census Bureau defines this industry as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable and IPTV) audio and video programming distribution, and wired broadband internet services. By exception, establishments providing satellite television distribution services using facilities and infrastructure that they operate are included in this industry.” ²⁶⁸ The SBA has developed a small business size standard for Wired Telecommunications Carriers, which consists of all such companies having 1,500 or fewer employees.²⁶⁹ U.S. Census Bureau data for 2012 show that there were 3,117 firms that operated that year.²⁷⁰ Of this total, 3,083 operated with fewer than 1,000 employees.²⁷¹ Thus, under this size standard, the majority of firms in this industry can be considered small.

²⁶⁸ See 13 CFR 120.201. The Wired Telecommunications Carrier category formerly used the NAICS code of 517110. As of 2017 the U.S. Census Bureau definition shows the NAICS code as 517311 for Wired Telecommunications Carriers. See U.S. Census Bureau, 2017 NAICS Definition, https://www.census.gov/cgi-bin/sssd/naics/naicsrch?code=517311&search=2017.

²⁶⁹ See 13 CFR 120.201, NAICS Code 517311 (previously 517110).

²⁷⁰ See U.S. Census Bureau, 2012 Economic Census of the United States, Table No. EC1251SSSZ5, Information: Subject Series—Estab & Firm Size: Employment Size of Firms: 2012 (517110 Wired Telecommunications Carriers). https://factfinder.census.gov/bkmk/table/1.0/en/ECN/2012_US/51SSSZ5//naics~517110.

²⁷¹ Id.

12. Local Exchange Carriers (LECs). Neither the Commission nor the SBA has developed a size standard for small businesses specifically applicable to local exchange services. The closest applicable NAICS Code category is Wired Telecommunications Carriers.²⁷² Under the applicable SBA size standard, such a business is small if it has 1,500 or fewer employees.²⁷³ U.S. Census Bureau data for 2012 show that there were 3,117 firms that operated for the entire year.²⁷⁴ Of that total, 3,083 operated with fewer than 1,000 employees.²⁷⁵ Thus under this category and the associated size standard, the Commission estimates that the majority of local exchange carriers are small entities.

²⁷² See 13 CFR 121.201. The Wired Telecommunications Carrier category formerly used the NAICS code of 517110. As of 2017 the U.S. Census Bureau definition shows the NAICs code as 517311 for Wired Telecommunications Carriers. See https://www.census.gov/cgi-bin/sssd/naics/naicsrch?code=517311&search=2017.

²⁷³ Id.

²⁷⁴ See U.S. Census Bureau, 2012 Economic Census of the United States, Table No. EC1251SSSZ5, Information: Subject Series—Estab & Firm Size: Employment Size of Firms: 2012 (517110 Wired Telecommunications Carriers). https://factfinder.census.gov/bkmk/table/1.0/en/ECN/2012_US/51SSSZ5//naics~517110.

²⁷⁵ Id.

13. Incumbent LECs. Neither the Commission nor the SBA has developed a small business size standard specifically for incumbent local exchange services. The closest applicable NAICS Code category is Wired Telecommunications Carriers.²⁷⁶ Under the applicable SBA size standard, such a business is small if it has 1,500 or fewer employees.²⁷⁷ U.S. Census Bureau data for 2012 indicate that 3,117 firms operated the entire year.²⁷⁸ Of this total, 3,083 operated with fewer than 1,000 employees.²⁷⁹ Consequently, the Commission estimates that most providers of incumbent local exchange service are small businesses that may be affected by our actions. According to Commission data, one thousand three hundred and seven (1,307) Incumbent Local Exchange Carriers reported that they were incumbent local exchange service providers.²⁸⁰ Of this total, an estimated 1,006 have 1,500 or fewer employees.²⁸¹ Thus, using the SBA's size standard the majority of incumbent LECs can be considered small entities.

²⁷⁶ See 13 CFR 121.201. The Wired Telecommunications Carrier category formerly used the NAICS code of 517110. As of 2017 the U.S. Census Bureau definition shows the NAICs code as 517311 for Wired Telecommunications Carriers. See, https://www.census.gov/cgi-bin/sssd/naics/naicsrch?code=517311&search=2017.

²⁷⁷ Id.

²⁷⁸ See U.S. Census Bureau, 2012 Economic Census of the United States, Table No. EC1251SSSZ5, Information: Subject Series—Estab & Firm Size: Employment Size of Firms: 2012 (517110 Wired Telecommunications Carriers). https://factfinder.census.gov/bkmk/table/1.0/en/ECN/2012_US/51SSSZ5//naics~517110.

²⁷⁹ Id.

²⁸⁰ See Trends in Telephone Service, Federal Communications Commission, Wireline Competition Bureau, Industry Analysis and Technology Division at Table 5.3 (Sept. 2010) (Trends in Telephone Service).

²⁸¹ Id.

14. Competitive Local Exchange Carriers (Competitive LECs), Competitive Access Providers (CAPs), Shared-Tenant Service Providers, and Other Local Service Providers. Neither the Commission nor the SBA has developed a small business size standard specifically for these service providers. The appropriate NAICS Code category is Wired Telecommunications Carriers and under that size standard, such a business is small if it has 1,500 or fewer employees.²⁸² U.S. Census Bureau data for 2012 indicate that 3,117 firms operated during that year.²⁸³ Of that number, 3,083 operated with fewer than 1,000 employees.²⁸⁴ Based on these data, the Commission concludes that the majority of Competitive LECS, CAPs, Shared-Tenant Service Providers, and Other Local Service Providers, are small entities. According to Commission data, 1,442 carriers reported that they were engaged in the provision of either competitive local exchange services or competitive access provider services.²⁸⁵ Of these 1,442 carriers, an estimated 1,256 have 1,500 or fewer employees.²⁸⁶ In addition, 17 carriers have reported that they are Shared-Tenant Service Providers, and all 17 are estimated to have 1,500 or fewer employees.²⁸⁷ Also, 72 carriers have reported that they are Other Local Service Providers.²⁸⁸ Of this total, 70 have 1,500 or fewer employees.²⁸⁹ Consequently, based on internally researched FCC data, the Commission estimates that most providers of competitive local exchange service, competitive access providers, Shared-Tenant Service Providers, and Other Local Service Providers are small entities.

²⁸² See 13 CFR 121.201. The Wired Telecommunications Carrier category formerly used the NAICS code of 517110. As of 2017 the U.S. Census Bureau definition shows the NAICs code as 517311 for Wired Telecommunications Carriers. See, https://www.census.gov/cgi-bin/sssd/naics/naicsrch?code=517311&search=2017.

²⁸³ See U.S. Census Bureau, 2012 Economic Census of the United States, Table No. EC1251SSSZ5, Information: Subject Series—Estab & Firm Size: Employment Size of Firms: 2012 (517110 Wired Telecommunications Carriers). https://factfinder.census.gov/bkmk/table/1.0/en/ECN/2012_US/51SSSZ5//naics~517110.s.

²⁸⁴ Id.

²⁸⁵ See Federal Communications Commission, Wireline Competition Bureau, Industry Analysis and Technology Division, Trends in Telephone Service at Table 5.3 (Sept. 2010) (Trends in Telephone Service), https://apps.fcc.gov/edocs_public/attachmatch/DOC-301823A1.pdf.

²⁸⁶ Id.

²⁸⁷ Id.

²⁸⁸ Id.

²⁸⁹ Id.

15. Interexchange Carriers (IXCs). Neither the Commission nor the SBA has developed a small business size standard specifically for Interexchange Carriers. The closest applicable NAICS Code category is Wired Telecommunications Carriers.²⁹⁰ The applicable size standard under SBA rules is that such a business is small if it has 1,500 or fewer employees.²⁹¹ U.S. Census Bureau data for 2012 indicate that 3,117 firms operated for the entire year.²⁹² Of that number, 3,083 operated with fewer than 1,000 employees.²⁹³ According to internally developed Commission data, 359 companies reported that their primary telecommunications service activity was the provision of interexchange services.²⁹⁴ Of this total, an estimated 317 have 1,500 or fewer employees.²⁹⁵ Consequently, the Commission estimates that the majority of interexchange service providers are small entities.

²⁹⁰ See 13 CFR 121.201. The Wired Telecommunications Carrier category formerly used the NAICS code of 517110. As of 2017 the U.S. Census Bureau definition shows the NAICs code as 517311 for Wired Telecommunications Carriers. See U.S. Census Bureau, 2017 NAICS Definition, https://www.census.gov/cgi-bin/sssd/naics/naicsrch?code=517311&search=2017.

²⁹¹ Id.

²⁹² See U.S. Census Bureau, 2012 Economic Census of the United States, Table No. EC1251SSSZ5, Information: Subject Series—Estab & Firm Size: Employment Size of Firms: 2012 (517110 Wired Telecommunications Carriers). https://factfinder.census.gov/bkmk/table/1.0/en/ECN/2012_US/51SSSZ5//naics~517110.

²⁹³ Id.

²⁹⁴ See Trends in Telephone Service, Federal Communications Commission, Wireline Competition Bureau, Industry Analysis and Technology Division at Table 5.3 (Sept. 2010) (Trends in Telephone Service). https://apps.fcc.gov/edocs_public/attachmatch/DOC-301823A1.pdf.

²⁹⁵ Id.

16. Prepaid Calling Card Providers. Neither the Commission nor the SBA has developed a small business size standard specifically for prepaid calling card providers. The appropriate NAICS code category for prepaid calling card providers is Telecommunications Resellers. This industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry.²⁹⁶ The SBA has developed a small business size standard for the category of Telecommunications Resellers.²⁹⁷ Under that size standard, such a business is small if it has 1,500 or fewer employees.²⁹⁸ U.S. Census Bureau data for 2012 show that 1,341 firms provided resale services during that year.²⁹⁹ Of that number, 1,341 operated with fewer than 1,000 employees.³⁰⁰ Thus, under this category and the associated small business size standard, the majority of these resellers can be considered small entities. According to Commission data, 193 carriers have reported that they are engaged in the provision of prepaid calling cards.³⁰¹ All 193 carriers have 1,500 or fewer employees.³⁰² Consequently, the Commission estimates that the majority of prepaid calling card providers are small.

²⁹⁶ U.S. Census Bureau, 2017 NAICS Definition, NAICS Code 517911 “Telecommunications Resellers”, https://www.census.gov/cgi-bin/sssd/naics/naicsrch?code=517911&search=2017%20NAICS%20Search.

²⁹⁷ 13 CFR 121.201 (NAICS code 517911).

²⁹⁸ Id.

²⁹⁹ See U.S. Census Bureau, 2012 Economic Census of the United States, Table No. EC1251SSSZ5, Information: Subject Series—Estab & Firm Size: Employment Size of Firms: 2012 NAICS Code 517911, https://factfinder.census.gov/bkmk/table/1.0/en/ECN/2012_US/51SSSZ5//naics~517911.

³⁰⁰ Id. Available census data does not provide a more precise estimate of the number of firms that have employment of 1,500 or fewer employees; the largest category provided is for firms with “1000 employees or more.”

³⁰¹ See Trends in Telephone Service, at Table 5.3.

³⁰² Id.

17. Local Resellers. The SBA has not developed a small business size standard specifically for Local Resellers. The SBA category of Telecommunications Resellers is the closest NAICs code category for local resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry.³⁰³ Under the SBA's size standard, such a business is small if it has 1,500 or fewer employees.³⁰⁴ U.S. Census Bureau data from 2012 show that 1,341 firms provided resale services during that year.³⁰⁵ Of that number, all operated with fewer than 1,000 employees.³⁰⁶ Thus, under this category and the associated small business size standard, the majority of these resellers can be considered small entities. According to Commission data, 213 carriers have reported that they are engaged in the provision of local resale services.³⁰⁷ Of these, an estimated 211 have 1,500 or fewer employees and two have more than 1,500 employees.³⁰⁸ Consequently, the Commission estimates that the majority of local resellers are small entities.

³⁰³ U.S. Census Bureau, 2017 NAICS Definition, 517911 Telecommunications Resellers, https://www.census.gov/cgi-bin/sssd/naics/naicsrch?code=517911&search=2017%20NAICS%20Search.

³⁰⁴ 13 CFR 121.201, NAICS code 517911.

³⁰⁵ See U.S. Census Bureau, 2012 Economic Census of the United States, Table No. EC1251SSSZ5, Information: Subject Series—Estab & Firm Size: Employment Size of Firms: 2012 NAICS Code 517911, https://factfinder.census.gov/bkmk/table/1.0/en/ECN/2012_US/51SSSZ5//naics~517911.

³⁰⁶ Id. Available census data does not provide a more precise estimate of the number of firms that have employment of 1,500 or fewer employees; the largest category provided is for firms with “1000 employees or more.”

³⁰⁷ See Trends in Telephone Service, Federal Communications Commission, Wireline Competition Bureau, Industry Analysis and Technology Division at Table 5.3 (Sept. 2010) (Trends in Telephone Service).

³⁰⁸ See id.

18. Toll Resellers. The Commission has not developed a definition for Toll Resellers. The closest NAICS Code Category is Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry.³⁰⁹ The SBA has developed a small business size standard for the category of Telecommunications Resellers.³¹⁰ Under that size standard, such a business is small if it has 1,500 or fewer employees.³¹¹ 2012 Census Bureau data show that 1,341 firms provided resale services during that year.³¹² Of that number, 1,341 operated with fewer than 1,000 employees.³¹³ Thus, under this category and the associated small business size standard, the majority of these resellers can be considered small entities. According to Commission data, 881 carriers have reported that they are engaged in the provision of toll resale services.³¹⁴ Of this total, an estimated 857 have 1,500 or fewer employees.³¹⁵ Consequently, the Commission estimates that the majority of toll resellers are small entities. The closest NAICS Code Category is Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry.³¹⁶ The SBA has developed a small business size standard for the category of Telecommunications Resellers.³¹⁷ Under that size standard, such a business is small if it has 1,500 or fewer employees.³¹⁸ 2012 Census Bureau data show that 1,341 firms provided resale services during that year.³¹⁹ Of that number, 1,341 operated with fewer than 1,000 employees.³²⁰ Thus, under this category and the associated small business size standard, the majority of these resellers can be considered small entities. According to Commission data, 881 carriers have reported that they are engaged in the provision of toll resale services.³²¹ Of this total, an estimated 857 have 1,500 or fewer employees.³²² Consequently, the Commission estimates that the majority of toll resellers are small entities.

³⁰⁹ U.S. Census Bureau, 2017 NAICS Definition, 517911 Telecommunications Resellers, https://www.census.gov/cgi-bin/sssd/naics/naicsrch?code=517911&search=2017%20NAICS%20Search.

³¹⁰ 13 CFR 121.201, NAICS code 517911.

³¹¹ Id.

³¹² See U.S. Census Bureau, 2012 Economic Census of the United States, Table No. EC1251SSSZ5, Information: Subject Series—Estab & Firm Size: Employment Size of Firms: 2012 NAICS Code 517911, https://factfinder.census.gov/bkmk/table/1.0/en/ECN/2012_US/51SSSZ5//naics~517911.

³¹³ Id. Available census data does not provide a more precise estimate of the number of firms that have employment of 1,500 or fewer employees; the largest category provided is for firms with “1000 employees or more.”

³¹⁴ See Trends in Telephone Service, Federal Communications Commission, Wireline Competition Bureau, Industry Analysis and Technology Division at Table 5.3 (Sept. 2010) (Trends in Telephone Service).

³¹⁵ See id.

³¹⁶ U.S. Census Bureau, 2017 NAICS Definition, 517911 Telecommunications Resellers, https://www.census.gov/cgi-bin/sssd/naics/naicsrch?code=517911&search=2017%20NAICS%20Search.

³¹⁷ 13 CFR 121.201, NAICS code 517911.

³¹⁸ Id.

³¹⁹ See U.S. Census Bureau, 2012 Economic Census of the United States, Table No. EC1251SSSZ5, Information: Subject Series—Estab & Firm Size: Employment Size of Firms: 2012 NAICS Code 517911, https://factfinder.census.gov/bkmk/table/1.0/en/ECN/2012_US/51SSSZ5//naics~517911.

³²⁰ Id. Available census data does not provide a more precise estimate of the number of firms that have employment of 1,500 or fewer employees; the largest category provided is for firms with “1000 employees or more.”

³²¹ See Trends in Telephone Service, Federal Communications Commission, Wireline Competition Bureau, Industry Analysis and Technology Division at Table 5.3 (Sept. 2010) (Trends in Telephone Service).

³²² See id.

19. Other Toll Carriers. Neither the Commission nor the SBA has developed a size standard for small businesses specifically applicable to Other Toll Carriers. This category includes toll carriers that do not fall within the categories of interexchange carriers, operator service providers, prepaid calling card providers, satellite service carriers, or toll resellers. The closest applicable NAICS code category is for Wired Telecommunications Carriers, as defined in paragraph 6 of this IRFA. Under that size standard, such a business is small if it has 1,500 or fewer employees.³²³ U.S. Census Bureau data for 2012 show that there were 3,117 firms that operated that year.³²⁴ Of this total, 3,083 operated with fewer than 1,000 employees.³²⁵ Thus, under this size standard, the majority of firms in this industry can be considered small. According to Commission data, 284 companies reported that their primary telecommunications service activity was the provision of other toll carriage.³²⁶ Of these, an estimated 279 have 1,500 or fewer employees.³²⁷ Consequently, the Commission estimates that most Other Toll Carriers are small entities.

³²³ See 13 CFR 120.201, NAICS Code 517311 (previously 517110).

³²⁴ See U.S. Census Bureau, 2012 Economic Census of the United States, Table No. EC1251SSSZ5, Information: Subject Series—Estab & Firm Size: Employment Size of Firms: 2012 (517110 Wired Telecommunications Carriers). https://factfinder.census.gov/bkmk/table/1.0/en/ECN/2012_US/51SSSZ5//naics~517110.

³²⁵ Id.

³²⁶ Trends in Telephone Service, at Table 5.3.

³²⁷ Id.

20. Wireless Telecommunications Carriers (except Satellite). This industry comprises establishments engaged in operating and maintaining switching and transmission facilities to provide communications via the airwaves. Establishments in this industry have spectrum licenses and provide services using that spectrum, such as cellular services, paging services, wireless internet access, and wireless video services.³²⁸ The appropriate size standard under SBA rules is that such a business is small if it has 1,500 or fewer employees.³²⁹ For this industry, U.S. Census Bureau data for 2012 show that there were 967 firms that operated for the entire year.³³⁰ Of this total, 955 firms had employment of 999 or fewer employees.³³¹ Thus under this category and the associated size standard, the Commission estimates that the majority of wireless telecommunications carriers (except satellite) are small entities.

³²⁸ U.S. Census Bureau, 2012 NAICS Definitions, “517210 Wireless Telecommunications Carriers (Except Satellite).” See https://factfinder.census.gov/faces/affhelp/jsf/pages/metadata.xhtml?lang=en&type=ib&id=ib.en./ECN.NAICS2012.517210.

³²⁹ 13 CFR 121.201, NAICS code 517210.

³³⁰ U.S. Census Bureau, 2012 Economic Census of the United States, Table EC1251SSSZ5, Information: Subject Series: Estab and Firm Size: Employment Size of Firms for the U.S.: 2012 NAICS Code 517210. https://factfinder.census.gov/bkmk/table/1.0/en/ECN/2012_US/51SSSZ5//naics~517210.

³³¹ Id. Available census data does not provide a more precise estimate of the number of firms that have employment of 1,500 or fewer employees; the largest category provided is for firms with “1000 employees or more.”

21. Television Broadcasting. This Economic Census category “comprises establishments primarily engaged in broadcasting images together with sound.” ³³² These establishments operate television broadcast studios and facilities for the programming and transmission of programs to the public.³³³ These establishments also produce or transmit visual programming to affiliated broadcast television stations, which in turn broadcast the programs to the public on a predetermined schedule. Programming may originate in their own studio, from an affiliated network, or from external sources. The SBA has created the following small business size standard for such businesses: Those having $41.5 million or less in annual receipts.³³⁴ The 2012 Economic Census reports that 751 firms in this category operated in that year.³³⁵ Of that number, 656 had annual receipts of $25,000,000 or less.³³⁶ Based on this data we therefore estimate that the majority of commercial television broadcasters are small entities under the applicable SBA size standard.

³³² U.S. Census Bureau, 2017 NAICS Definitions, “515120 Television Broadcasting,” https://www.census.gov/cgi-bin/sssd/naics/naicsrch?input=515120&search=2017+NAICS+Search&search=2017.

³³³ Id.

³³⁴ 13 CFR 121.201; 2012 NAICS code 515120.

³³⁵ U.S. Census Bureau, Table No. EC1251SSSZ4, Information: Subject Series—Establishment and Firm Size: Receipts Size of Firms for the United States: 2012 (515120 Television Broadcasting). https://factfinder.census.gov/bkmk/table/1.0/en/ECN/2012_US/51SSSZ4//naics~515120.

³³⁶ Id.

22. The Commission has estimated the number of licensed commercial television stations to be 1,377.³³⁷ Of this total, 1,258 stations (or about 91%) had revenues of $41.5 million or less, according to Commission staff review of the BIA Kelsey Inc. Media Access Pro Television Database (BIA) on November 16, 2017, and therefore these licensees qualify as small entities under the SBA definition. In addition, the Commission has estimated the number of licensed noncommercial educational television stations to be 384.³³⁸ Notwithstanding, the Commission does not compile and otherwise does not have access to information on the revenue of noncommercial educational broadcast services stations that would permit it to determine how many such stations would qualify as small entities. There are also 2,300 low power television stations, including Class A stations (LPTV) and 3,681 TV translator stations.³³⁹ Given the nature of these services, we will presume that all of these entities qualify as small entities under the above SBA small business size standard.

³³⁷ Broadcast Station Totals as of June 30, 2018, Press Release (MB, rel. Jul. 3, 2018) (June 30, 2018 Broadcast Station Totals Press Release), https://docs.fcc.gov/public/attachments/DOC-352168A1.pdf.

³³⁸ Id.

³³⁹ Id.

23. We note, however, that in assessing whether a business concern qualifies as “small” under the above definition, business (control) affiliations ³⁴⁰ must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific television broadcast station is dominant in its field of operation. Accordingly, the estimate of small businesses to which rules may apply does not exclude any television station from the definition of a small business on this basis and is therefore possibly over-inclusive. Also, as noted above, an additional element of the definition of “small business” is that the entity must be independently owned and operated. The Commission notes that it is difficult at times to assess these criteria in the context of media entities and its estimates of small businesses to which they apply may be over-inclusive to this extent.

³⁴⁰ “[Business concerns] are affiliates of each other when one concern controls or has the power to control the other or a third party or parties controls or has the power to control both.” 13 CFR 21.103(a)(1).

24. Radio Stations. This Economic Census category “comprises establishments primarily engaged in broadcasting aural programs by radio to the public. Programming may originate in their own studio, from an affiliated network, or from external sources.” ³⁴¹ The SBA has established a small business size standard for this category as firms having $41.5 million or less in annual receipts.³⁴² Economic Census data for 2012 show that 2,849 radio station firms operated during that year.³⁴³ Of that number, 2,806 firms operated with annual receipts of less than $25 million per year.³⁴⁴ Therefore, based on the SBA's size standard the majority of such entities are small entities.

³⁴¹ U.S. Census Bureau, 2017 NAICS Definitions, “515112 Radio Stations,” https://www.census.gov/cgi-bin/sssd/naics/naicsrch?input=515112&search=2017+NAICS+Search&search=2017.

³⁴² 13 CFR 121.201; NAICS code 515112.

³⁴³ U.S. Census Bureau, Table No. EC1251SSSZ4, Information: Subject Series—Establishment and Firm Size: Receipts Size of Firms for the United States: 2012 NAICS Code 515112, https://factfinder.census.gov/bkmk/table/1.0/en/ECN/2012_US/51SSSZ4//naics~515112.

³⁴⁴ Id.

25. According to Commission staff review of the BIA/Kelsey, LLC's Media Access Pro Radio Database as of January 2018, about 11,261 (or about 99.9%) of 11,383 commercial radio stations had revenues of $41.5 million or less and thus qualify as small entities under the SBA definition.³⁴⁵ The Commission has estimated the number of licensed commercial AM radio stations to be 4,633 stations and the number of commercial FM radio stations to be 6,738, for a total number of 11,371.³⁴⁶ We note the Commission has also estimated the number of licensed noncommercial FM radio stations to be 4,128.³⁴⁷ Nevertheless, the Commission does not compile and otherwise does not have access to information on the revenue of noncommercial stations that would permit it to determine how many such stations would qualify as small entities. We also note, that in assessing whether a business entity qualifies as small under the above definition, business control affiliations must be included.³⁴⁸ The Commission's estimate therefore likely overstates the number of small entities that might be affected by its action, because the revenue figure on which it is based does not include or aggregate revenues from affiliated companies. In addition, to be determined a “small business,” an entity may not be dominant in its field of operation.³⁴⁹ We further note, that it is difficult at times to assess these criteria in the context of media entities, and the estimate of small businesses to which these rules may apply does not exclude any radio station from the definition of a small business on these basis, thus our estimate of small businesses may therefore be over-inclusive. Also, as noted above, an additional element of the definition of “small business” is that the entity must be independently owned and operated. The Commission notes that it is difficult at times to assess these criteria in the context of media entities and the estimates of small businesses to which they apply may be over-inclusive to this extent.

³⁴⁵ BIA/Kelsey, MEDIA Access Pro Database (viewed Jan. 26, 2018).

³⁴⁶ Broadcast Station Totals as of June 30, 2018, Press Release (MB Jul. 3, 2018) (June 30, 2018 Broadcast Station Totals), https://docs.fcc.gov/public/attachments/DOC-352168A1.pdf.

³⁴⁷ Id.

³⁴⁸ “[Business concerns] are affiliates of each other when one concern controls or has the power to control the other, or a third party or parties controls or has power to control both.” 13 CFR 121.103(a)(1).

³⁴⁹ Id. 121.102(b).

26. Cable Companies and Systems (Rate Regulation). The Commission has also developed its own small business size standards, for the purpose of cable rate regulation. Under the Commission's rules, a “small cable company” is one serving 400,000 or fewer subscribers nationwide.³⁵⁰ Industry data indicate that there are 4,600 active cable systems in the United States.³⁵¹ Of this total, all but five cable operators nationwide are small under the 400,000-subscriber size standard.³⁵² In addition, under the Commission's rate regulation rules, a “small system” is a cable system serving 15,000 or fewer subscribers.³⁵³ Commission records show 4,600 cable systems nationwide.³⁵⁴ Of this total, 3,900 cable systems have fewer than 15,000 subscribers, and 700 systems have 15,000 or more subscribers, based on the same records.³⁵⁵ Thus, under this standard as well, we estimate that most cable systems are small entities.

³⁵⁰ 47 CFR 76.901(e). The Commission determined that this size standard equates approximately to a size standard of $100 million or less in annual revenues. Implementation of Sections of the 1992 Cable Act: Rate Regulation, Sixth Report and Order and Eleventh Order on Reconsideration, 10 FCC Rcd 7393, 7408 (1995).

³⁵¹ The number of active, registered cable systems comes from the Commission's Cable Operations and Licensing System (COALS) database on August 15, 2015. See FCC, Cable Operations and Licensing System (COALS), www.fcc.gov/coals (last visited Oct. 25, 2016).

³⁵² S&P Global Market Intelligence, Top Cable MSOs as of 12/2019, https://platform.marketintelligence.spglobal.com/(Dec 2019). The five cable operators all had more than 400,000 basic cable subscribers.

³⁵³ 47 CFR 76.901(c).

³⁵⁴ See supra note 351.

³⁵⁵ Id.

27. Cable System Operators (Telecom Act Standard). The Communications Act of 1934, as amended also contains a size standard for small cable system operators, which is “a cable operator that, directly or through an affiliate, serves in the aggregate fewer than one percent of all subscribers in the United States and is not affiliated with any entity or entities whose gross annual revenues in the aggregate exceed $250,000,000.” ³⁵⁶ As of 2019, there were approximately 48,646,056 cable video subscribers in the United States.³⁵⁷ Accordingly, an operator serving fewer than 486,460 subscribers shall be deemed a small operator if its annual revenues, when combined with the total annual revenues of all its affiliates, do not exceed $250 million in the aggregate.³⁵⁸ Based on available data, we find that all but five incumbent cable operators are small entities under this size standard.³⁵⁹ We note that the Commission neither requests nor collects information on whether cable system operators are affiliated with entities whose gross annual revenues exceed $250 million.³⁶⁰ Therefore we are unable at this time to estimate with greater precision the number of cable system operators that would qualify as small cable operators under the definition in the Communications Act.

³⁵⁶ 47 CFR 76.90(f) and notes ff. 1, 2, and 3.

³⁵⁷ S&P Global Market Intelligence, U.S. Cable Subscriber Highlights, Basic Subscribers(actual) 2018, U.S. Cable MSO Industry Total.

³⁵⁸ 47 CFR 76.901(f) and notes ff. 1, 2, and 3.

³⁵⁹ S&P Global Market Intelligence, U.S. Cable Subscriber Highlights, Basic Subscribers(actual) 2019, U.S. Cable MSO Industry Total, see also U.S. Multichannel Industry Benchmarks, U.S. Cable Industry Benchmarks, Basic Subscribers 2019Y, https://platform.marketintelligence.spglobal.com.

³⁶⁰ The Commission receives such information on a case-by-case basis if a cable operator appeals a local franchise authority's finding that the operator does not qualify as a small cable operator pursuant to § 76.901(f) of the Commission's rules. See 47 CFR 76.901(f).

28. Direct Broadcast Satellite (DBS) Service. DBS service is a nationally distributed subscription service that delivers video and audio programming via satellite to a small parabolic “dish” antenna at the subscriber's location. DBS is included in SBA's economic census category “Wired Telecommunications Carriers.” ³⁶¹ The Wired Telecommunications Carriers industry comprises establishments primarily engaged in operating and/or providing access to transmission facilities and infrastructure that they own and/or lease for the transmission of voice, data, text, sound, and video using wired telecommunications networks.³⁶² Transmission facilities may be based on a single technology or combination of technologies. Establishments in this industry use the wired telecommunications network facilities that they operate to provide a variety of services, such as wired telephony services, including VoIP services, wired (cable) audio and video programming distribution; and wired broadband internet services.³⁶³ By exception, establishments providing satellite television distribution services using facilities and infrastructure that they operate are included in this industry.³⁶⁴ The SBA determines that a wireline business is small if it has fewer than 1,500 employees.³⁶⁵ U.S. Census Bureau data for 2012 indicates that 3,117 wireline companies were operational during that year.³⁶⁶ Of that number, 3,083 operated with fewer than 1,000 employees.³⁶⁷ Based on that data, we conclude that the majority of wireline firms are small under the applicable SBA standard. Currently, however, only two entities provide DBS service, which requires a great deal of capital for operation: DIRECTV (owned by AT&T) and DISH Network.³⁶⁸ DIRECTV and DISH Network each report annual revenues that are in excess of the threshold for a small business. Accordingly, we must conclude that internally developed FCC data are persuasive that, in general, DBS service is provided only by large firms.

³⁶¹ See 13 CFR 120.201. The Wired Telecommunications Carrier category formerly used the NAICS code of 517110. As of 2017 the U.S. Census Bureau definition shows the NAICS code as 517311 for Wired Telecommunications Carriers. See https://www.census.gov/cgi-bin/sssd/naics/naicsrch?code=517311&search=2017.

³⁶² Id.

³⁶³ See id. Examples of this category are broadband internet service providers (e.g., cable, DSL); local telephone carriers (wired); cable television distribution services; long-distance telephone carriers (wired); CCTV services; VoIP service providers, using own operated wired telecommunications infrastructure; DTH services; telecommunications carriers (wired); satellite television distribution systems; and MMDS.

³⁶⁴ Id.

³⁶⁵ 13 CFR 121.201, NAICS Code 517110.

³⁶⁶ See U.S. Census Bureau, 2012 Economic Census of the United States, Table No. EC1251SSSZ5, Information: Subject Series—Estab & Firm Size: Employment Size of Firms: 2012 (517110 Wired Telecommunications Carriers). https://factfinder.census.gov/bkmk/table/1.0/en/ECN/2012_US/51SSSZ5//naics~517110.

³⁶⁷ Id.

³⁶⁸ See Annual Assessment of the Status of Competition in the Market for the Delivery of Video Programming, Eighteenth Report, Table III.A.5, 32 FCC Rcd 568, 595 (Jan. 17, 2017).

29. All Other Telecommunications. The “All Other Telecommunications” category is comprised of establishments primarily engaged in providing specialized telecommunications services, such as satellite tracking, communications telemetry, and radar station operation.³⁶⁹ This industry also includes establishments primarily engaged in providing satellite terminal stations and associated facilities connected with one or more terrestrial systems and capable of transmitting telecommunications to, and receiving telecommunications from, satellite systems.³⁷⁰ Establishments providing internet services or voice over internet protocol (VoIP) services via client-supplied telecommunications connections are also included in this industry.³⁷¹ The SBA has developed a small business size standard for All Other Telecommunications, which consists of all such firms with annual receipts of $35 million or less.³⁷² For this category, U.S. Census Bureau data for 2012 shows that there were 1,442 firms that operated for the entire year.³⁷³ Of those firms, a total of 1,400 had annual receipts less than $25 million and 15 firms had annual receipts of $25 million to $49, 999,999.³⁷⁴ Thus, the Commission estimates that the majority of “All Other Telecommunications” firms potentially affected by our action can be considered small.

³⁶⁹ See U.S. Census Bureau, 2017 NAICS Definitions, NAICS Code “517919 All Other Telecommunications”, https://www.census.gov/cgi-bin/sssd/naics/naicsrch?input=517919&search=2017+NAICS+Search&search=2017.

³⁷⁰ Id.

³⁷¹ Id.

³⁷² See 13 CFR 121.201, NAICS code 517919.

³⁷³ U.S. Census Bureau, 2012 Economic Census of the United States, Table EC1251SSSZ4, Information: Subject Series—Estab and Firm Size: Receipts Size of Firms for the United States: 2012, NAICS code 517919, https://factfinder.census.gov/bkmk/table/1.0/en/ECN/2012_US/51SSSZ4//naics~517919.

³⁷⁴ Id.

30. RespOrgs. Responsible Organizations, or RespOrgs, are entities chosen by toll free subscribers to manage and administer the appropriate records in the toll free Service Management System for the toll free subscriber.³⁷⁵ Although RespOrgs are often wireline carriers, they can also include non-carrier entities. Therefore, in the definition herein of RespOrgs, two categories are presented, i.e., Carrier RespOrgs and Non-Carrier RespOrgs.

³⁷⁵ See 47 CFR 52.101(b).

31. Carrier RespOrgs. Neither the Commission, the U.S. Census, nor the SBA have developed a definition for Carrier RespOrgs. Accordingly, the Commission believes that the closest NAICS code-based definitional categories for Carrier RespOrgs are Wired Telecommunications Carriers,³⁷⁶ and Wireless Telecommunications Carriers (except satellite).³⁷⁷

³⁷⁶ 13 CFR 121.201, NAICS code 517110.

³⁷⁷ Id.

32. The U.S. Census Bureau defines Wired Telecommunications Carriers as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry.” ³⁷⁸ The SBA has developed a small business size standard for Wired Telecommunications Carriers, which consists of all such companies having 1,500 or fewer employees.³⁷⁹ U.S. Census Bureau data for 2012 show that there were 3,117 firms that operated that year.³⁸⁰ Of this total, 3,083 operated with fewer than 1,000 employees.³⁸¹ Based on that data, we conclude that the majority of Carrier RespOrgs that operated with wireline-based technology are small.

³⁷⁸ See 13 CFR 120.201. The Wired Telecommunications Carrier category formerly used the NAICS code of 517110. As of 2017 the U.S. Census Bureau definition shows the NAICS code as 517311 for Wired Telecommunications Carriers. See U.S. Census Bureau, 2017 NAICS Definition, https://www.census.gov/cgi-bin/sssd/naics/naicsrch?code=517311&search=2017.

³⁷⁹ See 13 CFR 120.201, NAICS Code 517311 (previously 517110).

³⁸⁰ See U.S. Census Bureau, 2012 Economic Census of the United States, Table No. EC1251SSSZ5, Information: Subject Series—Estab & Firm Size: Employment Size of Firms: 2012 (517110 Wired Telecommunications Carriers). https://factfinder.census.gov/bkmk/table/1.0/en/ECN/2012_US/51SSSZ5//naics~517110.

³⁸¹ Id.

33. The U.S. Census Bureau defines Wireless Telecommunications Carriers (except satellite) as establishments engaged in operating and maintaining switching and transmission facilities to provide communications via the airwaves, such as cellular services, paging services, wireless internet access, and wireless video services.³⁸² The appropriate size standard under SBA rules is that such a business is small if it has 1,500 or fewer employees.³⁸³ Census data for 2012 show that 967 Wireless Telecommunications Carriers operated in that year. Of that number, 955 operated with less than 1,000 employees.³⁸⁴ Based on that data, we conclude that the majority of Carrier RespOrgs that operated with wireless-based technology are small.

³⁸² U.S. Census Bureau, 2012 NAICS Definitions, “517210 Wireless Telecommunications Carriers (Except Satellite).” See https://factfinder.census.gov/faces/affhelp/jsf/pages/metadata.xhtml?lang=en&type=ib&id=ib.en./ECN.NAICS2012.517210.

³⁸³ 13 CFR 120.201, NAICS code 517120.

³⁸⁴ U.S. Census Bureau, 2012 Economic Census of the United States, Table EC1251SSSZ5, Information: Subject Series: Estab and Firm Size: Employment Size of Firms for the U.S.: 2012 NAICS Code 517210. https://factfinder.census.gov/bkmk/table/1.0/en/ECN/2012_US/51SSSZ5//naics~517210pid=ECN_2012_US_51SSSZ4&prodType=table.

34. Non-Carrier RespOrgs. Neither the Commission, the U.S. Census, nor the SBA have developed a definition of Non-Carrier RespOrgs. Accordingly, the Commission believes that the closest NAICS code-based definitional categories for Non-Carrier RespOrgs are “Other Services Related to Advertising” ³⁸⁵ and “Other Management Consulting Services.” ³⁸⁶

³⁸⁵ 13 CFR 120.201, NAICS code 541890.

³⁸⁶ 13 CFR 120.201, NAICS code 541618.

35. The U.S. Census defines Other Services Related to Advertising as comprising establishments primarily engaged in providing advertising services (except advertising agency services, public relations agency services, media buying agency services, media representative services, display advertising services, direct mail advertising services, advertising material distribution services, and marketing consulting services).³⁸⁷ The SBA has established a size standard for this industry as annual receipts of $15 million dollars or less.³⁸⁸ Census data for 2012 show that 5,804 firms operated in this industry for the entire year. Of that number, 5,612 operated with annual receipts of less than $10 million.³⁸⁹ Based on that data we conclude that the majority of Non-Carrier RespOrgs who provide toll-free number (TFN)-related advertising services are small.

³⁸⁷ http://www.census,gov/cgi-bin/sssd/naics.naicsrch.

³⁸⁸ 13 CFR 120.201, NAICS code 541890.

³⁸⁹ http://factfinder.census.gov/faces/tableservices/jsf/pages/productview.xhtml?pid=ECN_2012_US_51SSSZ4&prodType=table.

36. The U.S. Census defines Other Management Consulting Services as establishments primarily engaged in providing management consulting services (except administrative and general management consulting; human resources consulting; marketing consulting; or process, physical distribution, and logistics consulting). Establishments providing telecommunications or utilities management consulting services are included in this industry.³⁹⁰ The SBA has established a size standard for this industry of $15 million dollars or less.³⁹¹ Census data for 2012 show that 3,683 firms operated in this industry for that entire year. Of that number, 3,632 operated with less than $10 million in annual receipts.³⁹² Based on this data, we conclude that a majority of non-carrier RespOrgs who provide TFN-related management consulting services are small.³⁹³

³⁹⁰ http://www.census,gov/cgi-bin/sssd/naics.naicsrch.

³⁹¹ 13 CFR 120.201, NAICS code 514618.

³⁹² http://factfinder.census.gov/faces/tableservices/jsf/pages/productview.xhtml?pid=ECN_2012_US_51SSSZ4&prodType=table.

³⁹³ The four NAICS code-based categories selected above to provide definitions for Carrier and Non-Carrier RespOrgs were selected because as a group they refer generically and comprehensively to all RespOrgs.

37. In addition to the data contained in the four (see above) U.S. Census NAICS code categories that provide definitions of what services and functions the Carrier and Non-Carrier RespOrgs provide, Somos, the trade association that monitors RespOrg activities, compiled data showing that as of July 1, 2016 there were 23 RespOrgs operational in Canada and 436 RespOrgs operational in the United States, for a total of 459 RespOrgs currently registered with Somos.

E. Description of Projected Reporting, Recordkeeping and Other Compliance Requirements for Small Entities

38. This Report and Order does not adopt any changes to the Commission's current information collection, reporting, recordkeeping, or compliance requirements. Licensees, including small entities, will be required to pay application fees after such fees are adopted. In some cases, we have adopted new application fees, as required by the RAY BAUM'S Act, but we are not adopting specific reporting or recordkeeping requirements for licensees.

F. Steps Taken To Minimize Significant Economic Impact on Small Entities, and Significant Alternatives Considered

39. The RFA requires an agency to describe any significant alternatives that it has considered in reaching its approach, which may include the following four alternatives, among others: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.³⁹⁴

³⁹⁴ 5 U.S.C. 603(c)(1)-(c)(4).

40. The fees adopted are based on the Commission's costs in processing the applications. This is now required under the RAY BAUM'S Act, in section 8 of the Communications Act.³⁹⁵ In many instances, the new fees are much lower than prior fees. In some cases, the new fees are similar to prior fees or slightly higher. There are, however, some new fees adopted for applications that previously had no fees. The Commission is required to base the application fees on costs and is required to adopt new cost-based fees. There are some exemptions set out in the statute, but no specific exemption for small entities. Due to the RAY BAUM'S Act requirement to adopt cost-based fees, the Commission did not have an opportunity or the discretion to minimize new fees that had not been previously collected. The Commission, in following the statute, adopted cost-based criteria for all applications, whether fees were lowered, stayed the same, or were increased.

³⁹⁵ 47 U.S.C. 158(a).

41. Report to Congress: The Commission will send a copy of the Report and Order, including this FRFA, in a report to be sent to Congress pursuant to the Congressional Review Act. In addition, the Commission will send a copy of the Report and Order, including this FRFA, to the Chief Counsel for Advocacy of the SBA. A copy of the Report and Order and FRFA (or summaries thereof) will also be published in the Federal Register.

II. Ordering Clauses

42. Accordingly, it is ordered that, pursuant to section 8 of the Communications Act of 1934, as amended, 47 U.S.C. 158, this Report and Order is hereby adopted.

43. It is further ordered that the Motion for Extension of Time filed by Richard Golden is denied.

44. It is further ordered that Commission's rules are amended as set forth in in the back of this summary, and such rule amendments shall be effective 30 days after the date of publication in the Federal Register, except for §§ 1.1102, 1.1103, 1.1104, 1.1105, 1.1106, 1.1107, and 1.1109, which require notice to Congress and also require certain updates to the FCC's information technology systems and internal procedures to ensure efficient and effective implementation. Sections 1.1102, 1.1103, 1.1104, 1.1105, 1.1106, 1.1107, and 1.1109 will not take effect until the requisite notice has been provided to Congress, the FCC's information technology systems and internal procedures have been updated, and the Commission publishes notice(s) in the Federal Register announcing the effective date of such rules.

45. It is further ordered that the Commission's Consumer and Governmental Affairs Bureau, Reference Information Center, shall send a copy of this Report and Order, including the Final Regulatory Flexibility Analysis, to the Chief Counsel for Advocacy of the Small Business Administration.

List of Subjects in 47 CFR Part 1

Administrative practice and procedure.

Federal Communications Commission.
Marlene Dortch,
Secretary.

Final Rules

Part 1 of Title 47 of the Code of Federal Regulations is amended to read as follows:

PART 1—PRACTICE AND PROCEDURE

1. The authority citation for part 1 continues to read as follows:

Authority: 47 U.S.C. chs. 2, 5, 9, 13; 28 U.S.C. 2461, unless otherwise noted.

2. Amend § 1.767 by revising paragraph (e) to read as follows:

§ 1.767 Cable landing licenses.

* * * * *

(e) A separate application shall be filed with respect to each individual cable system for which a license is requested or a modification of the cable system, renewal, or extension of an existing license is requested. Applicants for common carrier cable landing licenses shall also separately file an international section 214 authorization for overseas cable construction.

* * * * *

3. Revise § 1.1101 to read as follows:

§ 1.1101 Authority.

Authority to impose and collect these charges is contained in section 8 of the Communications Act, as amended by sections 102 and 103 of title I of the Consolidated Appropriations Act of 2018 (Pub. L. 115-141, 132 Stat. 1084), 47 U.S.C. 158, which directs the Commission to assess and collect application fees to recover the costs of the Commission to process applications.

4. Revise § 1.1102 to read as follows:

§ 1.1102 Schedule of charges for applications and other filings in the wireless telecommunications services.

(a) In tables to this section, the amounts appearing in the column labeled “Fee Amount” are for application fees only. Certain services, as indicated in the table below, also have associated regulatory fees that must be paid at the same time the application fee is paid. For more information on the associated regulatory fees, please refer to the most recent Wireless Telecommunications Bureau Fee Filing Guide for the corresponding regulatory fee amount located at https://www.fcc.gov/licensing-databases/fees/application-processing-fees. For additional guidance, please refer to § 1.1152 of this chapter. Application fee payments can be made electronically using the Commission's Universal Licensing System (ULS). Remit manual filings and/or payments for these services to: Federal Communications Commission, Wireless Bureau Applications, P.O. Box 979097, St. Louis, MO 63197-9000.

(b) Site-based licensed services are services for which an applicant's initial application for authorization generally provides the exact technical parameters of its planned operations (such as transmitter location, area of operation, desired frequency(s)/band(s), power levels). Site-based licensed services include land mobile systems (one or more base stations communicating with mobile devices, or mobile-only systems), point-to-point systems (two stations using a spectrum band to form a data communications path), point-to-multipoint systems (one or more base stations that communicate with fixed remote units), as well as radiolocation and radionavigation systems. Examples of these licenses include, but are not limited to, the Industrial/Business Pool, Trunked licenses and Microwave Industrial/Business Pool licenses.

Table 1 to Paragraph (b)
Site-based license applications | New fee
New license, major modification | $95.
Extension Requests | $50.
Special temporary authority | $135.
Assignment/transfer of control, initial call sign | $50.
Assignment/transfer of control, each subsequent call sign, fee capped at 10 total call signs per application | $35.
Rule waivers associated with applications for assignment/transfer of control, per transaction, assessed on the lead application | $380.
Rule waiver not associated with an application for assignment/transfer of control | $380.
Renewal | $35.
Spectrum leasing | $35.
Maritime, Aviation, Microwave, Land Mobile, and Rural Radio | Please refer to the Wireless Telecommunications Bureau Fee Filing Guide for Information on the payment of an associated regulatory fee.

(c) Personal licenses authorize shared use of certain spectrum bands or provide a required permit for operation of certain radio equipment. In either case, personal licenses focus only on eligibility and do not require technical review. Examples of these licenses include, but are not limited to, Amateur Radio Service licenses (used for recreational, noncommercial radio services), Ship licenses (used to operate all manner of ships), Aircraft licenses (used to operate all manner of aircraft), Commercial Radio Operator licenses (permits for ship and aircraft station operators, where required), General Mobile Radio Service (GMRS) licenses (used for short-distance, two-way voice communications using hand-held radios, as well as for short data messaging applications), Vanity, and Restricted Operator licenses.

Table 2 to Paragraph (c)
Personal license application | New fee
New license, modification | $35.
Special temporary authority | $35.
Rule waiver | $35.
Renewal | $35.
Vanity Call Sign (Amateur Radio Service) | $35.
Marine (Ship), Aviation (Aircraft), and GMRS | Please refer to the Wireless Telecommunications Bureau Fee Filing Guide for Information on the payment of an associated regulatory fee.

(d) Geographic-based licenses authorize an applicant to construct anywhere within a particular geographic area's boundary (subject to certain technical requirements, including interference protection) and generally do not require applicants to submit additional applications for prior Commission approval of specific transmitter locations. Examples of these licenses include, but are not limited to, the 220-222 MHz Service licenses, Upper Microwave Flexible Use Service licenses, 600 MHz Band Service licenses, and 700 MHz Lower Band Service licenses.

Table 3 to Paragraph (d)
Geographic-based license applications | New fee
New License (other than Auctioned Licenses), Major Modification | $305.
New License (Auctioned Licenses, Post-Auction Consolidated Long-Form and Short-Form Fee) (per application; NOT per call sign) | $3,175.
Renewal | $50.
Minor Modification | $200.
Construction Notification/Extensions | $290.
Special Temporary Authority | $335.
Assignment/Transfer of Control, initial call sign | $195.
Assignment/Transfer of Control, subsequent call sign | $35.
Spectrum Leasing | $165.
Rule waivers associated with applications for assignment/transfer of control, per transaction, assessed on the lead application | $380.
Rule waiver not associated with an application for assignment/transfer of control | $380.
Designated Entity Licensee Reportable Eligibility Event | $50.
Maritime, Microwave, Land Mobile, 218-219 MHz | Please refer to the Wireless Telecommunications Bureau Fee Filing Guide for information on the payment of an associated regulatory fee.

5. Amend § 1.1103 by revising the section heading and the table to read as follows:

§ 1.1103 Schedule of charges for experimental radio services.

* * * * *

Table 1 to § 1.1103
| New fee
Experimental License Application, per Call Sign:
New Station Authorization | $125
Modification of Authorization | 125
Renewal of Station Authorization | 125
Assignment of License or Transfer of Control | 125
Special Temporary Authority | 125
Confidentiality Request | 50
Equipment Approval Applications:
Assignment of Grantee Code | 35

6. Amend § 1.1104 by revising the table to read as follows:

§ 1.1104 Schedule of charges for applications and other filings for media services.

* * * * *

Table 1 to § 1.1104
| New fee
Application for Full Power and Class A TV:
Full Power TV, Class A TV, new and major change construction permit | $4,260 (if no auction). $4,835 (if auction—includes Post-Auction Consolidated Long Form and Short Form Fee).
Full Power TV, minor modification construction permit | $1,335.
Full Power TV, Class A TV, new license | $380.
Full Power TV, Class A TV, license renewal | $330.
Full Power TV, Class A TV, license assignment, long form | $1,245.
Full Power TV, Class A TV, license assignment, short form | $405.
Full Power TV, Class A TV, transfer of control, long form | $1,245.
Full Power TV, Class A TV, transfer of control, short form | $405.
Full Power TV, Class A TV, call sign | $170.
Full Power TV, Class A TV, STA | $270.
Full Power TV, petition for rulemaking | $3,395.
Full Power TV, ownership report | $85.
Application for TV translator and LPTV:
TV translator and LPTV, new or major change construction permit | $775 (if no auction). $1,350 (if auction—includes Consolidated Long Form and Short Form Fee).
TV translator and LPTV, new license | $215.
TV translator and LPTV, license renewal | $145.
TV translator and LPTV, STA | $270.
TV translator and LPTV, license assignment | $335.
TV translator and LPTV, transfer of control | $335.
TV translator and LPTV, call sign | $170.
Application for Cable Television and CARS License:
Cable television, CARS license | $450.
Cable television, CARS license modification, major | $345.
Cable television, CARS license modification, minor | $50.
Cable television, CARS license renewal | $260.
Cable television, CARS, license assignment | $365.
Cable television, CARS, transfer of control | $465.
Cable television, CARS, STA | $225.
Cable television, special relief petition | $1,615.
Cable television, CARS license, registration statement | $105.
Cable television, multichannel video programming distributor (MVPD) aeronautical frequency usage notification | $90.
Application for Commercial AM Stations:
AM radio new or major change construction permit | $3,980 (if no auction). $4,555 (if auction—includes Consolidated Long Form and Short Form Fee).
AM radio, minor modification construction permit | $1,625.
AM radio, new license | $645.
AM radio, directional antenna | $1,260.
AM radio, license renewal | $325.
AM radio, license assignment, long-form | $1,005.
AM radio, license assignment, short-form | $425.
AM radio, transfer of control, long-form | $1,005.
AM radio, transfer of control, short-form | $425.
AM radio, call sign | $170.
AM radio, STA | $290.
AM radio, ownership report | $85.
Application for Commercial FM Stations:
FM radio new or major change construction permit | $3,295 (if no auction). $3,870 (if auction—includes Consolidated Long Form and Short Form Fee).
FM radio, minor modification construction permit | $1,265.
FM radio, new license | $235.
FM radio, directional antenna | $630.
FM radio, license renewal | $325.
FM radio, license assignment, long-form | $1,005.
FM radio, license assignment, short-form | $425.
FM radio, transfer of control, long-form | $1,005.
FM radio, transfer of control, short-form | $425.
FM radio, call sign | $170.
FM radio, STA | $210.
FM radio, petition for rulemaking | $3,180.
FM radio, ownership report | $85.
Application for FM Translators:
FM translator new or major change construction permit | $705. $1,280 (if auction—includes Consolidated Long Form and Short Form Fee).
FM translator, minor modification construction permit | $210.
FM translator, new license | $180.
FM translator and booster, license renewal | $175.
FM translator and booster, STA | $170.
FM translator, license assignment | $290.
FM translator, transfer of control | $290.
FM booster, new or major change construction permit | $705.
FM booster, new license fee | $180.
FM booster, STA | $170.
Application for Section 310(b)(4) Foreign Ownership Petition:
Section 310(b)(4) Foreign Ownership Petition (separate and additional to fee required for underlying application, if any). | $2,485.

7. Amend § 1.1105 by revising the table to read as follows:

§ 1.1105 Schedule of charges for applications and other filings for the wireline competition services.

* * * * *

Table 1 to § 1.1105
Application | New fee
Domestic 214 Applications—Part 63 Transfers of Control | $1,230
Domestic 214 Applications—Special Temporary Authority | 675
Domestic 214 Applications—Part 63 Discontinuances (Non-Standard Review) (Technology Transition Filings Subject To Section 63.71(f)(2)(i) or Not Subject To Streamlined Automatic Grant, and Filings From Dominant Carriers Subject To 60-Day Automatic Grant) | 1,230
Domestic 214 Applications—Part 63 Discontinuances (Standard Streamlined Review) (All Other Domestic 214 Discontinuance Filings) | 335
VoIP Numbering | 1,330
Standard Tariff Filing | 930
Complex Tariff Filing (annual access charge tariffs, new or restructured rate plans) (Large—all price cap LECs and entities involving more than 100 LECs) | 6,540
Complex Tariff Filing (annual access charge tariffs, new or restructured rate plans) (Small—other entities) | 3,270
Application for Special Permission for Waiver of Tariff Rules | 375
Waiver of Accounting Rules | 4,415
Universal Service Fund Auction (combined long-form and short-form fee, paid only by winning bidder) | 2,965

8. Amend § 1.1106 by revising the section heading and table to read as follows:

§ 1.1106 Schedule of charges for applications and other filings for the enforcement services.

* * * * *

Table 1 to § 1.1106
Application | New fee
Formal Complaints and Pole Attachment Complaints | $540
Petitions Regarding Law Enforcement Assistance Capability under CALEA | 6,945

9. Amend § 1.1107 by revising the table to read as follows:

§ 1.1107 Schedule of charges for applications and other filings for international services.

* * * * *

Table 1 to § 1.1107
| New fee
Cable Landing License, per Application:
New License | $3,835.
Assignment/Transfer of Control | $1,230.
Pro Forma Assignment/Transfer of Control | $400.
Foreign Carrier Affiliation Notification | 495.
Modification | $1,230.
Renewal | $2,440.
Special Temporary Authority | $675.
Waiver | $335.
International Section 214 Authorization, per Application:
New Authorization | $785.
Assignment/transfer of control | $1,230.
Pro forma Assignment/transfer of control | $400.
Foreign Carrier Affiliation Notification | $495.
Modification | $675.
Special Temporary Authority | $675.
Waiver | $335.
Discontinuance of services | $335.
Section 310(b) Foreign Ownership, per Application:
Petition for Declaratory Ruling | $2,485.
Waiver | $335.
Recognized Operating Agency per Application:
Application for ROA Status | $1,145.
Waiver | $335.
Data Network Identification Code (DNIC), per Application:
New DNIC | $785.
Waiver | $335.
International Signaling Point Code (ISPC), per Application:
New ISPC | $785.
Transfer of Control | $675.
Modification | $675.
Waiver | $335.
Satellite Earth Station Applications:
Fixed or Temporary Fixed Transmit or Transmit/Receive Earth Stations, per Call Sign:
Initial application, single site | $360.
Initial application, multiple sites | $6,515.
Receive Only Earth Stations License or Registration, per Call Sign or Registration:
Initial application or registration, single site | $175.
Initial application or registration, multiple sites, per system | $465.
Initial application for Blanket Earth Stations, per Call Sign | $360.
Mobile Earth Stations Applications, per Call Sign:
Initial Application for Blanket Authorization, per system, per Call Sign | $815.
Amendments to Earth Station Applications or Registrations per Call Sign:
Single Site | $430.
Multiple Sites | $630.
Earth Stations, Other Applications:
Applications for Modification of Earth Station Licenses or Registrations, per Call Sign | $545.
Assignment or Transfer of Control of Earth Station Licenses or Registrations, per Call Sign | $745 (first call sign). $400 (for each additional call sign).
Pro Forma Assignment or Transfer of Control of Earth Station Licenses or Registrations, per Transaction | $400.
Earth Station Renewals of Licenses, per Call Sign:
Single Site | $115.
Multiple Sites | $145.
Earth Station Requests for U.S. Market Access for Non-U.S. Licensed Space Stations | See Space Stations.
Satellite Space Station Applications:
Space Stations, Geostationary Orbit:
Application for Authority to Construct, Deploy, and Operate, per satellite | $3,555.
Application for Authority to Operate, per satellite | $3,555.
Space Stations, Non-Geostationary Orbit:
Application for Authority to Construct, Deploy, and Operate, per system of technically identical satellites, per Call Sign | $15,050.
Application for Authority to Operate, per system of technically identical satellites, per Call Sign | $15,050.
Space Stations, Petition for Declaratory Ruling for Foreign-Licensed Space Station to Access the U.S. Market:
Geostationary Orbit, per Call Sign | $3,555.
Non-Geostationary Orbit, per Call Sign | $15,050.
Small Satellites, per Call Sign | $2,175.
Space Stations, Small Satellites, or Small Spacecraft:
Application to Construct, Deploy, and Operate, per Call Sign | $2,175.
Other Applications for Space Stations:
Space Stations, Amendments, per Call Sign | $1,620.
Space Stations, Modifications, per Call Sign | $2,495.
Space Stations, Assignment or Transfer of Control, per Call Sign | $745 (first call sign). $400 (for each additional call sign).
Space Stations, Pro Forma Assignment or Transfer of Control, per transaction | $400.
Space Stations, Special Temporary Authority, per Call Sign | $1,435.
Unified Space Station and Earth Station Initial Application, Amendment, and Modification:
Unified Space Station and Earth Station Initial Application, Amendment, and Modification | Applicable Space Station Fee + Applicable Earth Station Fee.
International Broadcast Stations (IBS) Applications:
New Construction Permit | $4,010.
Construction Permit Modification | $4,010.
New License | $905.
License Renewal | $230.
Frequency Assignment | $80.
Transfer of Control | $595.
Special Temporary Authority | $395.
Permit to Deliver Programs to Foreign Broadcast Stations under Section 325(c) Applications:
New License | $360.
License Modification | $185.
License Renewal | $155.
Special Temporary Authority | $155.
Transfer of Control | $260.

§ 1.1116 [Amended]

10. Amend § 1.1116 by removing paragraph (e)(4).

[FR Doc. 2021-03042 Filed 3-18-21; 8:45 am]

BILLING CODE 6712-01-P